DEPARTMENT OF STATE

[I.D. 010705D]

Office of Oceans Affairs; New Conservation Measures for Antarctic Fishing Under the Auspices of CCAMLR

AGENCY: Office of Oceans Affairs, Department of State.

ACTION: Notice.

SUMMARY: At its Twenty-Third Meeting in Hobart, Tasmania, from October 25 to November 5, 2004, the Commission for the Conservation of Antarctic Marine Living Resources (CCAMLR), of which the United States is a member, adopted conservation measures, pending countries' approval, pertaining to fishing in the CCAMLR Convention Area. All the measures were agreed upon in accordance with Article IX of the Convention for the Conservation of Antarctic Marine Living Resources. Measures adopted restrict overall catches of certain species of fish and crabs, restrict fishing in certain areas, specify implementation and inspection obligations supporting the Catch Documentation Scheme of Contracting Parties, and promote compliance with CCAMLR measures by non-Contracting Party vessels. This notice includes the full text of the conservation measures adopted at the Twenty-Third meeting of CCAMLR. For all of the conservation measures in force, see the CCAMLR Web site at http://www.ccamlr.org. This notice, therefore, together with the U.S. regulations referenced under the Supplementary Information, provides a comprehensive register of all current U.S. obligations under CCAMLR.

DATES: Persons wishing to comment on the measures or desiring more information should submit written comments by February 25, 2005.

FOR FURTHER INFORMATION CONTACT: Hunter H. Cashdollar, Office of Oceans Affairs (OES/OA), Room 5805, Department of State, Washington, DC 20520; tel: (202) 647-3947; fax: (202) 647-9099; e-mail: cashdollarhh@state.gov.

SUPPLEMENTARY INFORMATION: Individuals interested in CCAMLR should also see 15 CFR Chapter III—International Fishing and Related Activities, Part 300—International Fishing Regulations, Subpart A—General; Subpart B—High Seas Fisheries; and Subpart G—Antarctic Marine Living Resources, for other regulatory measures related to conservation and management in the CCAMLR Convention area. Subpart B notes the requirements for high seas fishing vessel licensing. Subparts A and G describe the process for regulating U.S. fishing in the CCAMLR Conventional area and contain the text of CCAMLR Conservation Measures that are not expected to change from year to year. The regulations in Subparts A and G include sections on: Purpose and scope; Definitions; Relationship to other treaties, conventions, laws and regulations; Procedure for according protection to CCAMLR Ecosystem Monitoring Program Sites; Scientific Research; Initiating a new fishery; Exploratory fisheries; Reporting and record keeping requirements; Vessel and gear identification; Gear disposal; Mesh Size; Harvesting permits; Import permits; Appointment of a designated representative; Prohibitions; Facilitation of enforcement and inspection; and Penalties.

The Commission agreed that the following conservation measures will remain in force in 2004/05: Compliance: 10-01 (1998), 10-03 (2002), and 10-07 (2003); General fishery matters: 21-01 (2002), 22-01 (1986), 22-02 (1984), 22-03 (1990), 23-02 (1993), 23-03 (1991), 23-04 (2000), 23-05 (2000), 24-01 (2003), 25-01 (1996), 25-02 (2003), and 25-03 (2003); Fishery Regulations: 31-01 (1986), 32-01 (2001), 32-02 (1998), 32-03 (1998), 32-04 (1986), 32-05 (1986), 32-06 (1985), 32-07 (1999), 32-08 (1997), 32-10 (2002), 32-11 (2002), 32-12 (1998), 32-13 (2003), 32-14 (2003), 32-15 (2003), 32-16 (2003), 32-17 (2003), 33-01 (1995), 41-03 (1999), 51-01 (2002), 51-02 (2002) and 51-03 (2002).

At its twenty-third meeting in Hobart, Tasmania, the Commission agreed that the following resolutions will remain in force in 2004/05: Resolutions 7/IX, 10/XII, 14/XIX, 15/XXII, 16/XIX, 17/XX, 18/XXI, 19/XXI AND 20/XXII.

New and Revised Conservation Measures. The Commission revised the following conservation measures at its twenty-third meeting: Compliance: 10-02 (2001), 10-04 (2002), 10-05 (2003), 10-06 (2002); General Fishery Matters: 21-02 (2002), 23-01 (2003), 23-06 (2002), and 24-02 (2003); Protected Areas: 90-01 (2000), 91-02 (2000), and 91-03 (2000).

In addition, twenty-nine Conservation Measures and three Resolutions were adopted at the twenty-third meeting: (For further information, see the CCAMLR Web site at http://www.ccamlr.org under Publications for the Schedule of Conservation Measures in Force (2004/2005), or contact the Commission at the CCAMLR Secretariat, PO Box 213, North Hobart, Tasmania 7002, Australia. Tel: (61) 3-6234-9965.)

Conservation Measures and Resolutions Adopted at CCAMLR-XXIII

Conservation Measure 10-02 (2004) 1 2

Licensing and Inspection Obligations of Contracting Parties With Regard to Their Flag Vessels Operating in the Convention Area

Species all

Area all

Season all

Gear all

1. Each Contracting Party shall prohibit fishing by its flag vessels in the Convention Area except pursuant to a licence ³ that the Contracting Party has issued setting forth the specific areas, species and time periods for which such fishing is authorised and all other specific conditions to which the fishing is subject to give effect to CCAMLR conservation measures and requirements under the Convention.

2. A Contracting Party may only issue such a licence to fish in the Convention Area to vessels flying its flag, if it is satisfied of its ability to exercise its responsibilities under the Convention and its conservation measures, by requiring from each vessel, inter alia, the following:

(i) Timely notification by the vessel to its Flag State of exit from and entry into any port;

(ii) Notification by the vessel to its Flag State of entry into the Convention Area and movement between areas, subareas/divisions;

(iii) Reporting by the vessel of catch data in accordance with CCAMLR requirements;

(iv) Operation of a VMS system on board the vessel in accordance with Conservation Measure 10-04.

3. Each Contracting Party shall provide to the Secretariat within seven days of the issuance of each licence the following information about licences issued:

• Name of the vessel

• Time periods authorised for fishing (start and end dates)

• Area(s) of fishing

• Species targeted

• Gear used.

4. From 1 August 2005, each Contracting Party shall provide to the Secretariat within seven days of the issuance of each licence the following information about licences issued:

(i) Name of fishing vessel (any previous names if known), ⁴ registration number, ⁵IMO number (if issued), external markings and port of registry;

(ii) The nature of the authorisation to fish granted by the Flag State, specifying time periods authorised for fishing (start and end dates), area(s) of fishing, species targeted and gear used;

(iii) Previous flag (if any); ⁴

(iv) International Radio Call Sign;

(v) Name and address of vessel's owner(s), and any beneficial owner(s) if known;

(vi) Name and address of licence owner (if different from vessel owner(s));

(vii) Type of vessel;

(viii) Where and when built;

(ix) Length (m);

(x) Colour photographs of the vessel which shall consist of:

• One photograph not smaller than 12 × 7 cm showing the starboard side of the vessel displaying its full overall length and complete structural features;

• One photograph not smaller than 12 × 7 cm showing the port side of the vessel displaying its full overall length and complete structural features;

• One photograph not smaller than 12 × 7 cm showing the stern taken directly from astern;

(xi) Where applicable, in accordance with Conservation Measure 10-04, details of the implementation of the tamper-proof requirements of the satellite monitoring device installed on board.

5. From 1 August 2005, each Contracting Party shall, to the extent practicable, also provide to the Secretariat at the same time as submitting information in accordance with paragraph 4, the following additional information in respect to each fishing vessel licensed:

(i) Name and address of operator, if different from vessel owners;

(ii) Names and nationality of master and, where relevant, of fishing master;

(iii) Type of fishing method or methods;

(iv) Beam (m);

(v) Gross registered tonnage;

(vi) Vessel communication types and numbers (INMARSAT A, B and C numbers);

(vii) Normal crew complement;

(viii) Power of main engine or engines (kW);

(ix) Carrying capacity (tonnes), number of fish holds and their capacity (m³);

(x) Any other information in respect of each licensed vessel they consider appropriate (e.g. ice classification) for the purposes of the implementation of the conservation measures adopted by the Commission.

6. Contracting Parties shall communicate without delay to the Secretariat any change to any of the information submitted in accordance with paragraphs 3, 4 and 5.

7. The Executive Secretary shall place a list of licensed vessels on the CCAMLR Web site.

8. The licence or an authorised copy of the licence must be carried by the fishing vessel and must be available for inspection at any time by a designated CCAMLR inspector in the Convention Area.

9. Each Contracting Party shall verify, through inspections of all of its fishing vessels at the Party's departure and arrival ports, and where appropriate, in its Exclusive Economic Zone, their compliance with the conditions of the licence as described in paragraph 1 and with the CCAMLR conservation measures. In the event that there is evidence that the vessel has not fished in accordance with the conditions of its licence, the Contracting Party shall investigate the infringement and, if necessary, apply appropriate sanctions in accordance with its national legislation.

10. Each Contracting Party shall include in its annual report pursuant to paragraph 12 of the CCAMLR System of Inspection, steps it has taken to implement and apply this conservation measure; and may include additional measures it may have taken in relation to its flag vessels to promote the effectiveness of CCAMLR conservation measures.

¹ Except for waters adjacent to the Kerguelen and Crozet Islands.

² Except for waters adjacent to the Prince Edward Islands.

³ Includes permit and authorisation.

⁴ In respect of any vessel reflagged within the previous 12 months, any information on the details of the process of (reasons for) previous deregistration of the vessel from other registries, if known.

⁵ National registry number.

Conservation Measure 10-04 (2004)

Automated Satellite-Linked Vessel Monitoring Systems (VMS)

Species all except krill

Area all

Season all

Gear all

The Commission, Recognising that in order to promote the objectives of the Convention and further improve compliance with the relevant conservation measures,

Convinced that illegal, unreported and unregulated (IUU) fishing compromises the objective of the Convention,

Recalling that Contracting Parties are required to cooperate in taking appropriate action to deter any fishing activities which are not consistent with the objective of the Convention,

Mindful of the rights and obligations of Flag States and Port States to promote the effectiveness of conservation measures,

Wanting to reinforce the conservation measures already adopted by the Commission,

Recognising the obligations and responsibilities of Contracting Parties under the Catch Documentation Scheme for Dissostichus spp. (CDS),

Recalling provisions as made under Article XXIV of the Convention,

Committed to take steps, consistent with international law, to identify the origins of Dissostichus spp. entering the markets of Contracting Parties and to determine whether Dissostichus spp. harvested in the Convention Area that is imported into their territories was caught in a manner consistent with CCAMLR conservation measures, hereby adopts the following conservation measure in accordance with Article IX of the Convention:

1. Each Contracting Party shall ensure that its fishing vessels, licensed ¹ in accordance with Conservation Measure 10-02, are equipped with a satellite-linked vessel monitoring device allowing for the continuous reporting of their position in the Convention Area for the duration of the licence issued by the Flag State. The vessel monitoring device shall automatically communicate at least every four hours to a land-based fisheries monitoring centre (FMC) of the Flag State of the vessel the following data:

(i) Fishing vessel identification;

(ii) The current geographical position (latitude and longitude) of the vessel, with a position error which shall be less than 500 m, with a confidence interval of 99%;

(iii) The date and time (expressed in UTC) of the fixing of the said position of the vessel;

(iv) The speed and course of the vessel.

2. The implementation of vessel monitoring device(s) on vessels while participating only in a krill fishery is not currently required.

3. Each Contracting Party as a Flag State shall ensure that the vessel monitoring device(s) on board its vessels are tamper proof, i.e. are of a type and configuration that prevent the input or output of false positions, and that are not capable of being over-ridden, whether manually, electronically or otherwise. To this end, the on-board satellite monitoring device must:

(i) Be located within a sealed unit;

(ii) Be protected by official seals (or mechanisms) of a type that indicate whether the unit has been accessed or tampered with.

4. In the event that a Contracting Party has information to suspect that an on-board vessel monitoring device does not meet the requirements of paragraph 3, or has been tampered with, it shall immediately notify the Secretariat and the vessel's Flag State.

5. Each Contracting Party shall ensure that its FMC receives Vessel Monitoring System (VMS) reports and messages, and that the FMC is equipped with computer hardware and software enabling automatic data processing and electronic data transmission. Each Contracting Party shall provide for backup and recovery procedures in case of system failures.

6. Masters and owners/licensees of fishing vessels subject to VMS shall ensure that the vessel monitoring device on board their vessels within the Convention Area is at all times fully operational as per paragraph 1, and that the data are transmitted to the Flag State. Masters and owners/licensees shall in particular ensure that:

(i) VMS reports and messages are not altered in any way;

(ii) The antennae connected to the satellite monitoring device are not obstructed in any way;

(iii) The power supply of the satellite monitoring device is not interrupted in any way;

(iv) The vessel monitoring device is not removed from the vessel.

7. A vessel monitoring device shall be active within the Convention Area. It may, however, be switched off when the fishing vessel is in port for a period of more than one week, subject to prior notification to the Flag State, and if the Flag State so desires also to the Secretariat, and providing that the first position report generated following the repowering (activating) shows that the fishing vessel has not changed position compared to the last report.

8. In the event of a technical failure or non-functioning of the vessel monitoring device on board the fishing vessel, the master or the owner of the vessel, or their representative, shall communicate to the Flag State every six hours, and if the Flag State so desires also to the Secretariat, starting at the time that the failure or the non-functioning was detected or notified in accordance with paragraph 13, the up-to-date geographical position of the vessel by electronic means (e-mail, facsimile, telex, telephone message, radio).

9. Vessels with a defective vessel monitoring device shall take immediate steps to have the device repaired or replaced as soon as possible and, in any event, within two months. If the vessel during that time returns to port, it shall not be allowed by the Flag State to commence a further fishing trip in the Convention Area without having the defective device repaired or replaced.

10. When the Flag State has not received for 12 hours data transmissions referred to in paragraphs 1 and 8, or has reasons to doubt the correctness of the data transmissions under paragraphs 1 and 8, it shall as soon as possible notify the master or the owner or the representative thereof. If this situation occurs more than two times within a period of one year in respect of a particular vessel, the Flag State of the vessel shall investigate the matter, including having an authorised official check the device in question, in order to establish whether the equipment has been tampered with. The outcome of this investigation shall be forwarded to the CCAMLR Secretariat within 30 days of its completion.

11. Each Contracting Party shall forward VMS reports and messages received, pursuant to paragraph 1, to the CCAMLR Secretariat as soon as possible: 2, 3

(i) But not later than four hours after receipt for those exploratory longline fisheries subject to conservation measures adopted at CCAMLR-XXIII; or

(ii) Following departure from the Convention Area for all other fisheries.

12. Without prejudice to its responsibilities as a Flag State, if the Contracting Party so desires, it shall ensure that each of its vessels communicates the reports referred to in paragraph 11 in parallel to the CCAMLR Secretariat.

13. With regard to paragraphs 8 and 11(i), each Contracting Party shall, as soon as possible but no later than two working days following detection or notification of technical failure or non-functioning of the vessel monitoring device on board the fishing vessel, forward the geographical positions of the vessel to the Secretariat, or shall ensure that these positions are forwarded to the Secretariat by the master or the owner of the vessel, or their representative.

14. Each Flag State shall ensure that VMS reports and messages transmitted by the Contracting Party or its fishing vessels to the CCAMLR Secretariat, are in a computer-readable form in the data exchange format set out in Annex 10-04/A.

15. Each Flag State shall in addition notify the CCAMLR Secretariat as soon as possible of each entry to and exit from the Convention Area by each of its fishing vessels in the format outlined in Annex 10-04/A.

16. Each Flag State shall notify the name, address, e-mail, telephone and facsimile numbers, as well as the address of electronic communication of the relevant authorities of their FMC to the CCAMLR Secretariat before 1 January 2005 and thereafter any changes without delay.

17. In the event that the CCAMLR Secretariat has not, for 48 consecutive hours, received the data transmissions referred to in paragraph 11(i), it shall promptly notify the Flag State of the vessel and require an explanation. The CCAMLR Secretariat shall promptly inform the Commission if the data transmissions at issue, or the Flag State explanation, are not received from the Contracting Party within a further five working days.

18. The CCAMLR Secretariat and all Parties receiving data shall treat all VMS reports and messages received under paragraph 11 or paragraphs 19, 20, 21 or 22 in a confidential manner in accordance with the confidentiality rules established by the Commission as contained in Annex 10-04/B. Data from individual vessels shall be used for compliance purposes only, namely for:

(i) Active surveillance presence, and/or inspections by a Contracting Party in a specified CCAMLR subarea or division; or

(ii) The purposes of verifying the content of a Dissostichus Catch Document (DCD).

19. The CCAMLR Secretariat shall place a list of vessels submitting VMS reports and messages pursuant to this conservation measure on a password-protected section of the CCAMLR Web site. This list shall be divided into subareas and divisions, without indicating the exact positions of vessels, and be updated when a vessel changes subarea or division. The list shall be posted daily by the Secretariat, establishing an electronic archive.

20. VMS reports and messages (including vessel locations), for the purposes of paragraph 18(i) above, may be provided by the Secretariat to a Contracting Party other than the Flag State without the permission of the Flag State only during active surveillance, and/or inspection in accordance with the CCAMLR System of Inspection and according to the time frames set out in paragraph 11. In this case, the Secretariat shall provide VMS reports and messages, including vessel locations over the previous 10 days, for vessels actually detected during surveillance, and/or inspection by a Contracting Party, and VMS reports and messages (including vessel locations) for all vessels within 100 n miles of that same location. The Flag State(s) concerned shall be provided by the Party conducting the active surveillance, and/or inspection, with a report including name of the vessel or aircraft on active surveillance, and/or inspection under the CCAMLR System of Inspection, and the full name(s) of the CCAMLR inspector(s) and their ID number(s). The Parties conducting the active surveillance, and/or inspection will make every reasonable effort to make this information available to the Flag State(s) as soon as possible.

21. A Party may contact the Secretariat prior to conducting active surveillance, and/or inspection in accordance with the CCAMLR System of Inspection, in a given area and request VMS reports and messages (including vessel locations), for vessels in that area. The Secretariat shall provide this information only with the permission of the Flag State for each of the vessels and according to the time frames set out in paragraph 11. On receipt of Flag State permission the Secretariat shall provide regular updates of positions to the Contracting Party for the duration of the active surveillance, and/or inspection in accordance with the CCAMLR System of Inspection.

22. A Contracting Party may request actual VMS reports and messages (including vessel locations) from the Secretariat for a vessel when verifying the claims on a DCD. In this case the Secretariat shall provide that data only with Flag State permission.

23. The CCAMLR Secretariat shall annually, before 30 September, report on the implementation of and compliance with this conservation measure to the Commission.

¹ Includes vessels licensed under French domestic law and vessels licensed under South African domestic law.

² This paragraph does not apply to vessels licensed under French domestic law in the EEZs surrounding Kerguelen and Crozet Islands.

³ This paragraph does not apply to vessels licensed under South African domestic law in the EEZs surrounding Prince Edward Islands.

Annex 10-04/A

VMS Data Format

‘Position’, ‘Exit’ and ‘Entry’ Reports/Messages

Data element Field code.

Mandatory/Optional Remarks.

Start record SR M System detail; indicates start of record.

Address AD M Message detail; destination; ‘XCA’ for CCAMLR.

Sequence number SQ M ¹ Message detail; message serial number in current year.

Type of message TM ² M Message detail; message type, ‘POS’ as position report/message to be communicated by VMS or other means by vessels with a defective satellite tracking device.

Radio call sign RC M Vessel registration detail; international radio call sign of the vessel.

Trip number TN O Activity detail; fishing trip serial number in current year.

Vessel name NA M Vessel registration detail; name of the vessel.

Contracting Party internal reference number IR O Vessel registration detail. Unique Contracting Party vessel number as ISO-3 Flag State code followed by number.

External registration number XR O Vessel registration detail; the side number of the vessel.

Latitude LA M ³ Activity detail; position.

Longitude LO M ³ Activity detail; position.

Latitude (decimal) LT M ⁴ Activity detail; position.

Longitude (decimal) LG M ⁴ Activity detail; position.

Date DA M Message detail; position date.

Time TI M Message detail; position time in UTC.

End of record ER M System detail; indicates end of the record.

¹ Optional in case of a VMS message.

² Type of message shall be ‘ENT’ for the first VMS message from the Convention Area as detected by the FMC of the Contracting Party, or as directly submitted by the vessel. Type of message shall be ‘EXI’ for the first VMS message from outside the Convention Area as detected by the FMC of the Contracting Party or as directly submitted by the vessel, and the values for latitude and Longitude are, in this type of message, optional. Type of message shall be ‘MAN’ for reports communicated by vessels with a defective satellite tracking device.

³ Mandatory for manual messages.

⁴ Mandatory for VMS messages.

Annex 10-04/B

Provisions on Secure and Confidential Treatment of Electronic Reports and Messages Transmitted Pursuant to Conservation Measure 10-04

1. Field of Application

1.1 The provisions set out below shall apply to all VMS reports and messages transmitted and received pursuant to Conservation Measure 10-04.

2. General Provisions

2.1 The CCAMLR Secretariat and the appropriate authorities of Contracting Parties transmitting and receiving VMS reports and messages shall take all necessary measures to comply with the security and confidentiality provisions set out in sections 3 and 4.

2.2 The CCAMLR Secretariat shall inform all Contracting Parties of the measures taken in the Secretariat to comply with these security and confidentiality provisions.

2.3 The CCAMLR Secretariat shall take all the necessary steps to ensure that the requirements pertaining to the deletion of VMS reports and messages handled by the Secretariat are complied with.

2.4 Each Contracting Party shall guarantee the CCAMLR Secretariat the right to obtain as appropriate, the rectification of reports and messages or the erasure of VMS reports and messages, the processing of which does not comply with the provisions of Conservation Measure 10-04.

3. Provisions on Confidentiality

3.1 All requests for data must be made to the CCAMLR Secretariat in writing.

3.2 In cases where the CCAMLR Secretariat is required to seek the permission of the Flag State before releasing VMS reports and messages to another Party, the Flag State shall respond to the Secretariat as soon as possible but in any case within two working days.

3.3 Where the Flag State chooses not to give permission for the release of VMS reports and messages, the Flag State shall, in each instance, provide a written report within 10 working days to the Commission outlining the reasons why it chooses not to permit data to be released. The CCAMLR Secretariat shall place any report so provided, or notice that no report was received, on a password-protected part of the CCAMLR Web site.

3.4 VMS reports and messages shall only be released and used for the purposes stipulated in paragraph 18 of Conservation Measure 10-04.

3.5 VMS reports and messages released pursuant to paragraphs 20, 21 and 22 of Conservation Measure 10-04 shall provide details of: name of vessel, date and time of position report, and latitude and longitude position at time of report.

3.6 Regarding paragraph 21 each inspecting Contracting Party shall make available VMS reports and messages and positions derived therefrom only to their inspectors designated under the CCAMLR System of Inspection. VMS reports and messages shall be transmitted to their inspectors no more than 48 hours prior to entry into the CCAMLR, subarea or division where surveillance is to be conducted by the Contracting Party. Contracting Parties must ensure that VMS reports and messages are kept confidential by such inspectors.

3.7 The CCAMLR Secretariat shall delete all the original VMS reports and messages referred to in section 1 from the database at the CCAMLR Secretariat by the end of the first calendar month following the third year in which the VMS reports and messages have originated. Thereafter the information related to the catch and movement of the fishing vessels shall only be retained by the CCAMLR Secretariat, after measures have been taken to ensure that the identity of the individual vessels can no longer be established.

3.8 Contracting Parties may retain and store VMS reports and messages provided by the Secretariat for the purposes of active surveillance presence, and/or inspections, until 24 hours after the vessels to which the reports and messages pertain have departed from the CCAMLR subarea or division. Departure is deemed to have been effected six hours after the transmission of the intention to exit from the CCAMLR subarea or division.

4. Provisions on Security

4.1 Overview

4.1.1 Contracting Parties and the CCAMLR Secretariat shall ensure the secure treatment of VMS reports and messages in their respective electronic data processing facilities, in particular where the processing involves transmission over a network. Contracting Parties and the CCAMLR Secretariat must implement appropriate technical and organisational measures to protect reports and messages against accidental or unlawful destruction or accidental loss, alteration, unauthorised disclosure or access, and against all inappropriate forms of processing.

4.1.2 The following security issues must be addressed from the outset:

• System access control: The system has to withstand a break-in attempt from unauthorised persons.

• Authenticity and data access control: The system has to be able to limit the access of authorised parties to a predefined set of data only.

• Communication security: It shall be guaranteed that VMS reports and messages are securely communicated.

• Data security: It has to be guaranteed that all VMS reports and messages that enter the system are securely stored for the required time and that they will not be tampered with.

• Security procedures: Security procedures shall be designed addressing access to the system (both hardware and software), system administration and maintenance, backup and general usage of the system.

4.1.3 Having regard to the state of the art and the cost of their implementation, such measures shall ensure a level of security appropriate to the risks represented by the processing of the reports and the messages.

4.1.4 Security measures are described in more detail in the following paragraphs.

4.2 System Access Control

4.2.1 The following features are the mandatory requirements for the VMS installation located at the CCAMLR Data Centre:

• A stringent password and authentication system: each user of the system is assigned a unique user identification and associated password. Each time the user logs on to the system he/she has to provide the correct password. Even when successfully logged on the user only has access to those and only those functions and data that he/she is configured to have access to. Only a privileged user has access to all the data.

• Physical access to the computer system is controlled.

• Auditing: Selective recording of events for analysis and detection of security breaches.

• Time-based access control: access to the system can be specified in terms of times-of-day and days-of-week that each user is allowed to log on to the system.

• Terminal access control: Specifying for each workstation which users are allowed to access.

4.3 Authenticity and Data Access Security

4.3.1 Communication between Contracting Parties and the CCAMLR Secretariat for the purpose of Conservation Measure 10-04 shall use secure Internet protocols SSL, DES or verified certificates obtained from the CCAMLR Secretariat.

4.4 Data Security

4.4.1 Access limitation to the data shall be secured via a flexible user identification and password mechanism. Each user shall be given access only to the data necessary for his task.

4.5 Security Procedures

4.5.1 Each Contracting Party and the CCAMLR Secretariat shall nominate a security system administrator. The security system administrator shall review the log files generated by the software for which they are responsible, properly maintain the system security for which they are responsible, restrict access to the system for which they are responsible as deemed needed and in the case of Contracting Parties, also act as a liaison with the Secretariat in order to solve security matters.

Conservation Measure 10-05 (2004)

Catch Documentation Scheme for Dissostichus spp.

Species toothfish

Area all

Season all

Gear all

The Commission,

Concerned that illegal, unregulated and unreported (IUU) fishing for Dissostichus spp. in the Convention Area threatens serious depletion of populations of Dissostichus spp.,

Aware that IUU fishing involves significant by-catch of some Antarctic species, including endangered albatross,

Noting that IUU fishing is inconsistent with the objective of the Convention and undermines the effectiveness of CCAMLR conservation measures,

Underlining the responsibilities of Flag States to ensure that their vessels conduct their fishing activities in a responsible manner,

Mindful of the rights and obligations of Port States to promote the effectiveness of regional fishery conservation measures,

Aware that IUU fishing reflects the high value of, and resulting expansion in markets for and international trade in, Dissostichus spp.,

Recalling that Contracting Parties have agreed to introduce classification codes for Dissostichus spp. at a national level,

Recognising that the implementation of a Catch Documentation Scheme for Dissostichus spp. (CDS) will provide the Commission with essential information necessary to provide the precautionary management objectives of the Convention,

Committed to take steps, consistent with international law, to identify the origins of Dissostichus spp. entering the markets of Contracting Parties and to determine whether Dissostichus spp. harvested in the Convention Area that is imported into their territories was caught in a manner consistent with CCAMLR conservation measures,

Wishing to reinforce the conservation measures already adopted by the Commission with respect to Dissostichus spp.,

Inviting non-Contracting Parties whose vessels fish for Dissostichus spp. to participate in the CDS,

Hereby adopts the following conservation measure in accordance with Article IX of the Convention:

1. Each Contracting Party shall take steps to identify the origin of Dissostichus spp. imported into or exported from its territories and to determine whether Dissostichus spp. harvested in the Convention Area that is imported into or exported from its territories was caught in a manner consistent with CCAMLR conservation measures.

2. Each Contracting Party shall require that each master or authorised representative of its flag vessels authorised to engage in harvesting of Dissostichus eleginoides and/or Dissostichus mawsoni complete a Dissostichus catch document (DCD) for the catch landed or transhipped on each occasion that it lands or tranships Dissostichus spp.

3. Each Contracting Party shall require that each landing of Dissostichus spp. at its ports and each transhipment of Dissostichus spp. to its vessels be accompanied by a completed DCD. The landing of Dissostichus spp. without a catch document is prohibited.

4. Each Contracting Party shall, in accordance with their laws and regulations, require that their flag vessels which intend to harvest Dissostichus spp., including on the high seas outside the Convention Area, are provided with specific authorisation to do so. Each Contracting Party shall provide DCD forms to each of its flag vessels authorised to harvest Dissostichus spp. and only to those vessels.

5. A non-Contracting Party seeking to cooperate with CCAMLR by participating in this scheme may issue DCD forms, in accordance with the procedures specified in paragraphs 6 and 7, to any of its flag vessels that intend to harvest Dissostichus spp.

6. The DCD shall include the following information:

(i) The name, address, telephone and fax numbers of the issuing authority;

(ii) The name, home port, national registry number, and call sign of the vessel and, if issued, its IMO/Lloyd's registration number;

(iii) The reference number of the licence or permit, whichever is applicable, that is issued to the vessel;

(iv) The weight of each Dissostichus species landed or transhipped by product type, and

(a) By CCAMLR statistical subarea or division if caught in the Convention Area; and/or

(b) By FAO statistical area, subarea or division if caught outside the Convention Area;

(v) The dates within which the catch was taken;

(vi) The date and the port at which the catch was landed or the date and the vessel, its flag and national registry number, to which the catch was transhipped;

(vii) The name, address, telephone and fax numbers of the recipient(s) of the catch and the amount of each species and product type received.

7. Procedures for completing DCDs in respect of vessels are set forth in paragraphs A1 to A10 of Annex 10-05/A to this measure. The standard catch document is attached to the annex.

8. Each Contracting Party shall require that each shipment of Dissostichus spp. imported into or exported from its territory be accompanied by the export-validated DCD(s) and, where appropriate, validated re-export document(s) that account for all the Dissostichus spp. contained in the shipment. The import, export or re-export of Dissostichus spp. without a catch document is prohibited.

9. An export-validated DCD issued in respect of a vessel is one that:

(i) Includes all relevant information and signatures provided in accordance with paragraphs A1 to A11 of Annex 10-05/A to this measure;

(ii) Includes a signed and stamped certification by a responsible official of the exporting State of the accuracy of the information contained in the document.

10. Each Contracting Party shall ensure that its customs authorities or other appropriate officials request and examine the documentation of each shipment of Dissostichus spp. imported into or exported from its territory to verify that it includes the export-validated DCD(s) and, where appropriate, validated re-export document(s) that account for all the Dissostichus spp. contained in the shipment. These officials may also examine the content of any shipment to verify the information contained in the catch document or documents.

11. If, as a result of an examination referred to in paragraph 10 above, a question arises regarding the information contained in a DCD or a re-export document the exporting State whose national authority validated the document(s) and, as appropriate, the Flag State whose vessel completed the document are called on to cooperate with the importing State with a view to resolving such question.

12. Each Contracting Party shall promptly provide by the most rapid electronic means copies to the CCAMLR Secretariat of all export-validated DCDs and, where relevant, validated re-export documents that it issued from and received into its territory and shall report annually to the Secretariat data, drawn from such documents, on the origin and amount of Dissostichus spp. exported from and imported into its territory.

13. Each Contracting Party, and any non-Contracting Party that issues DCDs in respect of its flag vessels in accordance with paragraph 5, shall inform the CCAMLR Secretariat of the national authority or authorities (including names, addresses, phone and fax numbers and e-mail addresses) responsible for issuing and validating DCDs.

14. Notwithstanding the above, any Contracting Party, or any non-Contracting Party participating in the CDS, may require additional verification of catch documents by Flag States by using, inter alia, VMS, in respect of catches ¹ taken on the high seas outside the Convention Area, when landed at, imported into or exported from its territory.

15. If, following an examination under paragraph 10, questions under paragraph 11 or requests for additional verification of documents under paragraph 14, it is determined, after consultation with the States concerned, that a catch document is invalid, the import, export or re-export of Dissostichus spp. being the subject of the document is prohibited.

16. If a Contracting Party participating in the CDS has cause to sell or dispose of seized or confiscated Dissostichus spp., it may issue a Specially Validated Dissostichus Catch Document (SVDCD) specifying the reasons for that validation. The SVDCD shall include a statement describing the circumstances under which confiscated fish are moving in trade. To the extent practicable, Parties shall ensure that no financial benefit arising from the sale of seized or confiscated catch accrue to the perpetrators of IUU fishing. If a Contracting Party issues a SVDCD, it shall immediately report all such validations to the Secretariat for conveying to all Parties and, as appropriate, recording in trade statistics.

17. A Contracting Party may transfer all or part of the proceeds from the sale of seized or confiscated Dissostichus spp. into the CDS Fund created by the Commission or into a national fund which promotes achievement of the objectives of the Convention. A Contracting Party may, consistent with its domestic legislation, decline to provide a market for toothfish offered for sale with a SVDCD by another State. Provisions concerning the uses of the CDS Fund are found in Annex B.

¹ Excluding by-catches of Dissostichus spp. by trawlers fishing on the high seas outside the Convention Area. A by-catch shall be defined as no more than 5% of total catch of all species and no more than 50 tonnes for an entire fishing trip by a vessel.

Annex 10-05/A

A1. Each Flag State shall ensure that each Dissostichus catch document form that it issues includes a specific identification number consisting of:

(i) A four-digit number, consisting of the two-digit International Standards Organization (ISO) country code plus the last two digits of the year for which the form is issued;

(ii) A three-digit sequence number (beginning with 001) to denote the order in which catch document forms are issued.

It shall also enter on each Dissostichus catch document form the number as appropriate of the licence or permit issued to the vessel.

A2. The master of a vessel which has been issued a Dissostichus catch document form or forms shall adhere to the following procedures prior to each landing or transhipment of Dissostichus spp.:

(i) The master shall ensure that the information specified in paragraph 6 of this conservation measure is accurately recorded on the Dissostichus catch document form;

(ii) If a landing or transhipment includes catch of both Dissostichus spp., the master shall record on the Dissostichus catch document form the total amount of the catch landed or transhipped by weight of each species;

(iii) If a landing or transhipment includes catch of Dissostichus spp. taken from different statistical subareas and/or divisions, the master shall record on the Dissostichus catch document form the amount of the catch by weight of each species taken from each statistical subarea and/or division and indicating whether the catch was caught in an EEZ or on the high seas, as appropriate;

(iv) The master shall convey to the Flag State of the vessel by the most rapid electronic means available, the Dissostichus catch document number, the dates within which the catch was taken, the species, processing type or types, the estimated weight to be landed and the area or areas of the catch, the date of landing or transhipment and the port and country of landing or vessel of transhipment and shall request from the Flag State, a Flag State confirmation number.

A3. If, for catches ¹ taken in the Convention Area or on the high seas outside the Convention Area, the Flag State verifies, by the use of a VMS (as described in paragraph 1 of Conservation Measure 10-04), the area fished and that the catch to be landed or transhipped as reported by its vessel is accurately recorded and taken in a manner consistent with its authorisation to fish, it shall convey a unique Flag State confirmation number to the vessel's master by the most rapid electronic means available. The Dissostichus catch document will receive a confirmation number from the Flag State, only when it is convinced that the information submitted by the vessel fully satisfies the provisions of this conservation measure.

A4. The master shall enter the Flag State confirmation number on the Dissostichus catch document form.

A5. The master of a vessel that has been issued a Dissostichus catch document form or forms shall adhere to the following procedures immediately after each landing or transhipment of Dissostichus spp.:

(i) In the case of a transhipment, the master shall confirm the transhipment obtaining the signature on the Dissostichus catch document of the master of the vessel to which the catch is being transferred;

(ii) In the case of a landing, the master or authorised representative shall confirm the landing by obtaining a signed and stamped certification on the Dissostichus catch document by a responsible official of the Port State of landing or free trade zone who is acting under the direction of either the customs or fisheries authority of the Port State and is competent with regard to the validation of Dissostichus catch documents;

(iii) In the case of a landing, the master or authorised representative shall also obtain the signature on the Dissostichus catch document of the individual that receives the catch at the port of landing or free trade zone;

(iv) In the event that the catch is divided upon landing, the master or authorised representative shall present a copy of the Dissostichus catch document to each individual that receives a part of the catch at the port of landing or free trade zone, record on that copy of the catch document the amount and origin of the catch received by that individual and obtain the signature of that individual.

A6. In respect of each landing or transhipment, the master or authorised representative shall immediately sign and convey by the most rapid electronic means available a copy, or, if the catch landed was divided, copies, of the signed Dissostichus catch document to the Flag State of the vessel and shall provide a copy of the relevant document to each recipient of the catch.

A7. The Flag State of the vessel shall immediately convey by the most rapid electronic means available a copy or, if the catch was divided, copies, of the signed Dissostichus catch document to the CCAMLR Secretariat to be made available by the next working day to all Contracting Parties.

A8. The master or authorised representative shall retain the original copies of the signed Dissostichus catch document(s) and return them to the Flag State no later than one month after the end of the fishing season.

A9. The master of a vessel to which catch has been transhipped (receiving vessel) shall adhere to the following procedures immediately after each landing of such catch in order to complete each Dissostichus catch document received from transhipping vessels:

(i) The master of the receiving vessel shall confirm the landing by obtaining a signed and stamped certification on the Dissostichus catch document by a responsible official of the Port State of landing or free trade zone who is acting under the direction of either the customs or fisheries authority of the Port State and is competent with regard to the validation of Dissostichus catch documents;

(ii) The master of the receiving vessel shall also obtain the signature on the Dissostichus catch document of the individual that receives the catch at the port of landing or free trade;

(iii) In the event that the catch is divided upon landing, the master of the receiving vessel shall present a copy of the Dissostichus catch document to each individual that receives a part of the catch at the port of landing or free trade zone, record on that copy of the catch document the amount and origin of the catch received by that individual and obtain the signature of that individual.

A10. In respect of each landing of transhipped catch, the master or authorised representative of the receiving vessel shall immediately sign and convey by the most rapid electronic means available a copy of all the Dissostichus catch documents, or if the catch was divided, copies, of all the Dissostichus catch documents, to the Flag State(s) that issued the Dissostichus catch document, and shall provide a copy of the relevant document to each recipient of the catch. The Flag State of the receiving vessel shall immediately convey by the most rapid electronic means available a copy of the document to the CCAMLR Secretariat to be made available by the next working day to all Contracting Parties.

A11. For each shipment of Dissostichus spp. to be exported from the country of landing, the exporter shall adhere to the following procedures to obtain the necessary export validation of the Dissostichus catch document(s) that account for all the Dissostichus spp. contained in the shipment:

(i) The exporter shall enter on each Dissostichus catch document the amount of each Dissostichus spp. reported on the document that is contained in the shipment;

(ii) The exporter shall enter on each Dissostichus catch document the name and address of the importer of the shipment and the point of import;

(iii) The exporter shall enter on each Dissostichus catch document the exporter's name and address, and shall sign the document;

(iv) The exporter shall obtain a signed and stamped validation of the Dissostichus catch document by a responsible official of the exporting State.

A12. In the case of re-export, the re-exporter shall adhere to the following procedures to obtain the necessary re-export validation of the Dissostichus catch document(s) that account for all the Dissostichus spp. contained in the shipment:

(i) The re-exporter shall supply details of the net weight of product of all species to be re-exported, together with the Dissostichus catch document number to which each species and product relates;

(ii) The re-exporter shall supply the name and address of the importer of the shipment, the point of import and the name and address of the exporter;

(iii) The re-exporter shall obtain a signed and stamped validation of the above details by the responsible official of the exporting State on the accuracy of information contained in the document(s);

(iv) The responsible official of the exporting state shall immediately transmit by the most rapid electronic means a copy of the re-export document to the Secretariat to be made available next working day to all Contracting Parties.

The standard form for re-export is attached to this annex.

¹ Excluding by-catches of Dissostichus spp. by trawlers fishing on the high seas outside the Convention Area. A by-catch shall be defined as no more than 5% of total catch of all species and no more than 50 tonnes for an entire fishing trip by a vessel.

Dissostichus Catch Document V 1.4

Document Number Flag State Confirmation Number

Production Section

1. Issuing Authority of Document

Name Address Tel:

Fax:

2. Fishing Vessel Name Home Port & Registration Number Call Sign IMO/Lloyd's Number (if issued)

3. Licence Number (if issued) Fishing dates for catch under this document

4. From:

5. To:

6. Description of Fish (Landed/Transhipped)

7. Description of Fish Sold

Species Type Estimated

Weight to be Landed (kg)

Area Caught*

Verified Weight Landed (kg)

Net Weight Sold (kg)

Recipient name, address, telephone, fax and signature.

Recipient Name:

Signature:

Address:

Tel:

Fax:

Species: TOP Dissostichus eleginoides, TOA Dissostichus mawsoni

Type: WHO Whole; HAG Headed and gutted; HAT Headed and tailed; FLT Fillet; HGT Headed, gutted, tailed; OTH Other (specify)

8. Landing/Transhipment Information: I certify that the above information is complete, true and correct. If any Dissostichus spp. was taken in the Convention Area, I certify that it was taken in a manner which is consistent with CCAMLR conservation measures:

Master of Fishing Vessel or Authorised Representative (print in block letters)

Signature and Date Landing/Transhipment

Port and Country/Area

Date of Landing/Transhipment

9. Certificate of Transhipments: I certify that the above information is complete, true and correct to the best of my knowledge. Master of Receiving Vessel Signature Vessel Name Call Sign IMO/Lloyds Number (if issued)

Transhipment within a Port Area: countersignature by Port Authority if appropriate.

Name Authority Signature Seal (Stamp)

10. Certificate of Landing: I certify that the above information is complete, true and correct to the best of my knowledge.

Name Authority Signature Address Tel. Port of Landing Date of Landing Seal (Stamp)

11. Export Section 12. Exporter Declaration: I certify that the above information is complete, true and correct Description of Fish to the best of my knowledge.

Species Product

Type

Net Weight Name Address Signature Export Licence (if issued)

13. Export Government Authority Validation: I certify that the above information is complete, true and correct to the best of my knowledge.

Name/Title Signature Date Seal (Stamp)

Country of export Export reference number

14. Import Section

Name of Importer Address

Point of Unlading: City State/Province Country

*Report FAO Statistical Area/Subarea/Division where catch was taken and indicate whether the catch was taken on the high seas or within an EEZ.

Dissostichus Re-Export Document V1.1

Re-Export Section Re-Exporting Country

1. Description of Fish

Species Type of Product Net Weight

Exported (kg)

Dissostichus Catch Document

Number Attached

Species: TOP Dissostichus eleginoides, TOA Dissostichus mawsoni

Type: WHO Whole; HAG Headed and gutted; HAT Headed and tailed; FLT Fillet; HGT Headed, gutted, tailed; OTH Other (specify)

2. Re-Exporter Certification: I certify that the above information is complete, true and correct to the best of my knowledge and that the above product comes from product certified by the attached Dissostichus Catch Document(s).

Name Address Signature Date Export Licence (if issued)

3. Re-Export Government Authority Validation: I certify that the above information is complete, true, and correct to the best of my knowledge.

Name/Title Signature Date Seal (Stamp)

4. Import Section

Name of Importer Address

Point of Unlading: City State/Province Country

Annex 10-05/B

The Use of the CDS Fund

B1. The purpose of the CDS Fund (‘the Fund’) is to enhance the capacity of the Commission in improving the effectiveness of the CDS and by this, and other means, to prevent, deter and eliminate IUU fishing in the Convention Area.

B2. The Fund will be operated according to the following provisions:

(i) The Fund shall be used for special projects, or special needs of the Secretariat if the Commission so decides, aimed at assisting the development and improving the effectiveness of the CDS. The Fund may also be used for special projects and other activities contributing to the prevention, deterrence and elimination of IUU fishing in the Convention Area, and for other such purposes as the Commission may decide.

(ii) The Fund shall be used primarily for projects conducted by the Secretariat, although the participation of Members in these projects is not precluded. While individual Member projects may be considered, this shall not replace the normal responsibilities of Members of the Commission. The Fund shall not be used for routine Secretariat activities.

(iii) Proposals for special projects may be made by Members, by the Commission or the Scientific Committee and their subsidiary bodies, or by the Secretariat. Proposals shall be made to the Commission in writing and be accompanied by an explanation of the proposal and an itemised statement of estimated expenditure.

(iv) The Commission will, at each annual meeting, designate six Members to serve on a Review Panel to review proposals made intersessionally and to make recommendations to the Commission on whether to fund special projects or special needs. The Review Panel will operate by email intersessionally and meet during the first week of the Commission's annual meeting.

(v) The Commission shall review all proposals and decide on appropriate projects and funding as a standing agenda item at its annual meeting.

(vi) The Fund may be used to assist Acceding States and non-Contracting Parties that wish to cooperate with CCAMLR and participate in the CDS, so long as this use is consistent with provisions (i) and (ii) above. Acceding States and non-Contracting Parties may submit proposals if the proposals are sponsored by, or in cooperation with, a Member.

(vii) The Financial Regulations of the Commission shall apply to the Fund, except in so far as these provisions provide or the Commission decides otherwise.

(viii) The Secretariat shall report to the annual meeting of the Commission on the activities of the Fund, including its income and expenditure. Annexed to the report shall be reports on the progress of each project being funded by the Fund, including details of the expenditure on each project. The report will be circulated to Members in advance of the annual meeting.

(ix) Where an individual Member project is being funded according to provision (ii), that Member shall provide an annual report on the progress of the project, including details of the expenditure on the project. The report shall be submitted to the Secretariat in sufficient time to be circulated to Members in advance of the annual meeting. When the project is completed, that Member shall provide a final statement of account certified by an auditor acceptable to the Commission.

(x) The Commission shall review all ongoing projects at its annual meeting as a standing agenda item and reserves the right, after notice, to cancel a project at any time should it decide that it is necessary. Such a decision shall be exceptional, and shall take into account progress made to date and likely progress in the future, and shall in any case be preceded by an invitation from the Commission to the project coordinator to present a case for continuation of funding.

(xi) The Commission may modify these provisions at any time.

Conservation Measure 10-06 (2004)

Scheme To Promote Compliance by Contracting Party Vessels With CCAMLR Conservation Measures

Species all

Area all

Season all

Gear all

The Commission,

Convinced that illegal, unregulated and unreported (IUU) fishing compromises the primary objectives of the Convention,

Aware that a significant number of vessels registered to Parties and non-Parties are engaged in fishing operations in the Convention Area in a manner which diminishes the effectiveness of CCAMLR conservation measures,

Recalling that Parties are required to cooperate in taking appropriate action to deter any fishing activities which are not consistent with the objective of the Convention,

Resolved to reinforce its integrated administrative and political measures aimed at eliminating IUU fishing in the Convention Area,

Hereby adopts the following conservation measure in accordance with Article IX.2(i) of the Convention:

1. At each annual meeting, the Commission will identify those Contracting Parties whose vessels have engaged in fishing activities in the Convention Area in a manner which has diminished the effectiveness of CCAMLR conservation measures in force, and shall establish a list of such vessels (IUU Vessel List), in accordance with the procedures and criteria set out hereafter.

2. This identification shall be documented, inter alia, on reports relating to the application of Conservation Measure 10-03, trade information obtained on the basis of the implementation of Conservation Measure 10-05 and relevant trade statistics such as FAO and other national or international verifiable statistics, as well as any other information obtained from Port States and/or gathered from the fishing grounds which is suitably documented.

3. Where a Contracting Party obtains information that vessels flying the flag of another Contracting Party have engaged in activities set out in paragraph 5, it shall submit a report containing this information, within 30 days of having become aware of it, to the Executive Secretary and the Contracting Party concerned. Contracting Parties shall indicate that the information is provided for the purposes of Conservation Measure 10-06.

4. For the purposes of this conservation measure, the Contracting Parties are considered as having carried out fishing activities that have diminished the effectiveness of the conservation measures adopted by the Commission if:

(i) The Parties do not ensure compliance by their vessels with the conservation measures adopted by the Commission and in force, in respect of the fisheries in which they participate that are placed under the competence of CCAMLR;

(ii) Their vessels are repeatedly included in the IUU Vessel List.

5. In order to establish the IUU Vessel List, evidence, gathered in accordance with paragraphs 2 and 3, shall be required that vessels flying the flag of the Contracting Party concerned have:

(i) Engaged in fishing activities in the CCAMLR Convention Area without a licence issued in accordance with Conservation Measure 10-02, or in violation of the conditions under which such licence would have been issued in relation to authorised areas, species and time periods; or

(ii) Did not record or did not declare their catches made in the CCAMLR Convention Area in accordance with the reporting system applicable to the fisheries they engaged in, or made false declarations; or

(iii) Fished during closed fishing periods or in closed areas in contravention of CCAMLR conservation measures; or

(iv) Used prohibited gear in contravention of applicable CCAMLR conservation measures; or

(v) Transhipped or participated in joint fishing operations with, supported or re-supplied other vessels identified by CCAMLR as carrying out IUU fishing activities (i.e. on the IUU Vessel List or in Conservation Measure 10-07); or

(vi) Engaged in fishing activities in a manner that undermines the attainment of the objectives of the Convention in waters adjacent to islands within the area to which the Convention applies over which the existence of State sovereignty is recognised by all Contracting Parties, in the terms of the statement made by the Chairman on 19 May 1980; or

(vii) Engaged in fishing activities contrary to any other CCAMLR conservation measures in a manner that undermines the attainment of the objectives of the Convention according to Article XXII of the Convention.

6. The draft IUU Vessel List, Provisional IUU Vessel List, Proposed IUU Vessel List and the IUU Vessel List shall contain the following details:

(i) Name of vessel and previous names, if any, during the preceding calendar year;

(ii) Flag of vessel and previous flags, if any, during the preceding calendar year;

(iii) Owner of vessel and previous owners, if any, during the preceding calendar year;

(iv) Operator of vessel and previous operators, if any, during the preceding calendar year;

(v) Call sign of vessel and previous call signs, if any, during the preceding calendar year;

(vi) Lloyds/IMO number;

(vii) Photographs of the vessel, where available;

(viii) Summary of activities which justify inclusion of the vessel on the List, together with references to all relevant documents informing of and evidencing those activities.

7. The Executive Secretary shall, before 1 July of each year, draw up a draft list of Contracting Party vessels that, on the basis of the information gathered in accordance with paragraphs 2 and 3, for the period beginning 30 days before the start of the previous CCAMLR annual meeting, the criteria defined in paragraph 4, and any other information that the Secretariat might have obtained in relation thereto, might be presumed to have carried out IUU fishing activities in the CCAMLR Convention Area. The Draft IUU Vessel List shall be distributed immediately to the Contracting Parties concerned.

8. Contracting Parties whose vessels are included in the Draft IUU Vessel List will transmit before 1 September to CCAMLR, their comments, as appropriate, including verifiable VMS data and other supporting information showing that the vessels listed have neither engaged in fishing activities in contravention of CCAMLR conservation measures nor had the possibility of being engaged in fishing activities in the Convention Area.

9. On the basis of the information received pursuant to paragraph 8, the Executive Secretary shall distribute the Draft IUU Vessel List and all comments received as a Provisional IUU Vessel List, which shall be transmitted before 1 October to all Contracting Parties and non-Contracting Parties cooperating with the Commission by participating in the Catch Documentation Scheme for Dissostichus spp. (CDS), together with the IUU Vessel List agreed at the previous CCAMLR annual meeting, and any evidence or documented information received since that meeting regarding vessels on the Provisional IUU Vessel List or IUU Vessel List.

10. Contracting Parties shall submit to the Executive Secretary any additional information which might be relevant for the establishment of the IUU Vessel List within 30 days of having become aware of such information and at the latest 30 days before the start of the CCAMLR meeting. A report containing this information shall be submitted in the format set out in paragraph 6, and Contracting Parties shall indicate that the information is provided for the purposes of Conservation Measure 10-06. The Secretariat shall collate all information received and, where this has not been provided in relation to a vessel, attempt to obtain the information in paragraphs 6(i) to (vii).

11. The Executive Secretary shall invite non-Contracting Parties cooperating with the Commission by participating in the CDS to submit any evidence or documented information regarding vessels on the Provisional IUU Vessel List and IUU Vessel List.

12. The Executive Secretary shall circulate to Contracting Parties, at the latest 30 days before the start of the CCAMLR annual meeting, all evidence or documented information received under paragraphs 10 and 11, together with any other evidence or documented information received in terms of paragraphs 2 and 3.

13. At each CCAMLR annual meeting, the Standing Committee on Implementation and Compliance (SCIC) shall, by consensus:

(i) Adopt a Proposed IUU Vessel List, following consideration of the Provisional IUU Vessel List and information and evidence circulated under paragraph 12. The Proposed IUU Vessel List shall be submitted to the Commission for approval;

(ii) Recommend to the Commission which, if any, vessels should be removed from the IUU Vessel List adopted at the previous CCAMLR annual meeting, following consideration of that List and information and evidence circulated under paragraph 12.

14. SCIC shall include vessels on the Proposed IUU Vessel List only if one or more of the criteria in paragraph 5 have been satisfied.

15. SCIC shall recommend that the Commission should remove vessels from the IUU Vessel List if the Contracting Party proves that:

(i) The vessel did not take part in IUU fishing activities described in paragraph 1; or

(ii) It has taken effective action in response to the IUU fishing activities in question, including prosecution and imposition of sanctions of adequate severity; or

(iii) The vessel has changed ownership and that the new owner can establish the previous owner no longer has any legal, financial, or real interests in the vessel, or exercises control over it and that the new owner has not participated in IUU fishing; or

(iv) The Contracting Party has taken measures considered sufficient to ensure the granting of the right to the vessel to fly its flag will not result in IUU fishing.

16. In order to facilitate the work of SCIC and the Commission, the Secretariat shall prepare a paper for each CCAMLR annual meeting, summarising and annexing all the information, evidence and comments submitted in respect of each vessel to be considered.

17. On approval of the IUU Vessel List, the Commission shall request Contracting Parties whose vessels appear thereon to take all necessary measures to address these IUU fishing activities, including if necessary, the withdrawal of the registration or of the fishing licences of these vessels, the nullification of the relevant catch documents and denial of further access to the CDS, and to inform the Commission of the measures taken in this respect.

18. Contracting Parties shall take all necessary measures, to the extent possible in accordance with their applicable laws and regulations, in order that:

(i) The issuance of a licence to vessels appearing in the IUU Vessel List to fish in the Convention Area is prohibited;

(ii) The issuance of a licence to vessels included in the IUU Vessel List to fish in waters under their fisheries jurisdiction is prohibited;

(iii) Fishing vessels, support vessels, mother-ships and cargo vessels flying their flag do not participate in any transhipment or joint fishing operations, support or re-supply vessels registered on the IUU Vessel List;

(iv) Vessels appearing in the IUU Vessel List that enter ports voluntarily are not authorised to land or tranship therein and are inspected in accordance with Conservation Measure 10-03 on so entering;

(v) The chartering of vessels included in the IUU Vessel List is prohibited;

(vi) Granting of their flag to vessels appearing in the IUU Vessel List is refused;

(vii) Imports of Dissostichus spp. from vessels included in the IUU Vessel List are prohibited;

(viii) ‘Export or Re-export Government Authority Validation’ is not certified when the shipment (of Dissostichus spp.) is declared to have been caught by any vessel included in the IUU Vessel List;

(ix) Importers, transporters and other sectors concerned, are encouraged to refrain from negotiating and from transhipping of fish caught by vessels appearing in the IUU Vessel List;

(x) Any appropriate information which is suitably documented is collected and exchanged with other Contracting Parties or cooperating non-Contracting Parties, entities or fishing entities with the aim of detecting, controlling and preventing the use of false import/export certificates regarding fish from vessels appearing in the IUU Vessel List;

(xi) They do not register or de-register vessels that have been placed on the Provisional IUU List until such time as the Commission has had the opportunity to examine the List and has made its determination;

(xii) They inform, where possible, the proposed new flag State of the vessel that the vessel is on the Provisional IUU List and urge that State not to register the vessel.

19. The Executive Secretary shall place the IUU Vessel List approved by the Commission on the CCAMLR Web site. Furthermore, the Executive Secretary shall communicate the IUU Vessel List to the Food and Agriculture Organization (FAO) and appropriate regional fisheries management organisations to enhance cooperation between CCAMLR and these organisations for the purposes of preventing, deterring and eliminating IUU fishing.

20. If Contracting Parties obtain new or changed information for vessels on the IUU Vessel List in relation to the details in paragraphs 6(i) to (vii), they shall notify the Executive Secretary who shall place a notification on the secure section of the CCAMLR Web site. If there are no comments on the information within seven (7) days, the Secretariat will revise the IUU Vessel List.

21. Without prejudice to the rights of Flag States and Coastal States to take proper action consistent with international law, Contracting Parties should not take any trade measures or other sanctions which are inconsistent with their international obligations against vessels using as the basis for the action the fact that the vessel or vessels have been included in the draft list drawn up by the Secretariat, pursuant to paragraph 7.

22. The Chair of the Commission shall request the Contracting Parties identified pursuant to paragraph 1 to take all necessary measures to avoid diminishing the effectiveness of the CCAMLR conservation measures resulting from their vessels' activities, and to advise the Commission of actions taken in that regard.

23. The Commission shall review, at subsequent annual meetings, as appropriate, action taken by those Contracting Parties to which requests have been made pursuant to paragraph 22, and identify those which have not rectified their fishing activities.

24. The Commission shall decide appropriate measures to be taken in respect to Dissostichus spp. so as to address these issues with those identified Contracting Parties. In this respect, Contracting Parties may cooperate to adopt appropriate multilaterally agreed trade-related measures, consistent with the World Trade Organization (WTO), that may be necessary to prevent, deter and eliminate the IUU fishing activities identified by the Commission. Multilateral trade-related measures may be used to support cooperative efforts to ensure that trade in Dissostichus spp. and its products does not in any way encourage IUU fishing or otherwise undermine the effectiveness of CCAMLR's conservation measures which are consistent with the United Nations Convention on the Law of the Sea 1982.

25. The Secretariat shall circulate to non-Contracting Parties cooperating with the Commission by participating in the CDS:

(i) The Provisional IUU List, together with the request that, to the extent possible in accordance with their applicable laws and regulations, they do not register, or de-register vessels that have been placed on the list until such time as the Commission has had the opportunity to examine the Provisional IUU Vessel List and has made its determination;

(ii) The IUU Vessel List, together with the request, to the extent possible in accordance with their applicable laws and regulations, that they do not register vessels that have been placed on the List unless they are removed from the List by the Commission.

Conservation Measure 21-02 (2004) 1, 2

Exploratory Fisheries

Species all

Area all

Season all

Gear all

The Commission,

Recognising that in the past, some Antarctic fisheries had been initiated and subsequently expanded in the Convention Area before sufficient information was available upon which to base management advice,

Agreeing that exploratory fishing should not be allowed to expand faster than the acquisition of information necessary to ensure that the fishery can and will be conducted in accordance with the principles set forth in Article II,

Hereby adopts the following conservation measure in accordance with Article IX of the Convention:

1. For the purposes of this conservation measure, exploratory fisheries are defined as follows:

(i) An exploratory fishery shall be defined as a fishery that was previously classified as a ‘new fishery’, as defined by Conservation Measure 21-01;

(ii) An exploratory fishery shall continue to be classified as such until sufficient information is available:

(a) To evaluate the distribution, abundance, and demography of the target species, leading to an estimate of the fishery's potential yield;

(b) To review the fishery's potential impacts on dependent and related species;

(c) To allow the Scientific Committee to formulate and provide advice to the Commission on appropriate harvest catch levels, as well as effort levels and fishing gear, where appropriate.

2. To ensure that adequate information is made available to the Scientific Committee for evaluation, during the period when a fishery is classified as exploratory, the Scientific Committee shall develop (and update annually as appropriate) a Data Collection Plan, which should include research proposals, as appropriate. This shall identify the data needed and describe any operational research actions necessary to obtain the relevant data from the exploratory fishery to enable an assessment of the stock to be made.

3. The Data Collection Plan shall include, where appropriate:

(i) A description of the catch, effort, and related biological, ecological, and environmental data required to undertake the evaluations described in paragraph 1(ii), and the date by which such data are to be reported annually to CCAMLR;

(ii) A plan for directing fishing effort during the exploratory phase to permit the acquisition of relevant data to evaluate the fishery potential and the ecological relationships among harvested, dependent, and related populations and the likelihood of adverse impacts;

(iii) Where appropriate, a plan for the acquisition of any other research data by fishing vessels, including activities that may require the cooperative activities of scientific observers and the vessel, as may be required for the Scientific Committee to evaluate the fishery potential and the ecological relationships among harvested, dependent, and related populations and the likelihood of adverse impacts;

(iv) An evaluation of the time-scales involved in determining the responses of harvested, dependent and related populations to fishing activities.

4. The Commission shall annually determine a precautionary catch limit at a level not substantially above that necessary to obtain the information specified in the Data Collection Plan and required to undertake the evaluations described in paragraph 1(ii);

5. Any Member proposing to participate in an exploratory fishery shall:

(i) Notify its intention to the Commission not less than three months in advance of the next regular meeting of the Commission. This notification shall include the information prescribed in paragraph 4 of Conservation Measure 10-02 in respect of vessels proposing to participate in the fishery, with the exception that the notification shall not be required to specify the time periods authorised for fishing referred to in subparagraph 4(ii) of Conservation Measure 10-02. Members shall, to the extent practicable, also provide in their notification the additional information detailed in paragraph 5 of Conservation Measure 10-02 in respect to each fishing vessel notified. Members are not hereby exempted from their obligations under Conservation Measure 10-02 to submit any necessary updates to vessel and licence details within the deadline established therein as of issuance of the licence to the vessel concerned.

(ii) Prepare and submit to CCAMLR by a specified date a Fishery Operations Plan for the fishing season, for review by the Scientific Committee and the Commission. The Fishery Operations Plan shall include as much of the following information as the Member is able to provide, so as to assist the Scientific Committee in its preparation of the Data Collection Plan:

(a) The nature of the exploratory fishery, including target species, methods of fishing, proposed region and maximum catch levels proposed for the forthcoming season;

(b) Biological information on the target species from comprehensive research/survey cruises, such as distribution, abundance, demographic data, and information on stock identity;

(c) Details of dependent and related species and the likelihood of their being affected by the proposed fishery;

(d) Information from other fisheries in the region or similar fisheries elsewhere that may assist in the evaluation of potential yield;

(iii) Provide a commitment, in its proposal, to implement any Data Collection Plan developed by the Scientific Committee for the fishery.

6. On the basis of the information submitted in accordance with paragraph 5, and taking into account the advice and evaluation provided by the Scientific Committee and SCIC, the Commission shall annually consider adoption of relevant conservation measures for each exploratory fishery.

7. The Commission shall not consider a notification by a Member unless the information required by paragraph 5 has been submitted by the due date.

8. Notwithstanding paragraph 7, Members shall be entitled under Conservation Measure 10-02 to authorise participation in an exploratory fishery a vessel other than that identified by the Commission in accordance with paragraph 5 if the notified vessel is prevented from participation due to legitimate operational or force majeure reasons. In such circumstances the Member concerned shall immediately inform the Secretariat thereof providing:

(i) Full details of the intended replacement vessel(s) as prescribed in subparagraph 5(i);

(ii) A comprehensive account of the reasons justifying the replacement and any relevant supporting evidence or references.

The Secretariat shall immediately circulate this information to all Members.

9. Members whose vessels participate in exploratory fisheries in accordance with paragraphs 5 and/or 8 shall:

(i) Ensure that their vessels are equipped and configured so that they can comply with all relevant conservation measures;

(ii) Ensure that each vessel carries a CCAMLR-designated scientific observer to collect data in accordance with the Data Collection Plan, and to assist in collecting biological and other relevant data;

(iii) Annually (by the specified date) submit to CCAMLR the data specified by the Data Collection Plan;

(iv) Be prohibited from continuing participation in the relevant exploratory fishing if the data specified in the Data Collection Plan have not been submitted to CCAMLR for the most recent season in which fishing occurred, until the relevant data have been submitted to CCAMLR and the Scientific Committee has been allowed an opportunity to review the data.

10. A vessel on either of the IUU Vessel Lists established under Conservation Measures 10-06 and 10-07 shall not be permitted to participate in exploratory fisheries.

11. Notifications for exploratory fisheries pursuant to the provisions above shall be subject to an administrative cost recovery scheme and shall therefore be accompanied by a payment per vessel the amount and refundable component of which shall be decided by the Commission, as well as the conditions and modalities according to which such payment shall be made.

¹ Except for waters adjacent to the Kerguelen and Crozet Islands

² Except for waters adjacent to the Prince Edward Islands

Conservation Measure 23-01 (2004)

Five-Day Catch and Effort Reporting System

Species all

Area various

Season all

Gear various

This conservation measure is adopted in accordance with Conservation Measure 31-01 where appropriate:

1. For the purposes of this Catch and Effort Reporting System the calendar month shall be divided into six reporting periods, viz: Day 1 to day 5, day 6 to day 10, day 11 to day 15, day 16 to day 20, day 21 to day 25 and day 26 to the last day of the month. These reporting periods are hereinafter referred to as periods A, B, C, D, E and F.

2. At the end of each reporting period, each Contracting Party shall obtain from each of its vessels its total catch and total days and hours fished for that period and shall, by cable, telex or facsimile, transmit the aggregated catch and days and hours fished for its vessels. The catch and effort data shall reach the Executive Secretary not later than two (2) working days after the end of the reporting period. In the case of longline fisheries, the number of hooks shall also be reported.

3. A report must be submitted by every Contracting Party taking part in the fishery for each reporting period for the duration of the fishery even if no catches are taken. A Contracting Party may authorise each of its vessels to report directly to the Secretariat.

4. The catch of all species, including by-catch species, must be reported.

5. Such reports shall specify the month and reporting period (A, B, C, D, E or F) to which each report refers.

6. Immediately after the deadline has passed for receipt of the reports for each period, the Executive Secretary shall notify all Contracting Parties engaged in fishing activities in the area, of the total catch taken during the reporting period, the total aggregate catch for the season to date together with an estimate of the date upon which the total allowable catch is likely to be reached for that season. In the case of exploratory fisheries, the Executive Secretary shall also notify total aggregate catch for the season to date in each small-scale research unit (SSRU) together with an estimate of the date upon which the total allowable catch is likely to be reached in each SSRU for that season. Estimates shall be based on a projection forward of the trend in daily catch rates, obtained using linear regression techniques from a number of the most recent catch reports.

7. At the end of every six reporting periods, the Executive Secretary shall inform all Contracting Parties of the total catch taken during the six most recent reporting periods, the total aggregate catch for the season to date together with an estimate of the date upon which the total allowable catch is likely to be reached for that season.

8. If the estimated date of completion of the total allowable catch, is within five days of the date on which the Secretariat received the report of the catches, the Executive Secretary shall inform all Contracting Parties that the fishery will close on that estimated day or on the day on which the report was received, whichever is the later. In the case of exploratory fisheries, if the estimated date of completion of the catch in any SSRU is within five days of the day on which the Secretariat received the report of catches, the Executive Secretary shall additionally inform all Contracting Parties that fishing in that SSRU will be prohibited from that calculated day, or on the day on which the report was received, whichever is the later.

9. Should a Contracting Party, or where a vessel is authorised to report directly to the Secretariat, the vessel, fail to transmit a report to the Executive Secretary in the appropriate form by the deadline specified in paragraph 2, the Executive Secretary shall issue a reminder to the Contracting Party. If at the end of a further two five-day periods, or, in the case of exploratory fisheries, a further one five-day period, those data have still not been provided, the Executive Secretary shall notify all Contracting Parties of the closure of the fishery to the vessel which has failed to supply the data as required and the Contracting Party concerned shall require the vessel to cease fishing. If the Executive Secretary is notified by the Contracting Party that the failure of the vessel to report is due to technical difficulties, the vessel may resume fishing once the report or explanation concerning the failure has been submitted.

Conservation Measure 23-06 (2004)

Data Reporting System for Krill Fisheries

Species krill

Area all

Season all

Gear all

1. This conservation measure is invoked by the conservation measures to which it is attached.

2. Catches shall be reported in accordance with the monthly catch and effort reporting system set out in Conservation Measure 23-03.

3. At the end of each fishing season each Contracting Party shall obtain from each of its vessels the data required to complete the CCAMLR fine-scale catch and effort data form (trawl fisheries Form C1). It shall aggregate these data by 10 × 10 n mile rectangle and 10-day period, and transmit those data in the specified format to the Executive Secretary not later than 1 April of the following year.

4. For the purposes of the fine-scale data the calendar month shall be divided into three 10-day reporting periods, viz: day 1 to day 10, day 11 day 20, day 21 to the last day of the month. These 10-day reporting periods are hereinafter referred to as periods A, B and C.

Conservation Measure 24-02 (2004)

Longline Weighting for Seabird Conservation

Species seabirds

Area selected

Season all

Gear longline

In respect of fisheries in Statistical Subareas 48.6, 88.1 and 88.2 and Statistical Divisions 58.4.1, 58.4.2, 58.4.3a, 58.4.3b and 58.5.2, paragraph 4 of Conservation Measure 25-02 shall not apply only where a vessel can demonstrate its ability to fully comply with one of the following protocols.

Protocol A (for vessels monitoring longline sink rate with Time-Depth Recorders (TDRs) and using longlines to which weights are manually attached):

A1. Prior to entry into force of the licence for this fishery and once per fishing season prior to entering the Convention Area, the vessel shall, under observation by a scientific observer:

(i) Set a minimum of two longlines of the maximum length to be used by the vessel in the Convention Area with a minimum of four (TDRs) on the middle one-third of each longline;

(ii) Randomise TDR placement on the longline, noting that all tests should be applied midway between weights;

(iii) Calculate an individual sink rate for each TDR when returned to the vessel, where:

(a) The sink rate shall be measured as an average of the time taken for the longline to sink from the surface (0 m) to 15 m;

(b) This sink rate shall be at a minimum rate of 0.3 m/s;

(iv) If the minimum sink rate is not achieved at all eight sample points (four tests on two longlines), continue the testing until such time as a total of eight tests with a minimum sink rate of 0.3 m/s are recorded;

(v) All equipment and fishing gear used in the tests is to be to the same specifications as that to be used in the Convention Area.

A2. During fishing, for a vessel to be allowed to maintain the exemption to night-time setting requirements (paragraph 4 of Conservation Measure 25-02), regular longline sink monitoring shall be undertaken by the CCAMLR scientific observer. The vessel shall cooperate with the CCAMLR observer who shall:

(i) Attempt to conduct a TDR test on one longline set every twenty-four hour period;

(ii) Every seven days place at least four TDRs on a single longline to determine any sink rate variation along the longline;

(iii) Randomise TDR placement on the longline, noting that all tests should be applied halfway between weights;

(iv) Calculate an individual longline sink rate for each TDR when returned to the vessel;

(v) Measure the longline sink rate as an average of the time taken for the longline to sink from the surface (0 m) to 15 m.

A3. The vessel shall:

(i) Ensure that all longlines are weighted to achieve a minimum longline sink rate of 0.3 m/s at all times whilst operating under this exemption;

(ii) Report daily to its national agency on the achievement of this target whilst operating under this exemption;

(iii) Ensure that data collected from longline sink rate tests prior to entering the Convention Area and longline sink rate monitoring during fishing are recorded in the CCAMLR-approved format ¹ and submitted to the relevant national agency and CCAMLR Data Manager within two months of the vessel departing a fishery to which this measure applies.

Protocol B (for vessels monitoring longline sink rate with bottle tests and using longlines to which weights are manually attached):

B1. Prior to entry into force of the licence for this fishery and once per fishing season prior to entering the Convention Area, the vessel shall, under observation by a scientific observer:

(i) Set a minimum of two longlines of the maximum length to be used by the vessel in the Convention Area with a minimum of four bottle tests (see paragraphs B5 to B9) on the middle one-third of each longline;

(ii) Randomise bottle test placement on the longline, noting that all tests should be applied midway between weights;

(iii) Calculate an individual sink rate for each bottle test at the time of the test, where:

(a) The sink rate shall be measured as the time taken for the longline to sink from the surface (0 m) to 10 m;

(b) This sink rate shall be at a minimum rate of 0.3 m/s;

(iv) If the minimum sink rate is not achieved at all eight sample points (four tests on two longlines), continue the testing until such time as a total of eight tests with a minimum sink rate of 0.3 m/s are recorded;

(v) All equipment and fishing gear used in the tests is to be to the same specifications as that to be used in the Convention Area.

B2. During fishing, for a vessel to be allowed to maintain the exemption to night-time setting requirements (paragraph 4 of Conservation Measure 25-02), regular longline sink rate monitoring shall be undertaken by the CCAMLR scientific observer. The vessel shall cooperate with the CCAMLR observer who shall:

(i) Attempt to conduct a bottle test on one longline set every twenty-four hour period;

(ii) Every seven days conduct at least four bottle tests on a single longline to determine any sink rate variation along the longline;

(iii) Randomise bottle test placement on the longline, noting that all tests should be applied halfway between weights;

(iv) Calculate an individual longline sink rate for each bottle test at the time of the test;

(v) Measure the longline sink rate as the time taken for the longline to sink from the surface (0 m) to 10 m.

B3. The vessel shall:

(i) Ensure that all longlines are weighted to achieve a minimum longline sink rate of 0.3 m/s at all times whilst operating under this exemption;

(ii) Report daily to its national agency on the achievement of this target whilst operating under this exemption;

(iii) Ensure that data collected from longline sink rate tests prior to entering the Convention Area and longline sink rate monitoring during fishing are recorded in the CCAMLR-approved format ¹ and submitted to the relevant national agency and CCAMLR Data Manager within two months of the vessel departing a fishery to which this measure applies.

B4. A bottle test is to be conducted as described below.

Bottle Set Up

B5. 10 m of 2 mm multifilament nylon snood twine, or equivalent, is securely attached to the neck of a 500-1000 ml plastic bottle ² with a longline clip attached to the other end. The length measurement is taken from the attachment point (terminal end of the clip) to the neck of the bottle, and should be checked by the observer every few days.

B6. Reflective tape should be wrapped around the bottle to allow it to be observed in low light conditions and at night.

Test

B7. The bottle is emptied of water, the stopper is left open and the twine is wrapped around the body of the bottle for setting. The bottle with the encircled twine is attached to the longline, ³ midway between weights (the attachment point).

B8. The observer records the time at which the attachment point enters the water as t1 in seconds. The time at which the bottle is observed to be pulled completely under is recorded as t2 in seconds. ⁴ The result of the test is calculated as follows:

Longline sink rate = 10 / (t2−t1)

B9. The result should be equal to or greater than 0.3 m/s. These data are to be recorded in the space provided in the electronic observer logbook.

Protocol C (for vessels monitoring longline sink rate with either (TDR) or bottle tests, and using internally weighted longlines with integrated weight of at least 50 g/m and designed to sink instantly with a linear profile at greater than 0.2 m/s with no external weights attached):

C1. Prior to entry into force of the licence for this fishery and once per fishing season prior to entering the Convention Area, the vessel shall, under observation by a scientific observer:

(i) Set a minimum of two longlines of the maximum length to be used by the vessel in the Convention Area with either a minimum of four TDRs, or a minimum of four bottle tests (see paragraphs B5 to B9) on the middle one-third of each longline;

(ii) Randomise TDR or bottle test placement on the longline;

(iii) Calculate an individual sink rate for each TDR when returned to the vessel, or for each bottle test at the time of the test, where:

(a) The sink rate shall be measured as an average of the time taken for the longline to sink from the surface (0 m) to 15 m for TDRs and the time taken for the longline to sink from the surface (0 m) to 10 m for bottle tests;

(b) This sink rate shall be at a minimum rate of 0.2 m/s;

(iv) If the minimum sink rate is not achieved at all eight sample points (four tests on two longlines), continue the testing until such time as a total of eight tests with a minimum sink rate of 0.2 m/s are recorded;

(v) All equipment and fishing gear used in the tests is to be to the same specifications as that to be used in the Convention Area.

C2. During fishing, for a vessel to be allowed to maintain the exemption to night-time setting requirements (paragraph 4 of Conservation Measure 25-02), regular longline sink rate monitoring shall be undertaken by the CCAMLR scientific observer. The vessel shall cooperate with the CCAMLR observer who shall:

(i) Attempt to conduct a TDR or bottle test on one longline set every twenty-four hour period;

(ii) Every seven days conduct at least four TDR or bottle tests on a single longline to determine any sink rate variation along the longline;

(iii) Randomise TDR or bottle test placement on the longline;

(iv) Calculate an individual longline sink rate for each TDR when returned to the vessel or each bottle test at the time of the test;

(v) Measure the longline sink rate for bottle tests as the time taken for the longline to sink from the surface (0 m) to 10 m, or for TDRs the average of the time taken for the longline to sink from the surface (0 m) to 15 m.

C3. The vessel shall:

(i) Ensure that all longlines are set so as to achieve a minimum longline sink rate of 0.2 m/s at all times whilst operating under this exemption;

(ii) Report daily to its national agency on the achievement of this target whilst operating under this exemption;

(iii) Ensure that data collected from longline sink rate tests prior to entering the Convention Area and longline sink rate monitoring during fishing are recorded in the CCAMLR-approved format¹ and submitted to the relevant national agency and CCAMLR Data Manager within two months of the vessel departing a fishery to which this measure applies.

¹ Included in the scientific observer electronic logbook.

² A plastic water bottle that has a “stopper” is needed. The stopper of the bottle is left open so that the bottle will fill with water after being pulled under water. This allows the plastic bottle to be re-used rather than being crushed by water pressure.

³ On autolines attach to the backbone; on the Spanish longline system attach to the hookline.

⁴ Binoculars will make this process easier to view, especially in foul weather.

Conservation Measure 32-09 (2004)

Prohibition of Directed Fishing for Dissostichus spp. Except in Accordance With Specific Conservation Measures in the 2004/05 Season

Species toothfish

Area 48.5

Season 2004/05

Gear all

The Commission hereby adopts the following conservation measure in accordance with Article IX of the Convention:

Directed fishing for Dissostichus spp. in Statistical Subarea 48.5 is prohibited from 1 December 2004 to 30 November 2005.

Conservation Measure 33-02 (2004)

Limitation of By-Catch in Statistical Division 58.5.2 in the 2004/05 Season

Species by-catch

Area 58.5.2

Season 2004/05

Gear all

1. There shall be no directed fishing for any species other than Dissostichus eleginoides and Champsocephalus gunnari in Statistical Division 58.5.2 in the 2004/05 fishing season.

2. In directed fisheries in Statistical Division 58.5.2 in the 2004/05 season, the by-catch of Channichthys rhinoceratus shall not exceed 150 tonnes, the by-catch of Lepidonotothen squamifrons shall not exceed 80 tonnes, the by-catch of Macrourus spp. shall not exceed 360 tonnes and the by-catch of skates and rays shall not exceed 120 tonnes. For the purposes of this measure, ‘Macrourus spp.’ and “skates and rays” should each be counted as a single species.

3. The by-catch of any fish species not mentioned in paragraph 2, and for which there is no other catch limit in force, shall not exceed 50 tonnes in Statistical Division 58.5.2.

4. If, in the course of a directed fishery, the by-catch in any one haul of Channichthys rhinoceratus, Lepidonotothen squamifrons, Macrourus spp. or skates and rays is equal to, or greater than 2 tonnes, then the fishing vessel shall not fish using that method of fishing at any point within 5 n miles ¹ of the location where the by-catch exceeded 2 tonnes for a period of at least five days. ² The location where the by-catch exceeded 2 tonnes is defined as the path ³ followed by the fishing vessel.

5. If, in the course of a directed fishery, the by-catch in any one haul of any other by-catch species for which by-catch limitations apply under this conservation measure is equal to, or greater than 1 tonne, then the fishing vessel shall not fish using that method of fishing at any point within 5 n miles ¹ of the location where the by-catch exceeded 1 tonne for a period of at least five days ². The location where the by-catch exceeded 1 tonne is defined as the path ³ followed by the fishing vessel.

¹ This provision concerning the minimum distance separating fishing locations is adopted pending the adoption of a more appropriate definition of a fishing location by the Commission.

² The specified period is adopted in accordance with the reporting period specified in Conservation Measure 23-01, pending the adoption of a more appropriate period by the Commission.

³ For a trawl the path is defined from the point at which the fishing gear was first deployed from the fishing vessel to the point at which the fishing gear was retrieved by the fishing vessel. For a longline the path is defined from the point at which the first anchor of a set was deployed to the point at which the last anchor of that set was deployed.

Conservation Measure 33-03 (2004) 1 2

Limitation of By-Catch in New and Exploratory Fisheries in the 2004/05 Season

Species by-catch

Area various

Season 2004/05

Gear all

1. This conservation measure applies to new and exploratory fisheries in all areas containing small-scale research units (SSRUs) in the 2004/05 season except where specific by-catch conservation measures apply.

2. The catch limits for all by-catch species are set out in Annex 33-03/A. Within these catch limits, the total catch of by-catch species in any SSRU shall not exceed the following limits:

• Skates and rays 5% of the catch limit of Dissostichus spp. or 50 tonnes whichever is greater;

• Macrourus spp. 16% of the catch limit for Dissostichus spp. or 20 tonnes, whichever is greater;

• All other species combined 20 tonnes.

3. For the purposes of this measure ‘Macrourus spp.’ and ‘skates and rays’ should each be counted as a single species.

4. If the by-catch of any one species is equal to or greater than 1 tonne in any one haul or set, then the fishing vessel shall move to another location at least 5 n miles ³ distant. The fishing vessel shall not return to any point within 5 n miles of the location where the by-catch exceeded 1 tonne for a period of at least five days ⁴. The location where the by-catch exceeded 1 tonne is defined as the path ⁵ followed by the fishing vessel.

¹ Except for waters adjacent to the Kerguelen and Crozet Islands.

² Except for waters adjacent to the Prince Edward Islands.

³ This provision concerning the minimum distance separating fishing locations is adopted pending the adoption of a more appropriate definition of a fishing location by the Commission.

⁴ The specified period is adopted in accordance with the reporting period specified in Conservation Measure 23-01, pending the adoption of a more appropriate period by the Commission.

⁵ For a trawl the path is defined from the point at which the fishing gear was first deployed from the fishing vessel to the point at which the fishing gear was retrieved by the fishing vessel. For a longline the path is defined from the point at which the first anchor of a set was deployed to the point at which the last anchor of that set was deployed.

Annex 33-03/A

Table 1: By-catch catch limits for new and exploratory fisheries in 2004/05.

Subarea/Division

Region Dissostichus spp. catch limit (tonnes per region)

Skates and rays (tonnes per region)

By-catch catch limit Macrourus spp. (tonnes per region)

Other species (tonnes per SSRU)

48.6 north of 60°S 455 50 73 20

south of 60°S 455 50 73 20

58.4.1 whole division 600 50 96 20

58.4.2 whole division 780 50 124 20

58.4.3a whole division 250 50 26 20

58.4.3b whole division 300 50 159 20

88.1 whole subarea 3250 163 520 20

88.2 south of 65§ S 375 50 60 20

Region: As defined in column 2 of this table.

Rules for catch limits for by-catch species:

Skates and rays: 5% of the catch limit for Dissostichus spp. or 50 tonnes, which ever is greatest (SC-CAMLR-XXI, paragraph 5.76).

Macrourus spp.: 16% of the catch limit for Dissostichus spp., except in Divisions 58.4.3a and 58.4.3b (SC-CAMLR—XXII, paragraph 4.207).

Other species: 20 tonnes per SSRU.

Conservation Measure 41-01 (2004) 1 2

General Measures for Exploratory Fisheries for Dissostichus spp. in the Convention Area in the 2004/05 Season

Species

Toothfish

Area various

Season 2004/05

Gear longline, trawl

The Commission hereby adopts the following conservation measure:

1. This conservation measure applies to exploratory fisheries using the trawl or longline methods except for such fisheries where the Commission has given specific exemptions to the extent of those exemptions. In trawl fisheries, a haul comprises a single deployment of the trawl net. In longline fisheries, a haul comprises the setting of one or more lines in a single location.

2. Fishing should take place over as large a geographical and bathymetric range as possible to obtain the information necessary to determine fishery potential and to avoid over-concentration of catch and effort. To this end, fishing in any small-scale research unit (SSRU) shall cease when the reported catch reaches the specified catch limit ³ and that SSRU shall be closed to fishing for the remainder of the season.

3. In order to give effect to paragraph 2 above:

(i) The precise geographic position of a haul in trawl fisheries will be determined by the mid-point of the path between the start-point and end-point of the haul for the purposes of catch and effort reporting;

(ii) The precise geographic position of a haul/set in longline fisheries will be determined by the centre-point of the line or lines deployed for the purposes of catch and effort reporting;

(iii) The vessel will be deemed to be fishing in any SSRU from the beginning of the setting process until the completion of the hauling of all lines;

(iv) Catch and effort information for each species by SSRU shall be reported to the Executive Secretary every five days using the Five-Day Catch and Effort Reporting System set out in Conservation Measure 23-01;

(v) The Secretariat shall notify Contracting Parties participating in these fisheries when the total catch for Dissostichus eleginoides and Dissostichus mawsoni combined in any SSRU is likely to reach the specified catch limit, and of the closure of that SSRU when that limit is reached. Upon such notification from the Secretariat, all fishing gear shall be hauled immediately. No part of a trawl path may lie within a closed SSRU and no part of a longline may be set within a closed SSRU.

4. The by-catch in each exploratory fishery shall be regulated as in Conservation Measure 33-03.

5. The total number and weight of Dissostichus eleginoides and Dissostichus mawsoni discarded, including those with the ‘jellymeat’ condition, shall be reported.

6. Each vessel participating in the exploratory fisheries for Dissostichus spp. during the 2004/05 season shall have one scientific observer appointed in accordance with the CCAMLR Scheme of International Scientific Observation, and where possible one additional scientific observer, on board throughout all fishing activities within the fishing season.

7. The Data Collection Plan (Annex 41-01/A), Research Plan (Annex 41-01/B) and Tagging Program (Annex 41-01/C) shall be implemented. Data collected pursuant to the Data Collection and Research Plans for the period up to 31 August 2005 shall be reported to CCAMLR by 30 September 2005 so that the data will be available to the meeting of the Working Group on Fish Stock Assessment (WG-FSA) in 2005. Such data taken after 31 August shall be reported to CCAMLR not later than three months after the closure of the fishery, but, where possible, submitted in time for the consideration of WG-FSA.

8. Members who choose not to participate in the fishery prior to the commencement of the fishery shall inform the Secretariat of changes in their plans no later than one month before the start of the fishery. If, for whatever reason, Members are unable to participate in the fishery, they shall inform the Secretariat no later than one week after finding that they cannot participate. The Secretariat will inform all Contracting Parties immediately after such notification is received.

¹ Except for waters adjacent to the Kerguelen and Crozet Islands.

² Except for waters adjacent to the Prince Edward Islands.

³ Unless otherwise specified, the catch limit for Dissostichus spp. shall be 100 tonnes in any SSRU except in respect of Subarea 88.2.

Annex 41-01/A

Data Collection Plan for Exploratory Fisheries

1. All vessels will comply with the Five-day Catch and Effort Reporting System (Conservation Measure 23-01) and Monthly Fine-scale Catch, Effort and Biological Data Reporting Systems (Conservation Measures 23-04 and 23-05).

2. All data required by the CCAMLR Scientific Observers Manual for finfish fisheries will be collected. These include:

(i) Position, date and depth at the start and end of every haul;

(ii) Haul-by-haul catch and catch per effort by species;

(iii) Haul-by-haul length frequency of common species;

(iv) Sex and gonad state of common species;

(v) Diet and stomach fullness;

(vi) Scales and/or otoliths for age determination;

(vii) Number and mass by species of by-catch of fish and other organisms; (viii) Observation on occurrence and incidental mortality of seabirds and mammals in relation to fishing operations.

3. Data specific to longline fisheries will be collected. These include:

(i) Position and sea depth at each end of every line in a haul;

(ii) Setting, soak, and hauling times;

(iii) Number and species of fish lost at surface;

(iv) Number of hooks set;

(v) Bait type;

(vi) Baiting success (%);

(vii) Hook type;

(viii) Sea and cloud conditions and phase of the moon at the time of setting the lines.

Annex 41-01/B

Research Plan for Exploratory Fisheries

1. Activities under this research plan shall not be exempted from any conservation measure in force.

2. This plan applies to all small-scale research units (SSRUs) as defined in Table 1 and Figure 1.

3. Any vessel undertaking prospecting or commercial fishing in any SSRU must undertake the following research activities:

(i) On first entry into a SSRU, the first 10 hauls, designated ‘first series’, whether by trawl or longline, shall be designated ‘research hauls’ and must satisfy the criteria set out in paragraph 4.

(ii) The next 10 hauls, or 10 tonnes of catch for longlining, whichever trigger level is achieved first, or 10 tonnes of catch for trawling, are designated the ‘second series’. Hauls in the second series can, at the discretion of the master, be fished as part of normal exploratory fishing. However, provided they satisfy the requirements of paragraph 4, these hauls can also be designated as research hauls.

(iii) On completion of the first and second series of hauls, if the master wishes to continue to fish within the SSRU, the vessel must undertake a ‘third series’ which will result in a total of 20 research hauls being made in all three series. The third series of hauls shall be completed during the same visit as the first and second series in a SSRU.

(iv) On completion of 20 research hauls the vessel may continue to fish within the SSRU.

(v) In SSRUs A, B, C, E, and G in Statistical Subarea 88.1 where fishable seabed area is less than 15,000 km ², paragraphs 3(ii), 3(iii) and 3(iv) do not apply and on completion of 10 research hauls the vessel may continue to fish within the SSRU.

4. To be designated as a research haul:

(i) Each research haul must be separated by not less than 5 n miles from any other research haul, distance to be measured from the geographical mid-point of each research haul;

(ii) Each haul shall comprise: for longlines, at least 3 500 hooks and no more than 10 000 hooks; this may comprise a number of separate lines set in the same location; for trawls, at least 30 minutes effective fishing time as defined in the Draft Manual for Bottom Trawl Surveys in the Convention Area (SC-CAMLR-XI, Annex 5, Appendix H, Attachment E, paragraph 4);

(iii) Each haul of a longline shall have a soak time of not less than six hours, measured from the time of completion of the setting process to the beginning of the hauling process.

5. All data specified in the Data Collection Plan (Annex 41-01/A) of this conservation measure shall be collected for every research haul; in particular, all fish in a research haul up to 100 fish are to be measured and at least 30 fish sampled for biological studies (paragraphs 2(iv) to 2(vi) of Annex 41-01/A). Where more than 100 fish are caught, a method for randomly subsampling the fish should be applied.

Figure 1: Small-scale research units for new and exploratory fisheries. The boundaries of these units are listed in Table 1. EEZ boundaries for Australia, France and South Africa are marked in order to address notifications for new and exploratory fisheries in waters adjacent to these zones. Dashed line—delineation between Dissostichus eleginoides and Dissostichus mawsoni.

Table 1: Description Of Small-Scale Research Units (SSRUs) (see also Figure 1)

Region SSRU Boundary Line

48.6 A From 50°S 20°W, due east to 30°E, due south to 60°S, due west to 20°W, due north to 50°S.

B From 60°S 20°W, due east to 10°W, due south to coast, westward along coast to 20°W, due north to 60°S.

C From 60°S 10°W, due east to 0° longitude, due south to coast, westward along coast to 10°W, due north to 60°S.

D From 60°S 0° longitude, due east to 10°E, due south to coast, westward along coast to 0° longitude, due north to 60°S.

E From 60°S 10°E, due east to 20°E, due south to coast, westward along coast to 10°E, due north to 60°S.

F From 60°S 20°E, due east to 30°E, due south to coast, westward along coast to 20°E, due north to 60°S.

58.4.1 A From 55°S 86°E, due east to 150°E, due south to 60°S, due west to 86°E, due north to 55°S.

B From 60°S 86°E, due east to 90°E, due south to coast, westward along coast to 80°E, due north to 64°S, due east to 86°E, due north to 60°S.

C From 60°S 90°E, due east to 100°E, due south to coast, westward along coast to 90°E, due north to 60°S.

D From 60°S 100°E, due east to 110°E, due south to coast, westward along coast to 100°E, due north to 60°S.

E From 60°S 110°E, due east to 120°E, due south to coast, westward along coast to 110°E, due north to 60°S.

F From 60°S 120°E, due east to 130°E, due south to coast, westward along coast to 120°E, due north to 60°S.

G From 60°S 130°E, due east to 140°E, due south to coast, westward along coast to 130°E, due north to 60°S.

H From 60°S 140°E, due east to 150°E, due south to coast, westward along coast to 140°E, due north to 60°S.

58.4.2 A From 62°S 30°E, due east to 40°E, due south to coast, westward along coast to 30°E, due north to 62°S.

B From 62°S 40°E, due east to 50°E, due south to coast, westward along coast to 40°E, due north to 62°S.

C From 62°S 50°E, due east to 60°E, due south to coast, westward along coast to 50°E, due north to 62°S.

D From 62°S 60°E, due east to 70°E, due south to coast, westward along coast to 60°E, due north to 62°S.

E From 62°S 70°E, due east to 73°10′E, due south to 64°S, due east to 80°E, due south to coast, westward along coast to 70°E, due north to 62°S.

58.4.3a A Whole division, from 56°S 60°E, due east to 73°10′E, due south to 62°S, due west to 60°E, due north to 56°S.

58.4.3b A Whole division, from 56°S 73°10′E, due east to 80°E, due north to 55°S, due east to 86°S, south to 64°S, due west to 73°10′E, due north to 56°S.

58.4.4 A From 51°S 40°E, due east to 42°E, due south to 54°S, due west to 40°E, due north to 51°S.

B From 51°S 42°E, due east to 46°E, due south to 54°S, due west to 42°E, due north to 51°S.

C From 51°S 46°E, due east to 50°E, due south to 54°S, due west to 46°E, due north to 51°S.

D Whole division excluding SSRUs A, B, C, and with outer boundary from 50°S 30°E, due east to 60°E, due south to 62°S, due west to 30°E, due north to 50°S.

58.6 A From 45°S 40°E, due east to 44°E, due south to 48°S, due west to 40°E, due north to 45°S.

B From 45°S 44°E, due east to 48°E, due south to 48°S, due west to 44°E, due north to 45°S.

C From 45°S 48°E, due east to 51°E, due south to 48°S, due west to 48°E, due north to 45°S.

D From 45°S 51°E, due east to 54°E, due south to 48°S, due west to 51°E, due north to 45°S.

58.7 A From 45°S 37°E, due east to 40°E, due south to 48°S, due west to 37°E, due north to 45°S.

88.1 A From 60°S 150°E, due east to 170°E, due south to 65°S, due west to 150°E, due north to 60°S.

B From 60°S 170°E, due east to 179°E, due south to 66°40′S, due west to 170°E, due north to 60°S.

C From 60°S 179°E, due east to 170°W, due south to 70°S, due west to 178°W, due north to 66°40′S, due west to 179°E, due north to 60°S.

D From 65°S 150°E, due east to 160°E, due south to coast, westward along coast to 150°E, due north to 65°S.

E From 65°S 160°E, due east to 170°E, due south to 68°30′S, due west to 160°E, due north to 65°S.

F From 68°30′S 160°E, due east to 170°E, due south to coast, westward along coast to 160°E, due north to 68°30′S.

G From 66°40′S 170°E, due east to 178°W, due south to 70°S, due west to 178°50′E, due south to 70°50′S, due west to 170°E, due north to 66°40′S.

H From 70°50′S 170°E, due east to 178°50′E, due south to 73°S, due west to coast, northward along coast to 170°E, due north to 70°50′S.

I From 70°S 178°50′E, due east to 170°W, due south to 73°S, due west to 178°50′E, due north to 70°S.

J From 73°S at coast near 169°30′E, due east to 178°50′E, due south to 80°S, due west to coast, northward along coast to 73°S.

K From 73°S 178°50′E, due east to 170°W, due south to 76°S, due west to 178°50′E, due north to 73°S.

L From 76°S 178°50′E, due east to 170°W, due south to 80°S, due west to 178°50′E, due north to 76°S.

88.2 A From 60°S 170°W, due east to 160°W, due south to coast, westward along coast to 170°W, due north to 60°S.

B From 60°S 160°W, due east to 150°W, due south to coast, westward along coast to 160°W, due north to 60°S.

C From 60°S 150°W, due east to 140°W, due south to coast, westward along coast to 150°W, due north to 60°S.

D From 60°S 140°W, due east to 130°W, due south to coast, westward along coast to 140°W, due north to 60°S.

E From 60°S 130°W, due east to 120°W, due south to coast, westward along coast to 130°W, due north to 60°S.

F From 60°S 120°W, due east to 110°W, due south to coast, westward along coast to 120°W, due north to 60°S.

G From 60°S 110°W, due east to 105°W, due south to coast, westward along coast to 110°W, due north to 60°S.

88.3 A From 60°S 105°W, due east to 95°W, due south to coast, westward along coast to 105°W, due north to 60°S.

B From 60°S 95°W, due east to 85°W, due south to coast, westward along coast to 95°W, due north to 60°S.

C From 60°S 85°W, due east to 75°W, due south to coast, westward along coast to 85°W, due north to 60°S.

D From 60°S 75°W, due east to 70°W, due south to coast, westward along coast to 75°W, due north to 60°S.

Annex 41-01/C

Tagging Program for Dissostichus SPP. in Exploratory Fisheries

1. The CCAMLR scientific observer, in cooperation with the fishing vessel, shall be required to undertake the tagging program.

2. This program shall apply in each exploratory longline fishery, and any vessel that participates in more then one exploratory fishery shall apply the following in each exploratory fishery in which that vessels fishes:

(i) Each longline vessel shall tag and release Dissostichus spp. at a rate of one toothfish per tonne of green weight catch throughout the season according to the CCAMLR Tagging Protocol ¹. Vessels shall only discontinue tagging after they have tagged 500 toothfish, or leave the fishery having tagged one toothfish per tonne of green weight caught.

(ii) The program shall target toothfish of all sizes in order to meet the tagging requirement of one toothfish per tonne of green weight catch. All released toothfish must be double-tagged and releases should cover as broad a geographical area as possible.

(iii) All tags shall be clearly imprinted with a unique serial number and a return address so that the origin of tags can be traced in the case of recapture of the tagged toothfish ¹.

(iv) Recaptured tagged fish (i.e. fish caught that have a previously inserted tag) shall not be re-released, even if at liberty for only a short period.

(v) All recaptured tagged fish should be biologically sampled (length, weight, sex, gonad stage), an electronic photograph taken if possible, the otoliths recovered and the tag removed.

3. All relevant tag data and any data recording tag recaptures shall be reported electronically in the CCAMLR format ¹ to the CCAMLR Data Manager within three months of the vessel departing the exploratory fisheries.

4. All relevant tag data, any data recording tag recaptures, and specimens (tags and otoliths) from recaptures shall also be reported electronically in the CCAMLR format ¹ to the relevant regional tag data repository as detailed in the CCAMLR Tagging Protocol (available at http://www.ccamlr.org).

¹ In accordance with the CCAMLR Tagging Protocol for exploratory fisheries which is available from the Secretariat and at http://www.ccamlr.org.

Conservation Measure 41-02 (2004)

Limits on the Fishery for Dissostichus eleginoides in Statistical Subarea 48.3 in the 2004/05 Season

Species toothfish

Area 48.3

Season 2004/05

Gear longline, pot

The Commission hereby adopts the following conservation measure in accordance with Conservation Measure 31-01:

1. The fishery for Dissostichus eleginoides in Statistical Subarea 48.3 shall be conducted by vessels using longlines and pots only.

2. For the purpose of this fishery, the area open to the fishery is defined as that portion of Subarea 48.3 that lies within the area bounded by latitudes 52°30′ S and 56°0′ S and by longitudes 33°30′W and 48°0′ W.

Access

3. A map illustrating the area defined by paragraph 2 is appended to this conservation measure (Annex 41-02/A). The portion of Subarea 48.3 outside that defined above shall be closed to directed fishing for Dissostichus eleginoides in the 2004/05 season.

Catch limit 4. The total catch of Dissostichus eleginoides in Statistical Subarea 48.3 in the 2004/05 season shall be limited to 3 050 tonnes. The catch limit shall be further subdivided between the Management Areas shown in Annex 41-02/A as follows:

Management Area A: 0 tonnes.

Management Area B: 915 tonnes.

Management Area C: 2 135 tonnes.

Season 5. For the purpose of the longline fishery for Dissostichus eleginoides in Statistical Subarea 48.3, the 2004/05 season is defined as the period from 1 May to 31 August 2005, or until the catch limit is reached, whichever is sooner. For the purpose of the pot fishery for Dissostichus eleginoides in Statistical Subarea 48.3, the 2004/05 season is defined as the period from 1 December 2004 to 30 November 2005, or until the catch limit is reached, whichever is sooner. The season for longline fishing operations may be extended to 14 September 2005 for any vessel which has demonstrated full compliance with Conservation Measure 25-02 in the 2003/04 season. This extension to the season shall also be subject to a catch limit of three (3) seabirds per vessel. If three seabirds are caught during the season extension, fishing shall cease immediately for that vessel.

By-catch 6. The by-catch of crab in any pot fishery undertaken shall be counted against the catch limit in the crab fishery in Statistical Subarea 48.3.

7. The by-catch of finfish in the fishery for Dissostichus eleginoides in Statistical Subarea 48.3 in the 2004/05 season shall not exceed 152 tonnes for skates and rays and 152 tonnes for Macrourus spp. For the purpose of these by-catch limits, skates and rays shall be counted as a single species.

8. If the by-catch of any one species is equal to or greater than 1 tonne in any one haul or set, then the fishing vessel shall move to another location at least 5 n miles ¹ distant. The fishing vessel shall not return to any point within 5 n miles of the location where the by-catch exceeded 1 tonne for a period of at least five days ². The location where the by-catch exceeded 1 tonne is defined as the path ³ followed by the fishing vessel.

Mitigation 9. The operation of this fishery shall be carried out in accordance with Conservation Measure 25-02 so as to minimise the incidental mortality of seabirds in the course of fishing.

Observers 10. Each vessel participating in this fishery shall have at least one scientific observer appointed in accordance with the CCAMLR Scheme of International Scientific Observation, and where possible one additional scientific observer, on board throughout all fishing activities within the fishing period.

Data:

Catch/effort

11. For the purpose of implementing this conservation measure in the 2004/05 season, the following shall apply:

(i) The Five-day Catch and Effort Reporting System set out in Conservation Measure 23-01;

(ii) The Monthly Fine-scale Catch and Effort Reporting System set out in Conservation Measure 23-04. Fine-scale data shall be submitted on a haul-by-haul basis.

12. For the purpose of Conservation Measures 23-01 and 23-04, the target species is Dissostichus eleginoides and by-catch species are defined as any species other than Dissostichus eleginoides.

13. The total number and weight of Dissostichus eleginoides discarded, including those with the “jellymeat” condition, shall be reported. These fish will count towards the total allowable catch.

Data:

Biological

14. Fine-scale biological data, as required under Conservation Measure 23-05, shall be collected and recorded. Such data shall be reported in accordance with the CCAMLR Scheme of International Scientific Observation.

Research

Fishing

15. Research fishing under the provisions of Conservation Measure 24-01 shall be limited to 10 tonnes of catch and to one vessel in Management Area A shown in the map in Annex 41-02/A during the 2004/05 season. Catches of Dissostichus eleginoides taken under the provisions of Conservation Measure 24-01 in the area of the fishery defined in this conservation measure shall be considered as part of the catch limit.

¹ This provision concerning the minimum distance separating fishing locations is adopted pending the adoption of a more appropriate definition of a fishing location by the Commission.

² The specified period is adopted in accordance with the reporting period specified in Conservation Measure 23-01, pending the adoption of a more appropriate period by the Commission.

³ For a longline the path is defined from the point at which the first anchor of a set was deployed to the point at which the last anchor of that set was deployed.

Annex 41-02/A

Subarea 48.3—the area of the fishery and the three management areas for catch allocation in the 2004/05 season according to paragraph 4. Latitudes and longitudes are given in degrees and minutes. 1 000 and 2 000 m contours are shown.

40 W 43 30′ W

Subarea 48.3

52 30′ S

33 30′ W

56 S

Management Area B

Management Area A

Management Area C

48 00′ W

Conservation Measure 41-04 (2004)

Limits on the Exploratory Fishery for Dissostichus spp. in Statistical Subarea 48.6 in the 2004/05 Season

Species toothfish

Area 48.6

Season 2004/05

Gear longline

The Commission hereby adopts the following conservation measure in accordance with Conservation Measure 21-02:

Access 1. Fishing for Dissostichus spp. in Statistical Subarea 48.6 shall be limited to the exploratory longline fishery by Japan, Republic of Korea and New Zealand. The fishery shall be conducted by Japanese, Korean and New Zealand flagged vessels using longlines only. No more than one vessel per country shall fish at any one time.

Catch limit 2. The total catch of Dissostichus spp. in Statistical Subarea 48.6 in the 2004/05 season shall not exceed a precautionary catch limit of 455 tonnes north of 60°S and 455 tonnes south of 60°S.

Season 3. For the purpose of the exploratory longline fishery for Dissostichus spp. in Statistical Subarea 48.6, the 2004/05 season is defined as the period from 1 December 2004 to 30 November 2005.

By-catch 4. The by-catch in this fishery shall be regulated as set out in Conservation Measure 33-03.

Mitigation 5. The exploratory longline fishery for Dissostichus spp. in Statistical Subarea 48.6 shall be carried out in accordance with the provisions of Conservation Measure 25-02, except paragraph 4 (night setting), which shall not apply as long as the requirements of Conservation Measure 24-02 are met.

6. Any vessel catching a total of three (3) seabirds shall immediately revert to night setting in accordance with Conservation Measure 25-02.

7. There shall be no offal discharge in this fishery.

Observers 8. Each vessel participating in the fishery shall have at least two scientific observers, one of whom shall be an observer appointed in accordance with the CCAMLR Scheme of International Scientific Observation, on board throughout all fishing activities within the fishing period.

Data:

Catch/effort

9. For the purpose of implementing this conservation measure in the 2004/05 season, the following shall apply:

(i) The Five-day Catch and Effort Reporting System set out in Conservation Measure 23-01;

(ii) The Monthly Fine-scale Catch and Effort Reporting System set out in Conservation Measure 23-04. Fine-scale data shall be submitted on a haul-by-haul basis.

10. For the purpose of Conservation Measures 23-01 and 23-04, the target species is Dissostichus spp. and by-catch species are defined as any species other than Dissostichus spp.

Data:

Biological

11. Fine-scale biological data, as required under Conservation Measure 23-05, shall be collected and recorded. Such data shall be reported in accordance with the CCAMLR Scheme of International Scientific Observation.

Research

12. Each vessel participating in this exploratory fishery shall conduct fishery-based research in accordance with the Research Plan and Tagging Program described in Conservation Measure 41-01, Annex B and Annex C respectively.

Conservation Measure 41-05 (2004)

Limits on the Exploratory Fishery for Dissostichus spp. in Statistical Division 58.4.2 in the 2004/05 Season

Species toothfish

Area 58.4.2

Season 2004/05

Gear longline

The Commission hereby adopts the following conservation measure in accordance with Conservation Measure 21-02, and notes that this measure would be for one year and that data arising from these activities would be reviewed by the Scientific Committee in 2005:

Access 1. Fishing for Dissostichus spp. in Statistical Division 58.4.2 shall be limited to the exploratory longline fishery by Chile, Republic of Korea, New Zealand, Spain and Ukraine. The fishery shall be conducted by one (1) Chilean, two (2) Korean, two (2) New Zealand, two (2) Spanish and one (1) Ukrainian flagged vessels using longlines only.

Catch limit 2. The total catch of Dissostichus spp. in Statistical Division 58.4.2 in the 2004/05 season shall not exceed a precautionary catch limit of 780 tonnes, of which no more 260 tonnes shall be taken in any one of the five small-scale research units (SSRUs) as detailed in Annex B of Conservation Measure 41-01.

3. Catch limits for each of the SSRUs for Statistical Division 58.4.2, shall be as follows: A—260 tonnes; B—0 tonnes; C—260 tonnes; D—0 tonnes; E—260 tonnes.

Season 4. For the purpose of the exploratory longline fishery for Dissostichus spp. in Statistical Division 58.4.2, the 2004/05 season is defined as the period from 1 December 2004 to 30 November 2005.

Fishing Operations

5. The exploratory longline fishery for Dissostichus spp. in Statistical Division 58.4.2 shall be carried out in accordance with the provisions of Conservation Measure 41-01, except paragraph 6.

6. Fishing will be prohibited in depths less than 550 m in order to protect benthic communities.

By-catch 7. The by-catch in this fishery shall be regulated as set out in Conservation Measure 33-03.

Mitigation 8. The exploratory longline fishery for Dissostichus spp. in Statistical Division 58.4.2 shall be carried out in accordance with the provisions of Conservation Measure 25-02, except paragraph 4 (night setting) shall not apply, providing that vessels comply with Conservation Measure 24-02.

9. Any vessel catching a total of three (3) seabirds shall immediately revert to night setting in accordance with Conservation Measure 25-02.

10. There shall be no offal discharge in this fishery.

Observers 11. Each vessel participating in the fishery shall have at least two scientific observers, one of whom shall be an observer appointed in accordance with the CCAMLR Scheme of International Scientific Observation, on board throughout all fishing activities within the fishing period.

Research 12. Each vessel participating in this exploratory fishery shall conduct fishery-based research in accordance with the Research Plan and Tagging Program described in Conservation Measure 41-01, Annex B and Annex C respectively.

Data:

Catch/effort

13. For the purpose of implementing this conservation measure in the 2004/05 season, the following shall apply:

(i) The Five-day Catch and Effort Reporting System set out in Conservation Measure 23-01;

(ii) The Monthly Fine-scale Catch and Effort Reporting System set out in Conservation Measure 23-04. Fine-scale data shall be submitted on a haul-by-haul basis.

14. For the purpose of Conservation Measures 23-01 and 23-04, the target species is Dissostichus spp. and by-catch species are defined as any species other than Dissostichus spp.

Data:

Biological

15. Fine-scale biological data, as required under Conservation Measure 23-05, shall be collected and recorded. Such data shall be reported in accordance with the CCAMLR Scheme of International Scientific Observation.

Conservation Measure 41-06 (2004)

Limits on the Exploratory Fishery for Dissostichus spp. on Elan Bank (Statistical Division 58.4.3a) Outside Areas of National Jurisdiction in the 2004/05 Season

Species toothfish

Area 58.4.3a

Season 2004/05

Gear longline

The Commission hereby adopts the following conservation measure in accordance with Conservation Measure 21-02:

Access 1. Fishing for Dissostichus spp. on Elan Bank (Statistical Division 58.4.3a) outside areas of national jurisdiction shall be limited to the exploratory fishery by Australia, Republic of Korea and Spain. The fishery shall be conducted by Australian, Korean and Spanish flagged vessels using longlines only. No more than one vessel per country shall fish at any one time.

Catch limit 2. The total catch of Dissostichus spp. on Elan Bank (Statistical Division 58.4.3a) outside areas of national jurisdiction in the 2004/05 season shall not exceed a precautionary catch limit of 250 tonnes.

Season 3. For the purpose of the exploratory longline fishery for Dissostichus spp. on Elan Bank (Statistical Division 58.4.3a) outside areas of national jurisdiction, the 2004/05 season is defined as the period from 1 May to 31 August 2005, or until the catch limit is reached, whichever is sooner.

By-catch 4. The by-catch in this fishery shall be regulated as set out in Conservation Measure 33-03.

Mitigation 5. The operation of this fishery shall be carried out in accordance with Conservation Measure 25-02 so as to minimise the incidental mortality of seabirds in the course of fishing.

6. The fishery on Elan Bank (Statistical Division 58.4.3a) outside areas of national jurisdiction, may take place outside the prescribed season (paragraph 3) provided that, prior to entry into force of the licence and prior to entering the Convention Area, each vessel shall demonstrate its capacity to comply with longline weighting as approved by the Scientific Committee and described in Conservation Measure 24-02 and such data shall be reported to the Secretariat immediately.

7. Should a total of three (3) seabirds be caught by a vessel outside the normal season (defined in paragraph 3), the vessel shall cease fishing immediately and shall not be permitted to fish outside the normal fishing season for the remainder of the 2004/05 fishing season.

Observers 8. Each vessel participating in this fishery shall have at least one scientific observer appointed in accordance with the CCAMLR Scheme of International Scientific Observation, and where possible one additional scientific observer, on board throughout all fishing activities within the fishing period.

Data:

Catch/effort

9. For the purpose of implementing this conservation measure in the 2004/05 season, the following shall apply:

(i) The Five-day Catch and Effort Reporting System set out in Conservation Measure 23-01;

(ii) The Monthly Fine-scale Catch and Effort Reporting System set out in Conservation Measure 23-04. Fine-scale data shall be submitted on a haul-by-haul basis.

10. For the purpose of Conservation Measures 23-01 and 23-04, the target species is Dissostichus spp. and by-catch species are defined as any species other than Dissostichus spp.

Data:

Biological

11. Fine-scale biological data, as required under Conservation Measure 23-05, shall be collected and recorded. Such data shall be reported in accordance with the CCAMLR Scheme of International Scientific Observation.

Research 12. Each vessel participating in this exploratory fishery shall conduct fishery-based research in accordance with the Research Plan and Tagging Program described in Conservation Measure 41-01, Annex B and Annex C respectively.

Conservation Measure 41-07 (2004)

Limits on the Exploratory Fishery for Dissostichus spp. on BANZARE Bank (Statistical Division 58.4.3b) Outside Areas of National Jurisdiction in the 2004/05 Season

Species toothfish

Area 58.4.3b

Season 2004/05

Gear longline

The Commission hereby adopts the following conservation measure in accordance with Conservation Measure 21-02:

Access 1. Fishing for Dissostichus spp. on BANZARE Bank (Statistical Division 58.4.3b) outside areas of national jurisdiction shall be limited to the exploratory fishery by Australia, Chile, Japan, Republic of Korea and Spain. The fishery shall be conducted by Australian, Chilean, Japanese, Korean and Spanish flagged vessels using longlines only. No more than one vessel per country shall fish at any one time.

Catch limit 2. The total catch of Dissostichus spp. on BANZARE Bank (Statistical Division 58.4.3b) outside areas of national jurisdiction in the 2004/05 season shall not exceed a precautionary catch limit of 300 tonnes.

Season 3. For the purpose of the exploratory longline fishery for Dissostichus spp. on BANZARE Bank (Statistical Division 58.4.3b) outside areas of national jurisdiction, the 2004/05 season is defined as the period from 1 May to 31 August 2005, or until the catch limit is reached, whichever is sooner.

By-catch 4. The by-catch in this fishery shall be regulated as set out in Conservation Measure 33-03.

Mitigation 5. The operation of this fishery shall be carried out in accordance with Conservation Measure 25-02 so as to minimise the incidental mortality of seabirds in the course of fishing.

6. The fishery on BANZARE Bank (Statistical Division 58.4.3b) outside areas of national jurisdiction, may take place outside the prescribed season (paragraph 3) provided that, prior to entry into force of the licence and prior to entering the Convention Area, each vessel shall demonstrate its capacity to comply with experimental line-weighting trials as approved by the Scientific Committee and described in Conservation Measure 24-02 and such data shall be reported to the Secretariat immediately.

7. Should a total of three (3) seabirds be caught by a vessel outside the normal season (defined in paragraph 3), the vessel shall cease fishing immediately and shall not be permitted to fish outside the normal fishing season for the remainder of the 2004/05 fishing season.

Observers 8. Each vessel participating in this fishery shall have at least one scientific observer appointed in accordance with the CCAMLR Scheme of International Scientific Observation, and where possible one additional scientific observer, on board throughout all fishing activities within the fishing period.

Data:

Catch/effort

9. For the purpose of implementing this conservation measure in the 2004/05 season, the following shall apply:

(i) The Five-day Catch and Effort Reporting System set out in Conservation Measure 23-01;

(ii) The Monthly Fine-scale Catch and Effort Reporting System set out in Conservation Measure 23-04. Fine-scale data shall be submitted on a haul-by-haul basis.

10. For the purpose of Conservation Measures 23-01 and 23-04, the target species is Dissostichus spp. and by-catch species are defined as any species other than Dissostichus spp.

Data:

Biological

11. Fine-scale biological data, as required under Conservation Measure 23-05, shall be collected and recorded. Such data shall be reported in accordance with the CCAMLR Scheme of International Scientific Observation.

Research 12. Each vessel participating in this exploratory fishery shall conduct fishery-based research in accordance with the Research Plan and Tagging Program described in Conservation Measure 41-01, Annex B and Annex C respectively.

Conservation Measure 41-08 (2004)

Limits on the Fishery for Dissostichus eleginoides in Statistical Division 58.5.2 in the 2004/05 Season

Species toothfish

Area 58.5.2

Season 2004/05

Gear longline, trawl

Access 1. The fishery for Dissostichus eleginoides in Statistical Division 58.5.2 shall be conducted by vessels using trawls or longlines only.

Catch limit 2. The total catch of Dissostichus eleginoides in Statistical Division 58.5.2 in the 2004/05 season shall be limited to 2 787 tonnes west of 79°20′ E.

Season 3. For the purpose of the trawl fishery for Dissostichus eleginoides in Statistical Division 58.5.2, the 2004/05 season is defined as the period from 1 December 2004 to 30 November 2005, or until the catch limit is reached, whichever is sooner. For the purpose of the longline fishery for Dissostichus eleginoides in Statistical Division 58.5.2, the 2004/05 season is defined as the period from 1 May to 31 August 2005, or until the catch limit is reached, whichever is sooner. The season for longline fishing operations may be extended to 14 September 2005 for any vessel which has demonstrated full compliance with Conservation Measure 25-02 in the 2003/04 season. This extension to the season will also be subject to a catch limit of three (3) seabirds per vessel. If three seabirds are caught during the season extension, fishing shall cease immediately for that vessel.

By-catch 4. Fishing shall cease if the by-catch of any species reaches its by-catch limit as set out in Conservation Measure 33-02.

Mitigation 5. The operation of the trawl fishery shall be carried out in accordance with Conservation Measure 25-03 so as to minimise the incidental mortality of seabirds and mammals through the course of fishing. The operation of the longline fishery shall be carried out in accordance with Conservation Measure 25-02, except paragraph 4 (night setting) shall not apply for vessels using integrated weighted lines (IWLs). Such vessels may deploy IWL gear during daylight hours if, prior to entry into force of the licence and prior to entering the Convention Area, each vessel shall demonstrate its capacity to comply with experimental line-weighting trials as approved by the Scientific Committee and described in Conservation Measure 24-02.

Observers 6. Each vessel participating in this fishery shall have at least one scientific observer, and may include one appointed in accordance with the CCAMLR Scheme of International Scientific Observation, on board throughout all fishing activities within the fishing period.

Data:

Catch/effort

7. For the purpose of implementing this conservation measure in the 2004/05 season, the following shall apply:

(i) The Ten-day Catch and Effort Reporting System set out in Annex 41-08/A;

(ii) The Monthly Fine-scale Catch and Effort Reporting System set out in Annex 41-08/A. Fine-scale data shall be submitted on a haul-by-haul basis.

8. For the purpose of Annex 41-08/A, the target species is Dissostichus eleginoides and by-catch species are defined as any species other than Dissostichus eleginoides.

9. The total number and weight of Dissostichus eleginoides discarded, including those with the ‘jellymeat’ condition, shall be reported. These fish will count towards the total allowable catch.

Data:

Biological

10. Fine-scale biological data, as required under Annex 41-08/A, shall be collected and recorded. Such data shall be reported in accordance with the CCAMLR Scheme of International Scientific Observation.

Annex 41-08/A

Data Reporting System

A ten-day catch and effort reporting system shall be implemented:

(i) For the purpose of implementing this system, the calendar month shall be divided into three reporting periods, viz: day 1 to day 10, day 11 to day 20 and day 21 to the last day of the month. The reporting periods are hereafter referred to as periods A, B and C;

(ii) At the end of each reporting period, each Contracting Party participating in the fishery shall obtain from each of its vessels information on total catch and total days and hours fished for that period and shall, by cable, telex, facsimile or electronic transmission, transmit the aggregated catch and days and hours fished for its vessels so as to reach the Executive Secretary no later than the end of the next reporting period;

(iii) A report must be submitted by every Contracting Party taking part in the fishery for each reporting period for the duration of the fishery, even if no catches are taken;

(iv) The catch of Dissostichus eleginoides and of all by-catch species must be reported;

(v) Such reports shall specify the month and reporting period (A, B and C) to which each report refers;

(vi) Immediately after the deadline has passed for receipt of the reports for each period, the Executive Secretary shall notify all Contracting Parties engaged in fishing activities in the division of the total catch taken during the reporting period and the total aggregate catch for the season to date;

(vii) At the end of every three reporting periods, the Executive Secretary shall inform all Contracting Parties of the total catch taken during the three most recent reporting periods and the total aggregate catch for the season to date.

A fine-scale catch, effort and biological data reporting system shall be implemented:

(i) The scientific observer(s) aboard each vessel shall collect the data required to complete the CCAMLR fine-scale catch and effort data form C1, latest version. These data shall be submitted to the CCAMLR Secretariat not later than one month after the vessel returns to port;

(ii) The catch of Dissostichus eleginoides and of all by-catch species must be reported;

(iii) The numbers of seabirds and marine mammals of each species caught and released or killed must be reported;

(iv) The scientific observer(s) aboard each vessel shall collect data on the length composition from representative samples of Dissostichus eleginoides and by-catch species:

(a) Length measurements shall be to the nearest centimetre below;

(b) Representative samples of length composition shall be taken from each fine-scale grid rectangle (0.5° latitude by 1° longitude) fished in each calendar month;

(v) The above data shall be submitted to the CCAMLR Secretariat not later than one month after the vessel returns to port.

Conservation Measure 41-09 (2004)

Limits on the Exploratory Fishery for Dissostichus spp. in Statistical Subarea 88.1 in the 2004/05 Season

Species toothfish

Area 88.1

Season 2004/05

Gear longline

The Commission hereby adopts the following conservation measure in accordance with Conservation Measure 21-02:

Access 1. Fishing for Dissostichus spp. in Statistical Subarea 88.1 shall be limited to the exploratory longline fishery by Argentina, Australia, New Zealand, Norway, Russia, South Africa, Spain, Ukraine, UK and Uruguay. The fishery shall be conducted by a maximum in the season of two (2) Argentine, one (1) Australian, five (5) New Zealand, one (1) Norwegian, two (2) Russian, two (2) South African, two (2) Spanish, one (1) Ukrainian, one (1) UK and four (4) Uruguayan flagged vessels using longlines only.

Catch limit 2. The total catch of Dissostichus spp. in Statistical Subarea 88.1 in the 2004/05 season shall not exceed a precautionary catch limit of 3 250 tonnes. Catch limits for each of the SSRUs, as defined in Conservation Measure 41-01, Annex B for Statistical Subarea 88.1, shall be as follows: A—0 tonnes; B—80 tonnes; C—223 tonnes; D—0 tonnes; E—57 tonnes; F—0 tonnes; G—83 tonnes; H—786 tonnes; I—776 tonnes; J—316 tonnes; K—749 tonnes; L—180 tonnes.

Season 3. For the purpose of the exploratory longline fishery for Dissostichus spp. in Statistical Subarea 88.1, the 2004/05 season is defined as the period from 1 December 2004 to 31 August 2005.

Fishing

Operations

4. The exploratory longline fishery for Dissostichus spp. in Statistical Subarea 88.1 shall be carried out in accordance with the provisions of Conservation Measure 41-01, except paragraph 6.

By-catch 5. The by-catch in this fishery shall be regulated as set out in Conservation Measure 33-03.

Mitigation 6. The exploratory longline fishery for Dissostichus spp. in Statistical Subarea 88.1 shall be carried out in accordance with the provisions of Conservation Measure 25-02, except paragraph 4 (night setting), which shall not apply as long as the requirements of Conservation Measure 24-02 are met.

7. Any vessel catching a total of three (3) seabirds shall immediately revert to night setting in accordance with Conservation Measure 25-02.

8. There shall be no offal discharge in this fishery.

Observers 9. Each vessel participating in the fishery shall have at least two scientific observers, one of whom shall be an observer appointed in accordance with the CCAMLR Scheme of International Scientific Observation, on board throughout all fishing activities within the fishing period.

VMS 10. Each vessel participating in this exploratory longline fishery shall be required to operate a VMS at all times, in accordance with Conservation Measure 10-04.

CDS 11. Each vessel participating in this exploratory longline fishery shall be required to participate in the Catch Documentation Scheme for Dissostichus spp., in accordance with Conservation Measure 10-05.

Research 12. Each vessel participating in this exploratory fishery shall conduct fishery-based research in accordance with the Research Plan and Tagging Program described in Conservation Measure 41-01, Annex B and Annex C respectively.

Data:

Catch/effort

13. For the purpose of implementing this conservation measure in the 2004/05 season, the following shall apply:

(i) The Five-day Catch and Effort Reporting System set out in Conservation Measure 23-01;

(ii) The Monthly Fine-scale Catch and Effort Reporting System set out in Conservation Measure 23-04. Fine-scale data shall be submitted on a haul-by-haul basis.

14. For the purpose of Conservation Measures 23-01 and 23-04, the target species is Dissostichus spp. and by-catch species are defined as any species other than Dissostichus spp.

Data:

Biological

15. Fine-scale biological data, as required under Conservation Measure 23-05, shall be collected and recorded. Such data shall be reported in accordance with the CCAMLR Scheme of International Scientific Observation.

Discharge 16. All vessels participating in this exploratory fishery shall be prohibited from discharging:

(i) Oil or fuel products or oily residues into the sea, except as permitted in Annex I of MARPOL 73/78;

(ii) Garbage;

(iii) Food wastes not capable of passing through a screen with openings no greater than 25 mm;

(iv) Poultry or parts (including egg shells);

(v) Sewage within 12 n miles of land or ice shelves, or sewage while the ship is travelling at a speed of less than 4 knots; or

(vi) Incineration ash.

Additional Elements

17. No live poultry or other living birds shall be brought into Statistical Subarea 88.1 and any dressed poultry not consumed shall be removed from Statistical Subarea 88.1.

18. Fishing for Dissostichus spp. in Statistical Subarea 88.1 shall be prohibited within 10 n miles of the coast of the Balleny Islands.

Conservation Measure 41-10 (2004)

Limits on the Exploratory Fishery for Dissostichus spp. in Statistical Subarea 88.2 in the 2004/05 Season

Species toothfish

Area 88.2

Season 2004/05

Gear longline

The Commission hereby adopts the following conservation measure in accordance with Conservation Measure 21-02:

Access 1. Fishing for Dissostichus spp. in Statistical Subarea 88.2 shall be limited to the exploratory longline fishery by Argentina, New Zealand, Norway and Russia. The fishery shall be conducted by a maximum in the season of two (2) Argentine, five (5) New Zealand, one (1) Norwegian and two (2) Russian flagged vessels using longlines only.

Catch limit 2. The total catch of Dissostichus spp. in Statistical Subarea 88.2 south of 65°S in the 2004/05 season shall not exceed a precautionary catch limit of 375 tonnes.

Season 3. For the purpose of the exploratory longline fishery for Dissostichus spp. in Statistical Subarea 88.2, the 2004/05 season is defined as the period from 1 December 2004 to 31 August 2005.

4. The exploratory longline fishery for Dissostichus spp. in Statistical Subarea 88.2 shall be carried out in accordance with the provisions of Conservation Measure 41-01, except paragraph 6.

By-catch 5. The by-catch in this fishery shall be regulated as set out in Conservation Measure 33-03.

Mitigation 6. The exploratory longline fishery for Dissostichus spp. in Statistical Subarea 88.2 shall be carried out in accordance with the provisions of Conservation Measure 25-02, except paragraph 4 (night setting), which shall not apply as long as the requirements of Conservation Measure 24-02 are met.

7. Any vessel catching a total of three (3) seabirds shall immediately revert to night setting in accordance with Conservation Measure 25-02.

8. There shall be no offal discharge in this fishery.

Observers 9. Each vessel participating in the fishery shall have at least two scientific observers, one of whom shall be an observer appointed in accordance with the CCAMLR Scheme of International Scientific Observation, on board throughout all fishing activities within the fishing period.

VMS 10. Each vessel participating in this exploratory longline fishery shall be required to operate a VMS at all times, in accordance with Conservation Measure 10-04.

CDS 11. Each vessel participating in this exploratory longline fishery shall be required to participate in the Catch Documentation Scheme for Dissostichus spp., in accordance with Conservation Measure 10-05.

Research 12. Each vessel participating in this exploratory fishery shall conduct fishery-based research in accordance with the Research Plan and Tagging Program described in Conservation Measure 41-01, Annex B and Annex C respectively.

Data:

Catch/effort

13. For the purpose of implementing this conservation measure in the 2004/05 season, the following shall apply:

(i) The Five-day Catch and Effort Reporting System set out in Conservation Measure 23-01;

(ii) The Monthly Fine-scale Catch and Effort Reporting System set out in Conservation Measure 23-04. Fine-scale data shall be submitted on a haul-by-haul basis.

64

14. For the purpose of Conservation Measures 23-01 and 23-04, the target species is Dissostichus spp. and by-catch species are defined as any species other than Dissostichus spp.

Data:

Biological

15. Fine-scale biological data, as required under Conservation Measure 23-05, shall be collected and recorded. Such data shall be reported in accordance with the CCAMLR Scheme of International Scientific Observation.

Discharge

16. All vessels participating in this exploratory fishery shall be prohibited from discharging:

(i) Oil or fuel products or oily residues into the sea, except as permitted in Annex I of MARPOL 73/78;

(ii) Garbage;

(iii) Food wastes not capable of passing through a screen with openings no greater than 25 mm;

(iv) Poultry or parts (including egg shells);

(v) Sewage within 12 n miles of land or ice shelves, or sewage while the ship is travelling at a speed of less than 4 knots; or

(vi) Incineration ash.

Additional Elements

17. No live poultry or other living birds shall be brought into Statistical Subarea 88.2 and any dressed poultry not consumed shall be removed from Statistical Subarea 88.2.

Conservation Measure 41-11 (2004)

Limits on the Exploratory Fishery for Dissostichus spp. in Statistical Division 58.4.1 in the 2004/05 Season

Species toothfish

Area 58.4.1

Season 2004/05

Gear longline

The Commission hereby adopts the following conservation measure in accordance with Conservation Measure 21-02, and notes that this measure would be for one year and that data arising from these activities would be reviewed by the Scientific Committee in 2005:

Access 1. Fishing for Dissostichus spp. in Statistical Division 58.4.1 shall be limited to the exploratory longline fishery by Chile, Republic of Korea, New Zealand, Spain and Ukraine. The fishery shall be conducted by two (2) Chilean, two (2) Korean, two (2) New Zealand, two (2) Spanish and one (1) Ukrainian flagged vessels using longlines only.

Catch limit 2. The total catch of Dissostichus spp. in Statistical Division 58.4.1 in the 2004/05 season shall not exceed a precautionary catch limit of 600 tonnes, of which no more than 200 tonnes shall be taken in any one of the eight small-scale research units (SSRUs) as detailed in Annex B of Conservation Measure 41-01.

3. Catch limits for each of the SSRUs for Statistical Division 58.4.1, shall be as follows: A—0 tonnes; B—0 tonnes; C—200 tonnes; D—0 tonnes; E—200 tonnes; F—0 tonnes; G—200 tonnes; H—0 tonnes.

Season 4. For the purpose of the exploratory longline fishery for Dissostichus spp. in Statistical Division 58.4.1, the 2004/05 season is defined as the period from 1 December 2004 to 30 November 2005.

Fishing Operations

5. The exploratory longline fishery for Dissostichus spp. in Statistical Division 58.4.1 shall be carried out in accordance with the provisions of Conservation Measure 41-01, except paragraph 6.

6. Fishing will be prohibited in depths less than 550 m in order to protect benthic communities.

By-catch 7. The by-catch in this fishery shall be regulated as set out in Conservation Measure 33-03.

Mitigation 8. The exploratory longline fishery for Dissostichus spp. in Statistical Division 58.4.1 shall be carried out in accordance with the provisions of Conservation Measure 25-02, except paragraph 4 (night setting) shall not apply, providing that vessels comply with Conservation Measure 24-02.

9. Any vessel catching a total of three (3) seabirds shall immediately revert to night setting in accordance with Conservation Measure 25-02.

10. There shall be no offal discharge in this fishery.

Observers 11. Each vessel participating in the fishery shall have at least two scientific observers, one of whom shall be an observer appointed in accordance with the CCAMLR Scheme of International Scientific Observation, on board throughout all fishing activities within the fishing period.

Research 12. Each vessel participating in this exploratory fishery shall conduct fishery-based research in accordance with the Research Plan and Tagging Program described in Conservation Measure 41-01, Annex B and Annex C respectively.

Data:

Catch/effort

13. For the purpose of implementing this conservation measure in the 2004/05 season, the following shall apply:

(i) The Five-day Catch and Effort Reporting System set out in Conservation Measure 23-01;

(ii) The Monthly Fine-scale Catch and Effort Reporting System set out in Conservation Measure 23-04. Fine-scale data shall be submitted on a haul-by-haul basis.

14. For the purpose of Conservation Measures 23-01 and 23-04, the target species is Dissostichus spp. and by-catch species are defined as any species other than Dissostichus spp.

Data:

Biological

15. Fine-scale biological data, as required under Conservation

Measure 23-05, shall be collected and recorded. Such data shall be reported in accordance with the CCAMLR Scheme of International Scientific Observation.

Conservation Measure 42-01 (2004)

Limits on the Fishery for Champsocephalus gunnari in Statistical Subarea 48.3 in the 2004/05 Season

Species icefish

Area 48.3

Season 2004/05

Gear trawl

The Commission hereby adopts the following conservation measure in accordance with Conservation Measure 31-01:

Access 1. The fishery for Champsocephalus gunnari in Statistical Subarea 48.3 shall be conducted by vessels using trawls only. The use of bottom trawls in the directed fishery for Champsocephalus gunnari in Statistical Subarea 48.3 is prohibited.

2. Fishing for Champsocephalus gunnari shall be prohibited within 12 n miles of the coast of South Georgia during the period 1 March to 31 May (spawning period).

Catch limit 3. The total catch of Champsocephalus gunnari in Statistical Subarea 48.3 in the 2004/05 season shall be limited to 3 574 tonnes. The total catch of Champsocephalus gunnari taken in the period 1 March to 31 May shall be limited to 894 tonnes.

4. Where any haul contains more than 100 kg of Champsocephalus gunnari, and more than 10% of the Champsocephalus gunnari by number are smaller than 240 mm total length, the fishing vessel shall move to another fishing location at least 5 n miles distant ¹. The fishing vessel shall not return to any point within 5 n miles of the location where the catch of small Champsocephalus gunnari exceeded 10%, for a period of at least five days ². The location where the catch of small Champsocephalus gunnari exceeded 10% is defined as the path followed by the fishing vessel from the point at which the fishing gear was first deployed from the fishing vessel to the point at which the fishing gear was retrieved by the fishing vessel.

Season 5. For the purpose of the trawl fishery for Champsocephalus gunnari in Statistical Subarea 48.3, the 2004/05 season is defined as the period from 15 November 2004 to 14 November 2005, or until the catch limit is reached, whichever is sooner.

By-catch 6. The by-catch in this fishery shall be regulated as set out in Conservation Measure 33-01. If, in the course of the directed fishery for Champsocephalus gunnari, the by-catch in any one haul of any of the species named in Conservation Measure 33-01

• Is greater than 100 kg and exceeds 5% of the total catch of all fish by weight, or

• Is equal to or greater than 2 tonnes, then the fishing vessel shall move to another location at least 5 n miles distant ¹. The fishing vessel shall not return to any point within 5 n miles of the location where the by-catch of species named in Conservation Measure 33-01 exceeded 5% for a period of at least five days ². The location where the by-catch exceeded 5% is defined as the path followed by the fishing vessel from the point at which the fishing gear was first deployed from the fishing vessel to the point at which the fishing gear was retrieved by the fishing vessel.

Mitigation 7. The operation of this fishery shall be carried out in accordance with Conservation Measure 25-03 so as to minimise the incidental mortality of seabirds in the course of the fishery.

8. Should any vessel catch a total of 20 seabirds, it shall cease fishing and shall be excluded from further participation in the fishery in the 2004/05 season.

Observers 9. Each vessel participating in this fishery shall have at least one scientific observer appointed in accordance with the CCAMLR Scheme of International Scientific Observation, and where possible one additional scientific observer, on board throughout all fishing activities within the fishing period.

Data:

Catch/effort

10. For the purpose of implementing this conservation measure in the 2004/05 season, the following shall apply:

(i) The Five-day Catch and Effort Reporting System set out in Conservation Measure 23-01;

(ii) The Monthly Fine-scale Catch and Effort Reporting System set out in Conservation Measure 23-04. Fine-scale data shall be submitted on a haul-by-haul basis.

11. For the purpose of Conservation Measures 23-01 and 23-04, the target species is Champsocephalus gunnari and by-catch species are defined as any species other than Champsocephalus gunnari.

Data:

Biological

12. Fine-scale biological data, as required under Conservation Measure 23-05, shall be collected and recorded. Such data shall be reported in accordance with the CCAMLR Scheme of International Scientific Observation.

Research 13. Each vessel operating in this fishery during the period 1 March to 31 May 2005 shall conduct twenty (20) research trawls in the manner described in Annex 42-01/A.

¹ This provision concerning the minimum distance separating fishing locations is adopted pending the adoption of a more appropriate definition of a fishing location by the Commission.

² The specified period is adopted in accordance with the reporting period specified in Conservation Measure 23-01, pending the adoption of a more appropriate period by the Commission.

Annex 42-01/A

Research Trawls During Spawning Season

1. All fishing vessels taking part in the fishery for Champsocephalus gunnari in Statistical Subarea 48.3 between 1 March and 31 May shall be required to conduct a minimum of 20 research hauls, to be completed during that period. Twelve research hauls shall be carried out in the Shag Rocks-Black Rocks area. These shall be distributed between the four sectors illustrated in Figure 1: Four each in the NW and SE sectors, and two each in the NE and SW sectors. A further eight research hauls shall be conducted on the northwestern shelf of South Georgia over water less than 300 m deep, as illustrated in Figure 1.

2. Each research haul must be at least 5 n miles distant from all others. The spacing of stations is intended to be such that both areas are adequately covered in order to provide information on the length, sex, maturity and weight composition of Champsocephalus gunnari.

3. If concentrations of fish are located en route to South Georgia, they should be fished in addition to the research hauls.

4. The duration of research hauls must be of a minimum of 30 minutes with the net at fishing depth. During the day, the net must be fished close to the bottom.

5. The catch of all research hauls shall be sampled by the international scientific observer on board. Samples should aim to comprise at least 100 fish, sampled using standard random sampling techniques. All fish in the sample should be at least examined for length, sex and maturity determination, and where possible weight. More fish should be examined if the catch is large and time permits.

Figure 1: Distribution of 20 research hauls on Champsocephalus gunnari at Shag Rocks (12) and South Georgia (8) from 1 March to 31 May. Haul locations around South Georgia (stars) are illustrative.

Conservation Measure 42-02 (2004)

Limits on the Fishery for Champsocephalus gunnari in Statistical Division 58.5.2 in the 2004/05 Season

Species icefish

Area 58.5.2

Season 2004/05

Gear trawl

Access 1. The fishery for Champsocephalus gunnari in Statistical Division 58.5.2 shall be conducted by vessels using trawls only.

2. For the purpose of this fishery for Champsocephalus gunnari, the area open to the fishery is defined as that portion of Statistical Division 58.5.2 that lies within the area enclosed by a line:

(i) Starting at the point where the meridian of longitude 72°15′ E intersects the Australia-France Maritime Delimitation Agreement Boundary then south along the meridian to its intersection with the parallel of latitude 53°25′ S;

(ii) Then east along that parallel to its intersection with the meridian of longitude 74° E;

(iii) Then northeasterly along the geodesic to the intersection of the parallel of latitude 52°40′ S and the meridian of longitude 76° E;

(iv) Then north along the meridian to its intersection with the parallel of latitude 52°S;

(v) Then northwesterly along the geodesic to the intersection of the parallel of latitude 51° S with the meridian of longitude 74°30′ E;

(vi) Then southwesterly along the geodesic to the point of commencement.

3. A chart illustrating the above definition is appended to this conservation measure (Annex 42-02/A). Areas in Statistical Division 58.5.2 outside that defined above shall be closed to directed fishing for Champsocephalus gunnari.

Catch limit 4. The total catch of Champsocephalus gunnari in Statistical Division 58.5.2 in the 2004/05 season shall be limited to 1 864 tonnes.

5. Where any haul contains more than 100 kg of Champsocephalus gunnari, and more than 10% of the Champsocephalus gunnari by number are smaller than the specified minimum legal total length, the fishing vessel shall move to another fishing location at least 5 n miles distant ¹. The fishing vessel shall not return to any point within 5 n miles of the location where the catch of small Champsocephalus gunnari exceeded 10% for a period of at least five days ². The location where the catch of small Champsocephalus gunnari exceeded 10% is defined as the path followed by the fishing vessel from the point at which the fishing gear was first deployed from the fishing vessel to the point at which the fishing gear was retrieved by the fishing vessel. From the 1 December 2004 to 30 November 2005 the minimum legal total length shall be 240 mm.

Season 6. For the purpose of the trawl fishery for Champsocephalus gunnari in Statistical Division 58.5.2, the 2004/05 season is defined as the period from 1 December 2004 to 30 November 2005, or until the catch limit is reached, whichever is sooner.

By-catch 7. Fishing shall cease if the by-catch of any species reaches its by-catch limit as set out in Conservation Measure 33-02.

Mitigation 8. The operation of this fishery shall be carried out in accordance with Conservation Measure 25-03 so as to minimise the incidental mortality of seabirds in the course of fishing.

Observers 9. Each vessel participating in this fishery shall have at least one scientific observer, and may include one appointed in accordance with the CCAMLR Scheme of International Scientific Observation, on board throughout all fishing activities within the fishing period.

Data:

Catch/effort

10. For the purpose of implementing this conservation measure in the 2004/05 season, the following shall apply:

(i) The Ten-day Catch and Effort Reporting System set out in Annex 42-02/B;

(ii) The Monthly Fine-scale Catch and Effort Reporting System set out in Annex 42-02/B. Fine-scale data shall be submitted on a haul-by-haul basis.

11. For the purpose of Annex 42-02/B, the target species is Champsocephalus gunnari and by-catch species are defined as any species other than Champsocephalus gunnari.

Data:

Biological

12. Fine-scale biological data, as required under Annex 42-02/B, shall be collected and recorded. Such data shall be reported in accordance with the CCAMLR Scheme of International Scientific Observation.

¹ This provision concerning the minimum distance separating fishing locations is adopted pending the adoption of a more appropriate definition of a fishing location by the Commission.

² The specified period is adopted in accordance with the reporting period specified in Conservation Measure 23-01, pending the adoption of a more appropriate period by the Commission.

Annex 42-02/A

Chart of the Heard Island Plateau

Annex 42-02/B

Data Reporting System

A ten-day catch and effort reporting system shall be implemented:

(i) For the purpose of implementing this system, the calendar month shall be divided into three reporting periods, viz: day 1 to day 10, day 11 to day 20 and day 21 to the last day of the month. The reporting periods are hereafter referred to as periods A, B and C;

(ii) At the end of each reporting period, each Contracting Party participating in the fishery shall obtain from each of its vessels information on total catch and total days and hours fished for that period and shall, by cable, telex, facsimile or electronic transmission, transmit the aggregated catch and days and hours fished for its vessels so as to reach the Executive Secretary no later than the end of the next reporting period;

(iii) A report must be submitted by every Contracting Party taking part in the fishery for each reporting period for the duration of the fishery, even if no catches are taken;

(iv) The catch of Champsocephalus gunnari and of all by-catch species must be reported;

(v) Such reports shall specify the month and reporting period (A, B and C) to which each report refers;

(vi) Immediately after the deadline has passed for receipt of the reports for each period, the Executive Secretary shall notify all Contracting Parties engaged in fishing activities in the division of the total catch taken during the reporting period and the total aggregate catch for the season to date;

(vii) At the end of every three reporting periods, the Executive Secretary shall inform all Contracting Parties of the total catch taken during the three most recent reporting periods and the total aggregate catch for the season to date.

A fine-scale catch, effort and biological data reporting system shall be implemented:

(i) The scientific observer(s) aboard each vessel shall collect the data required to complete the CCAMLR fine-scale catch and effort data form C1, latest version. These data shall be submitted to the CCAMLR Secretariat not later than one month after the vessel returns to port;

(ii) The catch of Champsocephalus gunnari and of all by-catch species must be reported;

(iii) The numbers of seabirds and marine mammals of each species caught and released or killed must be reported;

(iv) The scientific observer(s) aboard each vessel shall collect data on the length composition from representative samples of Champsocephalus gunnari and by-catch species:

(a) Length measurements shall be to the nearest centimetre below;

(b) Representative samples of length composition shall be taken from each fine-scale grid rectangle (0.5° latitude by 1° longitude) fished in each calendar month;

(v) The above data shall be submitted to the CCAMLR Secretariat not later than one month after the vessel returns to port.

Conservation Measure 52-01 (2004)

Limits on the Fishery for Crab in Statistical Subarea 48.3 in the 2004/05 Season

Species crab

Area 48.3

Season 2004/05

Gear pot

The Commission hereby adopts the following conservation measure in accordance with Conservation Measure 31-01:

Access 1. The fishery for crab in Statistical Subarea 48.3 shall be conducted by vessels using pots only. The crab fishery is defined as any commercial harvest activity in which the target species is any member of the crab group (Order Decapoda, Suborder Reptantia).

2. The crab fishery shall be limited to one vessel per Member.

3. Each Member intending to participate in the crab fishery shall notify the CCAMLR Secretariat at least three months in advance of starting fishing of the name, type, size, registration number, radio call sign, and research and fishing operations plan of the vessel that the Member has authorised to participate in the crab fishery.

Catch limit 4. The total catch of crab in Statistical Subarea 48.3 in the 2004/05 season shall not exceed a precautionary catch limit of 1 600 tonnes.

5. The crab fishery shall be limited to sexually mature male crabs—all female and undersized male crabs caught shall be released unharmed. In the case of Paralomis spinosissima and Paralomis formosa, males with a minimum carapace width of 94 mm and 90 mm, respectively, may be retained in the catch.

Season 6. For the purpose of the pot fishery for crab in Statistical Subarea 48.3, the 2004/05 season is defined as the period from 1 December 2004 to 30 November 2005, or until the catch limit is reached, whichever is sooner.

By-catch 7. The by-catch of Dissostichus eleginoides shall be counted against the catch limit in the fishery for Dissostichus eleginoides in Statistical Subarea 48.3.

Observers 8. Each vessel participating in this fishery shall have at least one scientific observer appointed in accordance with the CCAMLR Scheme of International Scientific Observation, and where possible one additional scientific observer, on board throughout all fishing activities within the fishing period. Scientific observers shall be afforded unrestricted access to the catch for statistical random sampling prior to, as well as after, sorting by the crew.

Data:

Catch/effort

9. For the purpose of implementing this conservation measure in the 2004/05 season, the following shall apply:

(i) The Ten-day Catch and Effort Reporting System set out in Conservation Measure 23-02;

(ii) The Monthly Fine-scale Catch and Effort Reporting System set out in Conservation Measure 23-04. Fine-scale data shall be submitted on a haul-by-haul basis.

10. For the purpose of Conservation Measures 23-02 and 23-04 the target species is crab and by-catch species are defined as any species other than crab.

Data:

Biological

11. Fine-scale biological data, as required under Conservation Measure 23-05, shall be collected and recorded. Such data shall be reported in accordance with the CCAMLR Scheme of International Scientific Observation.

Research

12. Each vessel participating in this exploratory fishery shall conduct fishery-based research in accordance with the data requirements described in Annex 52-01/A and the experimental harvest regime described in Conservation Measure 52-02. Data collected for the period up to 31 August 2005 shall be reported to CCAMLR by 30 September 2005 so that the data will be available to the meeting of the Working Group on Fish Stock Assessment (WG-FSA) in 2005. Such data collected after 31 August shall be reported to CCAMLR not later than three months after the closure of the fishery.

Annex 52-01/A

Data Requirements on the Crab Fishery in Statistical Subarea 48.3

Catch and Effort Data:

Cruise Descriptions: Cruise code, vessel code, permit number, year.

Pot Descriptions: Diagrams and other information, including pot shape, dimensions, mesh size, funnel position, aperture and orientation, number of chambers, presence of an escape port.

Effort Descriptions: Date, time, latitude and longitude of the start of the set, compass bearing of the set, total number of pots set, spacing of pots on the line, number of pots lost, depth, soak time, bait type.

Catch Descriptions: Retained catch in numbers and weight, by-catch of all species (see Table 1), incremental record number for linking with sample information.

Table 1: Data requirements for by-catch species in the crab fishery in Statistical Subarea 48.3.

Species Data Requirements

Dissostichus eleginoides Numbers and estimated total weight

Notothenia rossii Numbers and estimated total weight

Other species Estimated total weight

Biological Data: For these data, crabs are to be sampled from the line hauled just prior to noon, by collecting the entire contents of a number of pots spaced at intervals along the line so that between 35 and 50 specimens are represented in the subsample.

Cruise Descriptions: Cruise code, vessel code, permit number.

Sample Descriptions: Date, position at start of the set, compass bearing of the set, line number.

Data: Species, sex, length of at least 35 individuals, presence/absence of rhizocephalan parasites, record of the destination of the crab (kept, discarded, destroyed), record of the pot number from which the crab comes.

Conservation Measure 52-02 (2004)

Experimental Harvest Regime for the Crab Fishery in Statistical Subarea 48.3 in the 2004/05 Season

Species crab

Area 48.3

Season 2004/05

Gear pot

The following measures apply to all crab fishing within Statistical Subarea 48.3 in the 2004/05 fishing season. Every vessel participating in the crab fishery in Statistical Subarea 48.3 shall conduct fishing operations in accordance with an experimental harvest regime as outlined below:

1. Vessels shall conduct the experimental harvest regime in the 2004/05 season at the start of their first season of participation in the crab fishery and the following conditions shall apply:

(i) Every vessel when undertaking an experimental harvesting regime shall expend its first 200 000 pot hours of effort within a total area delineated by twelve blocks of 0.5° latitude by 1.0° longitude. For the purposes of this conservation measure, these blocks shall be numbered A to L. In Annex 52-02/A, the blocks are illustrated (Figure 1), and the geographic position is denoted by the coordinates of the northeast corner of the block. For each string, pot hours shall be calculated by taking the total number of pots on the string and multiplying that number by the soak time (in hours) for that string. Soak time shall be defined for each string as the time between start of setting and start of hauling;

(ii) Vessels shall not fish outside the area delineated by the 0.5° latitude by 1.0° longitude blocks prior to completing the experimental harvesting regime;

(iii) Vessels shall not expend more than 30 000 pot hours in any single block of 0.5° latitude by 1.0° longitude;

(iv) If a vessel returns to port before it has expended 200 000 pot hours in the experimental harvesting regime the remaining pot hours shall be expended before it can be considered that the vessel has completed the experimental harvesting regime;

(v) After completing 200 000 pot hours of experimental fishing, it shall be considered that vessels have completed the experimental harvesting regime and they shall be permitted to commence fishing in a normal fashion.

2. Data collected during the experimental harvest regime up to 30 June 2005 shall be submitted to CCAMLR by 31 August 2005.

3. Normal fishing operations shall be conducted in accordance with the regulations set out in Conservation Measure 52-01.

4. For the purposes of implementing normal fishing operations after completion of the experimental harvest regime, the Ten-day Catch and Effort Reporting System set out in Conservation Measure 23-02 shall apply.

5. Vessels that complete experimental harvest regime shall not be required to conduct experimental fishing in future seasons. However, these vessels shall abide by the guidelines set forth in Conservation Measure 52-01.

6. Fishing vessels shall participate in the experimental harvest regime independently (i.e. vessels may not cooperate to complete phases of the experiment).

7. Crabs taken by any vessel for research purposes will be considered as part of any catch limits in force for each species taken, and shall be reported to CCAMLR as part of the annual STATLANT returns.

8. All vessels participating in the experimental harvest regime shall carry at least one scientific observer on board during all fishing activities.

Annex 52-02/A

Locations of Fishing Areas for the Experimental Harvest Regime of the Exploratory Crab Fishery

AA BB CC DD EE FF GG

M

Y

N Q

U

O

R V

P

S

W

T

X Z

HH

II

Figure 1: Operations area for Phase 1 of the experimental harvest regime for the crab fishery in Statistical Subarea 48.3.

Conservation Measure 61-01 (2004)

Limits on the Exploratory Fishery for Martialia hyadesi in Statistical Subarea 48.3 in the 2004/05 Season

Species squid

Area 48.3

Season 2004/05

Gear jig

The Commission hereby adopts the following conservation measure in accordance with Conservation Measures 21-02 and 31-01:

Access 1. Fishing for Martialia hyadesi in Statistical Subarea 48.3 shall be limited to the exploratory jig fishery by notifying countries. The fishery shall be conducted by vessels using jigs only.

Catch limit 2. The total catch of Martialia hyadesi in Statistical Subarea 48.3 in the 2004/05 season shall not exceed a precautionary catch limit of 2 500 tonnes.

Season 3. For the purpose of the exploratory jig fishery for Martialia hyadesi in Statistical Subarea 48.3, the 2004/05 season is defined as the period from 1 December 2004 to 30 November 2005, or until the catch limit is reached, whichever is sooner.

Observers 4. Each vessel participating in this fishery shall have at least one scientific observer appointed in accordance with the CCAMLR Scheme of International Scientific Observation, and where possible one additional scientific observer, on board throughout all fishing activities within the fishing period.

Data:

Catch/effort

5. For the purpose of implementing this conservation measure in the 2004/05 season, the following shall apply:

(i) The Ten-day Catch and Effort Reporting System set out in Conservation Measure 23-02;

(ii) The Monthly Fine-scale Catch and Effort Reporting System set out in Conservation Measure 23-04. Fine-scale data shall be submitted on a haul-by-haul basis.

6. For the purpose of Conservation Measures 23-02 and 23-04, the target species is Martialia hyadesi and by-catch species are defined as any species other than Martialia hyadesi.

Data:

Biological

7. Fine-scale biological data, as required under Conservation Measure 23-05, shall be collected and recorded. Such data shall be reported in accordance with the CCAMLR Scheme of International Scientific Observation.

Research 8. Each vessel participating in this exploratory fishery shall collect data in accordance with the Data Collection Plan described in Annex 61-01/A. Data collected pursuant to the plan for the period up to 31 August 2005 shall be reported to CCAMLR by 30 September 2005 so that the data will be available to the meeting of the Working Group on Fish Stock Assessment (WG-FSA) in 2005.

Annex 61-01/A

Data Collection Plan for Exploratory Squid (Martialia Hyadesi) Fisheries in Statistical Subarea 48.3

1. All vessels will comply with conditions set by CCAMLR. These include data required to complete the data form (Form TAC) for the Ten-day Catch and Effort Reporting System, as specified by Conservation Measure 23-02; and data required to complete the CCAMLR standard fine-scale catch and effort data form for a squid jig fishery (Form C3). This includes numbers of seabirds and marine mammals of each species caught and released or killed.

2. All data required by the CCAMLR Scientific Observers Manual for squid fisheries will be collected. These include:

(i) Vessel and observer program details (Form S1);

(ii) Catch information (Form S2);

(iii) Biological data (Form S3).

Conservation Measure 91-01 (2004)

Procedure for According Protection to CEMP Sites

Species all

Area general

The Commission, Bearing in mind that the Scientific Committee has established a system of sites contributing data to the CCAMLR Ecosystem Monitoring Program (CEMP), and that additions may be made to this system in the future,

Recalling that it is not the purpose of the protection accorded to CEMP sites to restrict fishing activity in adjacent waters, Recognising that studies being undertaken at CEMP sites may be vulnerable to accidental or wilful interference,

Concerned, therefore, to provide protection for CEMP sites, scientific investigations and the Antarctic marine living resources therein, in cases where a Member or Members of the Commission conducting or planning to conduct CEMP studies believes such protection to be desirable,

Hereby adopts the following conservation measure in accordance with Article IX of the Convention:

1. In cases where a Member or Members of the Commission conducting, or planning to conduct, CEMP studies at a CEMP site believe it desirable that protection should be accorded to the site, it, or they, shall prepare a draft management plan in accordance with Annex A to this conservation measure.

2. Each such draft management plan shall be sent to the Executive Secretary for transmission to all Members of the Commission for their consideration at least three months before its consideration by WG-EMM.

3. The draft management plan shall be considered in turn by WG-EMM, the Scientific Committee and the Commission. In consultation with the Member or Members of the Commission which drew up the draft management plan, it may be amended by any of these bodies. If a draft management plan is amended by either WG-EMM or the Scientific Committee, it shall be passed on in its amended form either to the Scientific Committee or to the Commission as the case may be.

4. If, following completion of the procedures outlined in paragraphs 1 to 3 above, the Commission considers it appropriate to accord the desired protection to the CEMP site, the Commission shall adopt a Resolution calling on Members to comply, on a voluntary basis, with the provisions of the draft management plan, pending the conclusion of action in accordance with paragraphs 5 to 8 below.

5. The Executive Secretary shall communicate such a Resolution to SCAR, the Antarctic Treaty Consultative Parties and, if appropriate, the Contracting Parties to other components of the Antarctic Treaty System which are in force.

6. Unless, before the opening date of the next regular meeting of the Commission, the Executive Secretary has received:

(i) An indication from an Antarctic Treaty Consultative Party that it desires the resolution to be considered at a Consultative Meeting; or

(ii) An objection from any other quarter referred to in paragraph 5 above; the Commission may, by means of a conservation measure, confirm its adoption of the management plan for the CEMP site and shall include the management plan in Annex 91-01/A of that conservation measure.

7. In the event that an Antarctic Treaty Consultative Party has indicated its desire for the Resolution to be considered at a Consultative Meeting, the Commission shall await the outcome of such consideration, and may then proceed accordingly.

8. If objection is received in accordance with paragraphs 6(ii) or 7 above, the Commission may institute such consultations as it may deem appropriate to achieve the necessary protection and to avoid interference with the achievement of the principles and purposes of, and measures approved under, the Antarctic Treaty and other components of the Antarctic Treaty System which are in force.

9. The management plan of any site may be amended by decision of the Commission. In such cases full account shall be taken of the advice of the Scientific Committee. Any amendment which increases the area of the site or adds to categories or types of activities that would jeopardise the objectives of the site shall be subject to the procedures set out in paragraphs 5 to 8 above.

10. Entry into a CEMP site described by a conservation measure shall be prohibited except for the purposes authorised in the relevant management plan for the site and in accordance with a permit issued under paragraph 11.

11. Each Contracting Party shall, as appropriate, issue permits authorising its nationals to carry out activities consistent with the provisions of the management plans for CEMP sites and shall take such other measures, within its competence, as may be necessary to ensure that its nationals comply with the management plans for such sites.

12. Copies of such permits shall be sent to the Executive Secretary as soon as practical after they are issued. Each year the Executive Secretary shall provide the Commission and the Scientific Committee with a brief description of the permits that have been issued by the Parties. In cases where permits are issued for purposes not directly related to the conduct of CEMP studies at the site in question, the Executive Secretary shall forward a copy of the permit to the Member or Members of the Commission conducting CEMP studies at that site.

13. Each management plan shall be reviewed every five years by WG-EMM and the Scientific Committee to determine whether it requires revision and whether continued protection is necessary. The Commission may then act accordingly.

Annex 91-01/A

Information To Be Included in Management Plans for CEMP Sites

A. Geographical Information

1. A description of the site, and any buffer zone within the site, including:

1.1 Geographical coordinates;

1.2 Natural features, including those that define the site;

1.3 Boundary markers;

1.4 Access points (pedestrian, vehicular, airborne, sea-borne);

1.5 Pedestrian and vehicular routes;

1.6 Preferred anchorages;

1.7 Location of structures within the site;

1.8 Restricted areas within the site;

1.9 Location of nearby scientific stations or other facilities;

1.10 Location of areas or sites, in or near the site, which have been accorded protected status in accordance with measures adopted under the Antarctic Treaty or other components of the Antarctic Treaty System that are in force

2. Maps, including the following elements where appropriate:

2.1 Essential features

2.1.1 Title

2.1.2 Latitude and longitude

2.1.3 Scale bar with numerical scale

2.1.4 Comprehensive legend

2.1.5 Adequate and approved place names

2.1.6 Map projection and spheroid modification (indicate beneath the scale bar)

2.1.7 North arrow

2.1.8 Contour interval

2.1.9 Date of map preparation

2.1.10 Map preparer

2.1.11 Date of image collection (where applicable)

2.2 Essential topographical features

2.2.1 Coastline, rock, and ice

2.2.2 Peaks and ridgelines

2.2.3 Ice margins and other glacial features, clear delineation between ice/snow and ice-free ground; if glacial features are part of the boundary, date of survey should be indicated

2.2.4 Contours (labelled as appropriate), survey points, and spot heights

2.2.5 Bathymetric contours of marine areas, with relevant bottom features if known

2.3 Natural features

2.3.1 Lakes, ponds, and streams

2.3.2 Moraines, screes, cliffs, beaches

2.3.3 Beach areas

2.3.4 Bird and seal concentrations or breeding colonies

2.3.5 Extensive areas of vegetation

2.3.6 Wildlife access areas to the sea

2.4 Anthropogenic features

2.4.1 Stations

2.4.2 Field huts, refuges

2.4.3 Campsites

2.4.4 Roads and vehicle tracks, footpaths, feature overlaps

2.4.5 Approach paths and landing areas for airplanes and helicopters

2.4.6 Approach paths and access points for boats (wharfs, jetties)

2.4.7 Power supplies, cables

2.4.8 Antennae

2.4.9 Fuel storage areas

2.4.10 Water reservoirs and pipes

2.4.11 Emergency caches

2.4.12 Markers, signs

2.4.13 Historic sites or artefacts, archaeological sites

2.4.14 Scientific installations or sampling areas

2.4.15 Site contamination or modification

2.5 Boundaries

2.5.1 Boundary of area

2.5.2 Boundaries of subsidiary zones and protected areas within the mapping area

2.5.3 Boundary signs and markers (including cairns)

2.5.4 Boat/aircraft approach routes

2.5.5 Navigation markers or beacons

2.5.6 Survey points and markers

2.6 Other mapping guidelines

2.6.1 Verify all features and boundaries by GPS if possible

2.6.2 Ensure visual balance among elements

2.6.3 Appropriate shading (shading should be distinguishable on a photocopy of the map)

2.6.4 Correct and appropriate text; no feature overlap

2.6.5 Appropriate legend; use SCAR approved map symbols when possible

2.6.6 Text appropriately shadowed on image data

2.6.7 Photographs may be used where appropriate

2.6.8 Official maps should be in black and white

2.6.9 Most likely two or more maps will be needed for a management plan, one showing the site and the vicinity, and one detailed map of the site showing features essential for the management plan objectives; other maps may be useful (i.e. geological map of the area, three dimensional terrain model)

B. Biological Features

1. A description of the biological features of the site, in both space and time, which it is the purpose of the management plan to protect.

C. CEMP Studies

1. A full description of the CEMP studies being conducted or planned to be conducted, including the species and parameters which are being or are to be studied.

D. Protection Measures

1. Statements of prohibited activities:

1.1 Throughout the site at all times of the year;

1.2 Throughout the site at defined parts of the year;

1.3 In parts of the site at all times of the year;

1.4 In parts of the site at defined parts of the year

2. Prohibitions regarding access to and movement within or over the site

3. Prohibitions regarding:

3.1 The installation, modification, and/or removal of structures;

3.2 The disposal of waste.

4. Prohibitions for the purpose of ensuring that activity in the site does not prejudice the purposes for which protection status has been accorded to areas or sites, in or near the site, under the Antarctic Treaty or other components of the Antarctic Treaty System which are in force.

E. Communications Information

1. The name, address, telephone and facsimile numbers, and e-mail addresses, of:

1.1 The organisation or organisations responsible for appointing national representative(s) to the Commission;

1.2 The national organisation or organisations conducting CEMP studies at the site.

Notes: 1. A code of conduct. If it would help towards achieving the scientific objectives of the site, a code of conduct may be annexed to the management plan. Such a code should be written in hortatory rather than mandatory terms, and must be consistent with the prohibitions contained in Section D above.

2. Members of the Commission preparing draft management plans for submission in accordance with this conservation measure should bear in mind that the primary purpose of the management plan is to provide for the protection of CEMP studies at the site through the application of the prohibitions contained in Section D. To that end, the management plan is to be drafted in concise and unambiguous terms. Information which is intended to help scientists, or others, appreciate broader considerations regarding the site (e.g. historical and bibliographic information) should not be included in the management plan but may be annexed to it.

Conservation Measure 91-02 (2004)

Protection of the Cape Shirreff CEMP Site

Species all

Area 48.1

1. The Commission noted that a program of long-term studies is being undertaken at Cape Shirreff and the San Telmo Islands, Livingston Island, South Shetland Islands, as part of the CCAMLR Ecosystem Monitoring Program (CEMP). Recognising that these studies may be vulnerable to accidental or wilful interference, the Commission expressed its concern that this CEMP site, the scientific investigations, and the Antarctic marine living resources therein be protected.

2. Therefore, the Commission considers it appropriate to accord protection to the Cape Shirreff CEMP site, as defined in the Cape Shirreff management plan.

3. Members shall comply with the provisions of the Cape Shirreff CEMP site management plan, which is recorded in Annex 91-02/A.

4. In accordance with Article X, the Commission shall draw this conservation measure to the attention of any State that is not a Party to the Convention and whose nationals or vessels are present in the Convention Area.

Annex 91-02/A

Management Plan for the Protection of Cape Shirreff and the San Telmo Islands, South Shetland Islands, as a Site Included in the CCAMLR Ecosystem Monitoring Program ¹

A. Geographical Information

1. Description of the site:

(a) Geographical coordinates: Cape Shirreff is a low, ice-free peninsula towards the western end of the north coast of Livingston Island, South Shetland Islands, situated at latitude 62°27′ S, longitude 60°47′ W, between Barclay Bay and Hero Bay. San Telmo Islands are the largest of a small group of ice-free rock islets, approximately 2 km west of Cape Shirreff.

(b) Natural features: Cape Shirreff is approximately 3 km from north to south and 0.5 to 1.2 km from east to west. The site is characterised by many inlets, coves and cliffs. Its southern boundary is bordered by a permanent glacial ice barrier, which is located at the narrowest part of the cape. The cape is mainly an extensive rock platform, 46 to 83 m above sea level, the bedrock being largely covered by weathered rock and glacial deposits. The eastern side of the base of the cape has two beaches with a total length of about 600 m. The first is a boulder beach, the second of sand. Above this is a raised beach with mosses and lichens, crossed by melt-streams from the snow above. The extremity of the cape has a rocky barrier about 150 m long. The western side is formed by almost continuous cliffs 10 to 15 m high above an exposed coast with a few protected beaches. At the southwestern base of the cape is a small sandy and pebble beach approximately 50 m long. The San Telmo Islands are located approximately 2 km west of Cape Shirreff, and are a group of ice-free, rocky islets. The east coast of San Telmo Island (the largest of the group) has a sandy and pebble beach (60 m) at the south end, separated from the northern sandy beach (120 m) by two irregular cliffs (45 m) and narrow pebble beaches.

(c) Boundary markers: The boundaries of the Cape Shirreff CEMP Protected Area are identical to the boundaries of the Site of Special Scientific Interest No. 32, as specified by ATCM Recommendation XV-7. At present, there are no man-made boundary markers indicating the limits of the SSSI or established protected areas. The boundaries of the site are defined by natural features (i.e. coastlines, glacial margins) described in Section A.1(d).

¹As adopted at CCAMLR-XVIII (paragraphs 9.5 and 9.6), and revised at CCAMLR-XIX (paragraph 9.9).

(d) Natural features that define the site: The Cape Shirreff CEMP Protected Area includes the entire area of the Cape Shirreff peninsula north of the glacier ice tongue margin, and most of the San Telmo Islands group. For the purposes of the CEMP protected area, ‘the entire area’ of Cape Shirreff and the San Telmo Islands group is defined as any land or rocks exposed at mean low tide within the area delimited by the map (Figure 3).

(e) Access points: The Cape Shirreff part of the CEMP site may be entered at any point where pinniped or seabird rookeries are not present on or near the beach. Access to the island in the San Telmo group is unrestricted but should be at the least densely populated areas and cause minimal disturbance to the fauna. Access for other than CEMP research should avoid disturbing pinnipeds and seabirds (seeSections D.1 and D.2). Access by small boat or helicopter is recommended in most circumstances. Four helicopter landing areas are recommended including: (i) The south plain of Playa Yámana, which is situated on the Southwest coast of the cape; (ii) on the west coast of the cape, on the top plain of Gaviota Hill (10 x 20 m), near the monument erected to commemorate the officers and crew of the Spanish ship San Telmo; (iii); the wide plain, Paso Ancho, situated to the east of Cóndor Hill; and (iv) the top plain of Cóndor Hill. Recommended sites for landing small boats include: (i) the northern end of Half Moon beach, on the east coast of the cape; (ii) on the east coast, 300 m north of El Mirador, there is a deep channel which permits easy disembarkation, and (iii) the northern end of Playa Yámana on the west coast of the cape (during high tide conditions). There are no landing sites for fixed-wing aircraft.

(f) Pedestrian and vehicular routes: Boats, helicopters, fixed-wing aircraft and land vehicles should avoid the site except for operations directly supporting authorised scientific activities. During these operations, boats and aircraft should travel routes that avoid or minimise disturbance of pinnipeds and seabirds. Land vehicles should not be used except to transport needed equipment and supplies to and from the field camps. Pedestrians should not walk through wildlife population areas, especially during the breeding season, or disturb other fauna or flora except as necessary to conduct authorised research.

(g) Preferred anchorages: Numerous shoals and pinnacles are known to exist in the vicinity of Cape Shirreff and the San Telmo Islands. The detailed bathymetric chart No. 14301 produced by the Servicio Hidrográfico y Oceanográfico de la Armada de Chile (SHOA, 1994) provides guidance but those unfamiliar with local conditions at Cape Shirreff are advised to approach the area with caution. Three anchorages that have been used in the past are: (i) Northwest coast—situated between Rapa-Nui Point on Cape Shirreff and the northern extremity of the San Telmo Islands; (ii) east coast—2.5 km to the east of El Mirador, being alert for icebergs drifting in the area; and (iii) south coast—located about 4 km off the southern coast of Byers Peninsula to support ship-based helicopter operations. Organisation(s) conducting CEMP studies at the site can provide further details about sailing instructions pertaining to recommended anchorages (see Section E.2).

(h) Location of structures within the site: During the 1991/92 austral summer, a fibreglass cabin for four people was installed by the Instituto Antártico Chileno (INACH) (Anonymous, 1992) in the El Mirador area. This area is on the cape's east coast, at the base of Condor Hill (near the site of the previous installation of the former Soviet Union). This site was chosen because of its accessibility by helicopter and boat, shelter from winds, good water supply and absence of seal or bird colonies. During the 1996/97 austral summer a U.S. AMLR field camp was established approximately 50 m to the south of the INACH camp. The U.S. camp is comprised of four small wood-constructed buildings (including an outhouse); all within 3 m of each other and jointed by wooden walkways. In February 1999 an emergency shelter/bird observation blind was constructed by the U.S. program at the northern end of the Cape. Minor remains of a hut used in the past by the former Soviet Union as well as sparse evidence of a 19th century sealers' camp can be found near the camp site.

(i) Areas within the site where activities are constrained: The protection measures specified in Section D apply to all areas within the Cape Shirreff CEMP Protected Area, as defined in Section A.1(d).

(j) Location of nearby scientific, research, or refuge facilities: The nearest research facility to the site is Juan Carlos I Station (summer only) maintained by the Spanish government at South Bay, Livingston Island, (62°40′ S, 60°22′ W), approximately 30 km southeast of Cape Shirreff. The Chilean Station Arturo Prat is located on Greenwich Island (62°30′ S, 59°41′ W) approximately 56 km northeast of Cape Shirreff. Numerous scientific stations and research facilities (e.g. Argentina, Brazil, Chile, China, Korea, Poland, Russia, Uruguay) are located on King George Island, approximately 100 km northeast of Cape Shirreff. The largest of these facilities is Base Presidente Eduardo Frei Montalva (also formerly referred to as Base Teniente Rodolfo Marsh Martin), maintained by the Chilean government on the western end of King George Island (62°12′ S, 58°55′ W).

(k) Areas or sites protected under the Antarctic Treaty System: Cape Shirreff and the San Telmo Islands are protected as a Site of Special Scientific Interest (No. 32) under the Antarctic Treaty System (see Section A.1(c)). Several other sites or areas within 100 km of Cape Shirreff are also protected under the Antarctic Treaty System: SSSI No. 5, Fildes Peninsula (62°12′ S, 58°59′ W); SSSI No. 6, Byers Peninsula (62°38′ S, 61°05′ W); SSSI No. 35, Ardley Island, Maxwell Bay, King George Island (62°13′ S, 58°56′ W); Marine SSSI No. 35, Western Bransfield Strait (63°20′ S to 63°35′ S, 61°45′ W to 62°30′ W); and SPA No. 16, Coppermine Peninsula, Robert Island (62°23′ S, 59°44′ W). The Seal Islands CEMP Protected Area (60°59′14″ S, 55°23′04″ W) is located approximately 325 km northeast of Cape Shirreff.

2. Maps of the site:

(a) Figures 1 and 2 show the geographical position of Cape Shirreff and the San Telmo Islands in relation to major surrounding features, including the South Shetland Islands and adjacent bodies of water.

(b) Figure 3 identifies the boundaries of the site and provides details of specific locations within the vicinity of Cape Shirreff and the San Telmo Islands, including preferred vessel anchorages.

B. Biological Features

1. Terrestrial: There is no information on soil biology of Cape Shirreff but it is likely that similar types of plants and invertebrates are found as at other sites in the South Shetland Islands (e.g. see Lindsey, 1971; Allison and Smith, 1973; Smith, 1984; Sömme, 1985). A moderate lichen cover (e.g. Polytrichum alpestre, Usnea fasciata) is present on rocks located in the higher geological platforms. In some valleys there are patches of moss and grass (e.g. Deschampsia antarctica).

2. Inland waters: There are several ephemeral ponds and streams located at Cape Shirreff. These form from melting snow, especially in January and February. Hidden Lake is the only permanent body of water on the cape, and it is located in the confluence of the slope of three hills: El Toqui, Pehuenche and Aymara. The lake's drainage supports the growth of moss banks along its northeast and southwest slopes. From the southwest slope a stream flows to the western coast at Playa Yámana. The lake's depth is estimated at two to 3 m and it is approximately 12 m long when fullest; the lake diminishes considerably in size after February (Torres, 1995). There are no known lakes or ephemeral ponds of significance on the San Telmo Islands.

3. Marine: No studies on littoral communities have been carried out. There is abundant macroalgae present in the intertidal zone. The limpet Nacella concinna is common, as elsewhere in the South Shetland Islands.

4. Seabirds: In January 1958, 2 000 pairs of chinstrap penguins (Pygoscelis antarctica) and 200 to 500 pairs of gentoo penguins (P. papua) were reported (Croxall and Kirkwood, 1979). In 1981 two unspecified penguin colonies had 4 328 and 1 686 individuals respectively (Sallaberry and Schlatter, 1983). A census in January 1987, produced estimates of 20 800 adult chinstrap penguins and 750 adult gentoo penguins (Shuford and Spear, 1987). Hucke-Gaete et al. (1997a) identified the presence of 31 breeding colonies for both species during 1996/97 and reported estimates of 6 907 breeding pairs of chinstrap penguins and 682 of gentoo penguins. A chick census developed in early February that same year gave a total of 8 802 chinstrap penguins and 825 gentoo penguins. The first of a continuing CCAMLR census of the colonies at Cape Shirreff conducted on 3 December, 1997 recorded 7 617 and 810 breeding pairs of chinstrap and gentoo penguins, respectively (Martin 1998). Dominican gulls (Larus domincanus), brown skuas (Catharacta lönnbergi), Antarctic terns (Sterna vittata), blue-eyed shags (Phalacrocorax atriceps), cape petrels (Daption capense), Wilson's storm petrels (Oceanites oceanicus) and black-bellied storm petrel (Fregetta tropica) also nest on the cape. Giant petrels (Macronectes giganteus) are regular visitors during the austral summer (Torres, 1995).

5. Pinnipeds: Cape Shirreff is presently the site of the largest known breeding colony of the Antarctic fur seal (Arctocephalus gazella) in the South Shetland Islands. The first post-exploitation record of fur seals at Cape Shirreff was reported by O'Gorman (1961) in mid-February 1958 when 27 non-breeding adults were seen. Over the past 30 years, the colony has continued to increase in size (Aguayo and Torres, 1968, 1993; Bengtson et al., 1990, Torres, 1995; Hucke-Gaete et al., 1999). Annual censuses begun in 1991/92 by INACH scientists showed that pup production has increased every year except for 1997/98 when there was an apparent 14% decrease in the entire SSSI. From 1965/66 to 1998/99 the population increased at a rate of 19.8%. However, from 1992/93 to 1998/99 the growth rate has decreased to ca. 7% per year, with the last census in 1998/99 reporting 5 497 pups born on Cape Shirreff and 3 027 pups born on San Telmo Islands (Hucke-Gaete et al., 1999). Groups of non-breeding southern elephant seals (Mirounga leonina), Weddell seals (Leptonychotes weddelli), leopard seals (Hydrurga leptonyx) and crabeater seals (Lobodon carcinophagus) have been observed on the cape (O'Gorman, 1961; Aguayo and Torres, 1967; Bengtson et al., 1990; Torres et al., 1998). Additionally, observations of pup carcasses suggest breeding sites of southern elephant seals (Torres, 1995).

C. CEMP Studies

1. The presence at Cape Shirreff of both Antarctic fur seal and penguin breeding colonies, and of krill fisheries within the foraging range of these species, make this a critical site for inclusion in the ecosystem monitoring network established to help meet the objectives of the Convention on the Conservation of Antarctic Marine Living Resources. The purpose of the designation is to allow planned research and monitoring to proceed, while avoiding or reducing, to the greatest extent possible, other activities which could interfere with or affect the results of the research and monitoring program or alter the natural features of the site.

2. The following species are of particular interest for CEMP routine monitoring and directed research at this site: Antarctic fur seals, chinstrap penguins and gentoo penguins.

3. Long-term studies are under way to assess and monitor the feeding ecology, growth and condition, reproductive success, behaviour, and population dynamics of pinnipeds and seabirds that breed in the area. The results of these studies will be compared with environmental data, wildlife diseases, offshore sampling data, and fishery statistics to identify possible cause-effect relationships.

4. Chilean scientists have been conducting studies at the site for many years and in recent seasons they have developed studies specifically designed to contribute to CEMP. These studies have mainly focused on Antarctic fur seals, wildlife diseases and survey of marine debris. Annual marine debris surveys began in 1985, with a baseline established in 1994 (e.g. Torres and Jorquera 1995, 1999). In 1996/97 U.S. scientists began CEMP monitoring studies of Antarctic fur seals, chinstrap and gentoo penguins in conjunction with studies of offshore prey distribution and general oceanography (e.g. Martin, 1999).

5. Penguin parameters routinely monitored include trends in population size (A3), demography (A4), duration of foraging trips (A5), breeding success (A6), chick fledging weight (A7), chick diet (A8) and breeding chronology (A9). Studies of fur seals include foraging energetics, at-sea foraging locations using satellite-linked telemetry, diving behaviour, diet studies, duration of foraging trips (C1), reproductive success, and pup growth rates (C2).

D. Protection Measures

1. Prohibited activities and temporal constraints:

(a) Throughout the site at all times of the year: Any activities which damage, interfere with, or adversely affect the planned CEMP monitoring and directed research at this site are not permitted.

(b) Throughout the site at all times of the year: Any non-CEMP activities are not permitted which result in:

(i) Killing, injuring, or disturbing pinnipeds or seabirds;

(ii) Damaging or destroying pinniped or seabird breeding areas; or

(iii) Damaging or destroying the access of pinnipeds or seabirds to their breeding areas.

(c) Throughout the site at defined parts of the year: Human occupation of the site during the period 1 June to 31 August is not permitted except under emergency circumstances.

(d) In parts of the site at all times of the year: Building structures within boundaries of any pinniped or seabird colony is not permitted. For this purpose, colonies are defined as the specific locations where pinniped pups are born or where seabird nests are built. This prohibition does not pertain to placing markers (e.g. numbered stakes, posts, etc.) or situating research equipment in colonies as may be required to facilitate scientific research.

(e) In parts of the site at defined parts of the year: Entry into any pinniped or seabird colonies during the period 1 September to 31 May is not permitted except in association with CEMP activities.

2. Prohibitions regarding access to and movement within the site:

(a) Entry to the site at locations where pinniped or seabird colonies are present in densely populated areas is not permitted.

(b) Aircraft overflight of the site is not permitted at altitudes less than 1 000 m unless the proposed flight plan has been reviewed in advance by the organisation(s) conducting CEMP activities at the site (see Section E.2). Aircraft overflight at altitudes below 200 m is not permitted.

(c) The use of land vehicles is not permitted except to transport needed equipment and supplies to and from the field camps.

(d) Pedestrians are not permitted to walk through wildlife population areas (e.g. colonies, resting areas, pathways), or to disturb other fauna or flora, except as necessary to conduct authorised research.

3. Prohibitions regarding structures:

(a) Building structures other than those directly supporting authorised scientific research and monitoring programs or to house research personnel and their equipment is not permitted.

(b) Human occupation of these structures is not permitted during the period 1 June to 31 August (see Section D.1(c)).

(c) New structures are not permitted to be built within the site unless the proposed plans have been reviewed in advance by the organisation(s) conducting CEMP activities at the site (see Section E.2).

4. Prohibitions regarding waste disposal:

(a) Landfill disposal of any materials is not permitted; all materials brought to the site are to be removed when no longer in use.

(b) Disposal of waste fuels, volatile liquids and scientific chemicals within the site is not permitted; these materials are to be removed from the site for proper disposal elsewhere.

(c) The open burning of any materials is not permitted (except for properly used fuels for heating, lighting or cooking).

5. Prohibitions regarding the Antarctic Treaty System: It is not permitted to undertake any activities in the Cape Shirreff CEMP Protected Area which are not in compliance with the provisions of: (i) The Antarctic Treaty, including the Agreed Measures for the Conservation of Antarctic Fauna and Flora and the Protocol on Environmental Protection, (ii) the Convention for the Conservation of Antarctic Seals, and (iii) the Convention for the Conservation of Antarctic Marine Living Resources.

E. Communications Information

1. Organisation(s) appointing national representatives to the Commission.

(a) Ministerio de Relaciones Exteriores, Direccion de Medio Ambiente (DIMA), Catedral 1143, 2° Piso, Santiago, Chile, Telephone: +56 (2) 679 4720, Facsimile: +56 (2) 673 2152, E-mail: mlcarvallo@minrel.gov.cl.

(b) Bureau of Oceans and International Environmental and Scientific Affairs, US Department of State, Washington, DC 20520, USA, Telephone: +1 (202) 647 3262, Facsimile: +1 (202) 647 1106.

2. Organisation(s) conducting CEMP studies at the site.

(a) Ministerio de Relaciones Exteriores, Instituto Ant´rtico Chileno, Plaza Muñoz Gamero 1055, Punta Arenas, Chile, Telephone: +56 (61) 29 8100, Facsimile: +56 (61) 29 8149, E-mail: dtorres@inach.cl.

(b) U.S. Antarctic Marine Living Resources Program, National Marine Fisheries Service, NOAA, Southwest Fisheries Science Center, PO Box 271, La Jolla, Ca 92038, USA, Telephone: +1 (858) 546 5601, Facsimile: +1 (858) 546 5608, E-mail: rennie.holt@noaa.gov.

Annex 91-02/A

Cape Shirreff, Appendix 1

Code of Conduct for the Cape Shirreff CEMP Protected Area

Investigators should take all reasonable steps to ensure that their activities, both in implementing their scientific protocols as well as in maintaining a field camp, do not unduly harm or alter the natural behaviour and ecology of wildlife. Wherever possible, actions should be taken to minimise disturbance of the natural environment. Killing, capturing, handling and taking eggs, blood, or other biological samples from pinniped and seabirds should be limited to that necessary to characterise and monitor individual and population parameters that may change in detectable ways in response to changes in food availability or other environmental factors. Sampling should be done and reported in accordance with: (i) The Agreed Measures for the Conservation of Antarctic Fauna and Flora and the Protocol on Environmental Protection, (ii) the Convention for the Conservation of Antarctic Seals, and (iii) the Convention for the Conservation of Antarctic Marine Living Resources. Geological, glaciological and other studies which can be done outside of the pinniped and seabird breeding season, and which will not damage or destroy pinniped or seabird breeding areas, or access to those areas, would not adversely affect the planned assessment and monitoring studies. Likewise, the planned assessment and monitoring studies would not be affected adversely by periodic biological surveys or studies of other species which do not result in killing, injuring, or disturbing pinnipeds or seabirds, or damage or destroy pinnipeds or seabird breeding areas or access to those areas.

Annex 91-02/A

Cape Shirreff, Appendix 2

Background Information Concerning Cape Shirreff

Prior to 1819, there were substantial colonies of fur seals, and possibly elephant seals, throughout the South Shetland Islands archipelago. Thereafter, Cape Shirreff was the scene of more intensive sealing activities until about 1825. Sealers' refuges were erected all around the western shores of Livingston Island, with those on the south coast being occupied mainly by American sealers and those on the north coast by British sealers. There were about 60 to 75 men living ashore at Cape Shirreff in January 1821 (Stackpole, 1955) and 95 000 skins were taken during the 1821/22 season (O'Gorman, 1963). There are ruins of at least 12 sealers' huts on the cape and the shoreline in several bays is littered with timbers and sections of wrecked sealers' vessels (Torres, 1995). The outcome of the sealing of the early 1820s was the extermination of fur seals from the entire region. Antarctic fur seals were not observed again in the South Shetland Islands until 1958, when a small colony was discovered at Cape Shirreff, Livingston Island (O'Gorman, 1961). The original colonisers probably came from South Georgia, where surviving fur seal colonies had substantially recovered by the early 1950s. Chilean studies at the site began in 1965 (e.g. Aguayo and Torres, 1967, 1968) and U.S. studies began in 1996 (e.g. Martin, 1998). At present, the fur seal rookeries at Cape Shirreff and the San Telmo Islands are the largest in the South Shetland Islands.

Annex 91-02/A

Cape Shirreff, Appendix 3

History of Protection at Cape Shirreff

Cape Shirreff was designated in 1966 as Specially Protected Area (SPA) No. 11 by ATCM Recommendation IV-11 ‘on the grounds that the cape supports a considerable diversity of plant and animal life, including many invertebrates, that a substantial population of elephant seals (Mirounga leonina) and small colonies of Antarctic fur seals are found on the beaches and that the area is of outstanding interest’. The protection conferred on this site was successful in ensuring that Antarctic fur seals were not disturbed during the important early phases of their recolonisation. Subsequent to the site's designation as a SPA, the locally breeding population of Antarctic fur seals increased to a level at which biological research activities could be undertaken without threatening the continued recolonisation and population increase of this species. Surveys during the mid-1980s to locate study sites for long-term monitoring of fur seal and penguin populations as part of the CCAMLR Ecosystem Monitoring Program (CEMP) indicated that Cape Shirreff would be an excellent site within the Antarctic Peninsula Integrated Study Region. To carry out such a monitoring program safely and effectively, a multi-year field camp for four to six researchers was needed within the area previously designated as SPA No. 11. This might have been considered inappropriate within a SPA and hence a proposal was made in 1988 to redesignate Cape Shirreff as a Site of Special Scientific Interest (SSSI). Additionally, it was proposed substantially to enlarge the site by the inclusion of the San Telmo Islands group, presently the location of the largest fur seal colony in the Antarctic Peninsula region.

Cape Shirreff was redesignated in 1990 as SSSI No. 32 by Recommendation XV-7, which was adopted by the XVth Consultative Meeting of the Antarctic Treaty. It was understood that SSSI No. 32, Cape Shirreff, should be redesignated an SPA (in its enlarged form) if and when the long-term monitoring of fur seals and seabirds at the site should be ended. Chilean and U.S. scientists initiated CEMP studies at Cape Shirreff during the late 1980s, and have collaborated on predator studies at Cape Shirreff since 1996/97. To further protect the site from damage or disturbance that could adversely affect the long-term CEMP monitoring and directed research, in 1991 Cape Shirreff was proposed as a CEMP Protected Area.

Bibliography

Aguayo, A. and D. Torres. 1967. Observaciones sobre mamíferos marinos durante la Vigésima Comisión Antártica Chilena. Primer censo de pinípedos en las Islas Shetland del Sur. Rev. Biol. Mar., 13 (1): 1-57. Aguayo, A. and D. Torres. 1968. A first census of Pinnipedia in the South Shetland Islands and other observations on marine mammals. In: Symposium on Antarctic Oceanography, Santiago, Chile. Scott Polar Research Institute, Cambridge: 166-168. Aguayo, A. and D. Torres. 1993. Análisis de los censos de Arctocephalus gazella efectuados en el Sitio de Especial Interés Científico N° 32, isla Livingston, Antártica. Ser. Cient. INACH, 43: 89-93. Allison, J.S. and R.I.L.-Smith. 1973. The vegetation of Elephant Island, South Shetland Islands. Br. Antarct. Surv. Bull., 33 and 34: 185-212. Anonymous. 1992. Instalaciones del INACH en la Antártica. Bol. Antart. Chileno, 11 (1): 16. Bengtson, J.L., L.M. Ferm, T.J. Härkönen and B.S. Stewart. 1990. Abundance of Antarctic fur seals in the South Shetland Islands, Antarctica, during the 1986/87 austral summer. In: Kerry, K. and G. Hempel (Eds). Antarctic Ecosystems, Proceedings of the Fifth SCAR Symposium on Antarctic Biology. Springer-Verlag, Berlin: 265-270. Croxall, J.P. and E.D. Kirkwood. 1979. The Distribution of Penguins on the Antarctic Peninsula and Islands of the Scotia Sea. British Antarctic Survey, Cambridge: 186 pp. Hucke-Gaete, R., D. Torres and V. Vallejos. 1997. Entanglement of Antarctic fur seals Arctocephalus gazella in marine debris at Cape Shirreff and San Telmo Islets, Livingston Island, Antarctica: 1988-1977. Ser. Cient. INACH, 47: 123-135. Hucke-Gaete, R., D. Torres, A. Aguayo, J. Acevedo, and V. Vallejos. 1999. Trends of Antarctic fur seal populations at SSSI No. 32, Livingston Island, South Shetlands, Antarctica. Document WG-EMM-99/16. CCAMLR, Hobart, Australia. Laws, R.M. 1973. Population increase of fur seals at South Georgia. Polar Record, 16 (105): 856-858. Lindsay, D.C. 1971. Vegetation of the South Shetland Islands. Br. Antarct. Surv. Bull., 25: 59-83. Martin, J. (Ed.). 1998. AMLR 1997/98 Field Season Report. Southwest Fisheries Science Center Administrative Report LJ-98-07: 161 pp. Martin, J. (Ed.). 1999. AMLR 1998/99 Field Season Report. Southwest Fisheries Science Center Administrative Report LJ-99-10: 158 pp. O'Gorman, F.A. 1961. Fur seals breeding in the Falkland Islands Dependencies. Nature, Lond., 192: 914-916. O'Gorman, F.A. 1963. The return of the Antarctic fur seal. New Scientist, 20: 374-376. Sallaberry, M. and R. Schlatter. 1983. Estimación del número de pinguinos en el Archipiélago de las Shetland del Sur. Ser. Cient. INACH, 30: 87-91. SHOA, 1994. Carta N° 14301, Escala 1: 15.000, cabo Shirreff, isla Livingston (Territorio Chileno Antártico). Servicio Hidrográfico y Oceanográfico de la Armada de Chile. Shuford, W.D. and L.B. Spear. 1987. Surveys of breeding penguins and other seabirds in the South Shetland Islands, Antarctica, January-February 1987. Report to the U.S. National Marine Fisheries Service. Smith, R.I.L. 1984. Terrestrial plant biology. In: Laws, R.M. (Ed.). Antarctic Ecology. Academic Press. Sömme, L. 1985. Terrestrial habitats—invertebrates. In: Bonner, W.N. and D.W.H. Walton (Eds). Antarctica. Pergamon Press. Stackpole, E.A. 1955. The voyage of the Huron and the Huntress: the American sealers and the discovery of the continent of Antarctica. The Marine Historical Association, Inc., Mystic, Conn., 29: 1-86. Torres, D. 1995. Antecedentes y proyecciones cientÍficas de los estudios en el SEIC N° 32 y sitio CEMP ‘cabo Shirreff e islotes San Telmo’, isla Livingston, Antártica. Ser. Cient. INACH, 45: 143-169.

Torres, D. and D. Jorquera. 1995. Línea base para el seguimiento de los desechos marinos en cabo Shirreff, isla Livingston, Antártica. Ser. Cient. INACH, 45: 131-141. Torres, D. and D. Jorquera. 1999. Synthesis of marine debris survey at Cape Shirreff, Livingston Island, during the Antarctic season 1998/99. Document CCAMLR-XVIII/BG/39. CCAMLR, Hobart, Australia. Torres, D., V. Vallejos, J. Acevedo, R. Hucke-Gaete and S. Zárate. 1998. Registros biológicos atípicos en cabo Shirreff, isla Livingston, Antártica. Bol. Antárt. Chileno, 17 (1): 17-19.

Figures 1 and 2: These maps show the general position of Cape Shirreff and the San Telmo Islands CEMP Protected Area (Figure 1) and the location of the CEMP Protected Area in elation to the northwestern portion of Livingston Island.

Figure 3: This map shows a detailed view of the Cape Shirreff and the San Telmo Islands CEMP Protected Area. Note that the boundaries of the CEMP Protected Area are identical to the boundaries of Site of Special Scientific Interest No. 32, which is protected under the Antarctic Treaty.

Conservation Measure 91-03 (2004)

Protection of the Seal Islands CEMP Site

Species all

Area 48.1

1. The Commission noted that a program of long-term studies is being undertaken at Seal Islands, South Shetland Islands, as part of the CCAMLR Ecosystem Monitoring Program (CEMP). Recognising that these studies may be vulnerable to accidental or wilful interference, the Commission expressed its concern that this CEMP site, the scientific investigations, and the Antarctic marine living resources therein be protected.

2. Therefore, the Commission considers it appropriate to accord protection to the Seal Islands CEMP site, as defined in the Seal Islands management plan.

3. Members are required to comply with the provisions of the Seal Islands CEMP site management plan, which is recorded in Annex 91-03/A.

4. In accordance with Article X, the Commission shall draw this conservation measure to the attention of any State that is not a Party to the Convention and whose nationals or vessels are present in the Convention Area.

Annex 91-03/A

Management Plan for the Protection of Seal Islands, South Shetland Islands, as a Site Included in the CCAMLR Ecosystem Monitoring Program ²

A. Geographical Information

1. Description of the site:

(a) Geographical coordinates: The Seal Islands are composed of small islands and skerries located approximately 7 km north of the northwest corner of Elephant Island, South Shetland Islands. The Seal Islands CEMP Protected Area includes the entire Seal Islands group, which is defined as Seal Island plus any land or rocks exposed at mean low tide within a distance of 5.5 km of the point of highest elevation on Seal Island. Seal Island is the largest island of the group, and is situated at 60°59′14″ S, 55°23′04″ W (coordinates are given for the point of highest elevation on the island—see Figures 1 and 2).

(b) Natural features: The Seal Islands cover an area approximately 5.7 km from east to west and 5 km from north to south. Seal Island is approximately 0.7 km long and 0.5 km wide. It has an altitude of about 125 m, with a raised plateau at about 80 m, and precipitous cliffs on most coastlines. There is a raised, sandy beach on the western shore and several coves on the northern and eastern shores. Seal Island is joined to the adjacent island to the west by a narrow sand bar that is approximately 50 m long; the bar is rarely passable on foot, and only when seas are calm and the tide is very low. Other islands in the group are similar to Seal Island, with precipitous cliffs, exposed coasts, and a few sand beaches and protected coves. There is no permanent ice on any of the islands. Seal Island is mainly composed of poorly consolidated sedimentary rocks. Rocks crumble and fracture easily, resulting in prevalent erosion from water runoff and coastal wave action. Geologists have characterised the bedrock ‘pebbly mudstone’. No fossils have been reported from the site. Because colonies of penguins are present in virtually all sectors of Seal Island (including the summit), the soil in many areas as well as several vertical rock faces are enriched by guano.

(c) Boundary markers: As of 1997, no man-made boundary markers indicating the limits of the protected area had been established. The boundaries of the site are defined by natural features (i.e. coastlines).

(d) Natural features that define the site: The Seal Islands CEMP Protected Area includes the entire Seal Islands group (see Section A.1(a) for definition). No buffer zones are defined for the site.

(e) Access points: The site may be accessed by boat or aircraft at any point where pinnipeds and seabirds will not be adversely affected (see Sections D.1 and D.2). Access by small boat is recommended in most circumstances because the number of beach landing spots for helicopters (which must approach these spots by flying over water rather than over land) is very limited. There are no landing sites for fixed-winged aircraft.

² As adopted at CCAMLR-XVI (paragraphs 9.67 and 9.68), and revised at CCAMLR-XIX (paragraph 9.9).

(f) Pedestrian and vehicular routes: Pedestrians should follow the advice of the local scientists in selecting pathways which will minimise disturbance to wildlife (see Section D.2(d)). Land vehicles are not permitted except in the immediate vicinity of the field camp and the beach (see Section D.2(c)).

(g) Preferred anchorages: Numerous shoals and pinnacles are known to exist in the vicinity of the Seal Islands, and navigation charts of the area are incomplete. Most ships visiting the area recently have preferred an anchorage spot approximately 1.5 km to the southeast of Seal Island (Figure 2), which has a rather consistent depth of approximately 18 m. A second anchorage utilised by smaller vessels is located approximately 0.5 km to the northeast of Seal Island (Figure 2) at a depth of about 20 m. Organisation(s) conducting CEMP studies at the site can provide further details about sailing instructions pertaining to these anchorages (see Section E.2).

(h) Location of structures within the site: As of March 1999 no structures remained on Seal Island. Between 1996 and 1999, all structures were dismantled and retrograded from the island.

(i) Areas within the site where activities are constrained: The protection measures specified in Section D apply to all areas within the Seal Islands Protected Area, as defined in Section A.1(d).

(j) Location of nearby scientific research or refuge facilities: The nearest research facility to the site is the scientific field camp maintained by the Brazilian government at Stinker Point, Elephant Island (61°04′ S, 55°21′ W), which is approximately 26 km south of Seal Island. However in some years this site is not occupied. Numerous scientific stations and research facilities are located on King George Island, which is approximately 215 km southwest of Seal Island.

(k) Areas or sites protected under the Antarctic Treaty System: No areas or sites within or near (i.e. within 100 km) the Seal Island Protected Area have been accorded protected status in accordance with measures adopted under the Antarctic Treaty or other components of the Antarctic Treaty System which are in force.

2. Maps of the site:

(a) Figure 1 shows the geographical position of the Seal Islands in relation to major surrounding features, including the South Shetland Islands and adjacent bodies of water.

(b) Figure 2 illustrates the location of the entire Seal Islands archipelago and preferred vessel anchorages. The detailed insert of Seal Island in Figure 2 shows the location of structures associated with CEMP studies and the location of the point of highest elevation (indicated by a cross).

B. Biological Features

1. Terrestrial: There is no information on soil biology at Seal Island but it is likely that similar types of plants and invertebrates are found as at other sites in the South Shetland Islands. Lichens are present on stable rock surfaces. There is no evidence of well-developed moss or grass banks being present on Seal Island.

2. Inland waters: There are no known lakes or ephemeral ponds of significance on Seal Island.

3. Marine: No studies on littoral communities have been carried out.

4. Birds: Seven species of birds are known to breed on the Seal Islands: chinstrap penguins (Pygoscelis antarctica), macaroni penguins (Eudyptes chrysolophus), Cape petrels (Daption capense), Wilson's storm petrels (Oceanites oceanicus), southern giant petrels (Macronectes giganteus), southern black-backed gulls (Larus dominicanus) and American Sheathbills (Chionis alba). The chinstrap penguin population on Seal Island numbers approximately 20 000 breeding pairs, nesting in about 60 colonies throughout the island. About 350 pairs of macaroni penguins nest on Seal Island in five separate colonies. The nesting and chick-rearing period for chinstrap and macaroni penguins at Seal Island extends from November to March. No surveys have been made of Cape petrel or storm petrel populations, however, both species are numerous; the Cape petrels nest on cliff faces and the storm petrels nest in burrows in the talus slopes. Brown skuas (Catharacta lönnbergi) are common. Blue-eyed shags (Phalacrocorax atriceps), Adélie penguins (Pygoscelis adeliae), gentoo penguins (Pygoscelis papua), king penguins (Aptenodytes patagonicus) and rockhopper penguins (Eudyptes chrysocome) are among the avian visitors to the area.

5. Pinnipeds: Five species of pinnipeds have been observed at Seal Island: Antarctic fur seals (Arctocephalus gazella), southern elephant seals (Mirounga leonina), Weddell seals (Leptonychotes weddellii), leopard seals (Hydrurga leptonyx) and crabeater seals (Lobodon carcinophagus). Of these, fur seals are the only confirmed breeders on the island, although small numbers of elephant seals probably breed on the island early in the spring. During the last few years approximately 600 fur seal pups have been born in the Seal Islands group, with approximately half of these born on Seal Island and half on Large Leap Island (Figure 2). The fur seal pupping and pup-rearing period at Seal Island extends from late November to early April. During the austral summer, elephant seals are ashore during their moult period; Weddell seals regularly haul out on the beaches; crabeater seals are infrequent visitors; and leopard seals are common both ashore and in coastal waters where they prey on penguins and fur seal pups.

C. CEMP Studies

1. The presence at the Seal Islands of both Antarctic fur seal and penguin breeding colonies, as well as significant commercial krill fisheries within the foraging range of these species make this an excellent site for inclusion in the CEMP network of sites established to help meet CCAMLR objectives. However, recent geological assessments of Seal Island have indicated that soil composition of cliff areas above and around the camp site are unstable and might result in catastrophic failure during periods of intense rainfall. Therefore, in 1994 the AMLR Program terminated its research at Seal Island and between 1996 and 1999 dismantled and retrograded all camp and observation blind structures.

2. No CEMP studies are being conducted at Seal Island and the USA has no plans to occupy the site in the future except to conduct seal and bird censuses.

D. Protection Measures

1. Prohibited activities and temporal constraints:

(a) Throughout the site at all times of the year. Any activities which damage, interfere with, or adversely affect CEMP monitoring and directed research which potentially could be conducted at this site are not permitted.

(b) Throughout the site at all times of the year. Any non-CEMP activities are not permitted which result in:

(i) Killing, injuring, or disturbing pinnipeds or seabirds;

(ii) Damaging or destroying pinniped or seabird breeding areas; or

(iii) Damaging or destroying the access of pinnipeds or seabirds to their breeding areas.

(c) Throughout the site at defined parts of the year: Human occupation of the site during the period 1 June to 31 August is not permitted except under emergency circumstances.

(d) In parts of the site at all times of the year: Building structures within the boundaries of any pinniped or seabird colony is not permitted. For this purpose, colonies are defined as the specific locations where pinniped pups are born or where seabird nests are built. This prohibition does not pertain to placing markers (e.g. numbered stakes, posts etc.) or situating research equipment in colonies as may be required to facilitate scientific research.

(e) In parts of the site at defined parts of the year: Entry into any pinniped or seabird colonies during the period 2 September to 31 May is not permitted except in association with CEMP activities.

2. Prohibitions regarding access to and movement within or over the site:

(a) Entry of the site at locations where pinniped or seabird colonies are present in the immediate vicinity is not permitted.

(b) Aircraft overflight of the site is not permitted at altitudes less than 1 000 m unless the proposed flight plan has been reviewed in advance by the organisation(s) conducting CEMP activities at the site (see Section E.2).

(c) The use of land vehicles is not permitted except to transport equipment and supplies to and from the field camp.

(d) Pedestrians are not permitted to walk through areas used regularly by pinnipeds and seabirds (i.e. colonies, resting areas, pathways) or to disturb other fauna or flora, except as necessary to conduct authorised research.

3. Prohibitions regarding structures:

(a) New structures are not permitted to be built within the site unless the proposed plans have been reviewed in advance by the organisation(s) conducting CEMP activities at the site (see Section E.2).

(b) Building structures other than those directly supporting CEMP directed scientific research and monitoring activities or to house personnel and/or their equipment is not permitted.

(c) Human occupation of these structures is not permitted during the period 1 June to 31 August (see Section D.1(c)).

4. Prohibitions regarding waste disposal:

(a) Landfill disposal of non-biodegradable materials is not permitted; non-biodegradable materials brought to the site are to be removed when no longer in use.

(b) Disposal of waste fuels, volatile liquids and scientific chemicals within the site is not permitted; these materials are to be removed from the site for proper disposal elsewhere.

(c) The burning of any non-organic materials or the open burning of any materials is not permitted (except for properly used fuels for heating, lighting, cooking or electricity).

5. Prohibitions regarding the Antarctic Treaty System:

It is not permitted to undertake any activities in the Seal Islands CEMP Protected Area which are not in compliance with the provisions of: (i) the Antarctic Treaty, including the Agreed Measures for the Conservation of Antarctic Fauna and Flora; (ii) the Convention on the Conservation of Antarctic Seals; and (iii) the Convention on the Conservation of Antarctic Marine Living Resources.

E. Communications Information

1. Organisation(s) appointing national representatives to the Commission: Bureau of Oceans and International Environmental and Scientific Affairs, US Department of State, Washington, DC 20520, USA, Telephone: +1 (202) 647 3262, Facsimile: +1 (202) 647 1106.

2. Organisation(s) which potentially might conduct CEMP studies at the site: US Antarctic Marine Living Resources Program, Southwest Fisheries Science Center, National Marine Fisheries Service, NOAA, PO Box 271, La Jolla, Ca. 92038, USA, Telephone: +1 (858) 546 5601, Facsimile: +1 (858) 546 5608.

Annex 91-03/A

Seal Islands, Appendix 1

Code of Conduct for the Seal Islands, Antarctica

Investigators should take all reasonable steps to ensure that their activities, both in implementing their scientific protocols as well as in maintaining a field camp, do not unduly harm or alter the natural behaviour and ecology of wildlife in the Seal Islands. Wherever possible, actions should be taken to minimise disturbance of the natural environment. Capturing, handling, killing, photographing and taking eggs, blood or other biological samples from pinnipeds and seabirds should be limited to that necessary to provide essential background information or to characterise and monitor individual and population parameters that may change in detectable ways in response to changes in food availability or other environmental factors. Sampling should be done and reported in accordance with: (i) The Antarctic Treaty, including the Agreed Measures for the Conservation of Antarctic Fauna and Flora; (ii) the Convention for the Conservation of Antarctic Seals; and (iii) the Convention on the Conservation of Antarctic Marine Living Resources. Geological and other studies which can be done inside of the pinniped and seabird breeding seasons in such a way as they do not damage or destroy pinniped or seabird breeding areas, or access to those areas, would be permitted as long as they would not adversely affect the planned assessment and monitoring studies. Likewise, the planned assessment and monitoring studies would not be affected adversely by periodic biological surveys or studies of other species which do not result in killing, injuring or disturbing pinnipeds or seabirds, or damage or destroy pinnipeds or seabird breeding areas or access to those areas.

Annex 91-03/A

Seal Islands, Appendix 2

Background Information Concerning the Seal Islands, Antarctica

Prior to 1819, there were substantial colonies of fur seals, and possible elephant seals, throughout the South Shetland Islands archipelago. Thereafter, commercial exploitation increased and, by the mid-1820s, fur seal breeding colonies had been completely destroyed throughout the South Shetland Islands (Stackpole, 1955; O'Gorman, 1963). Antarctic fur seals were not observed again in the South Shetland Islands until 1958, when a small colony was discovered at Cape Shirreff, Livingston Island (O'Gorman, 1961). The original colonisers probably came from South Georgia where surviving fur seal colonies had substantially recovered by the early 1950s. At present, the fur seal rookeries in the Seal Islands group are the second largest in the South Shetland Islands, with the largest rookeries being at Cape Shirreff and Telmo Islands, Livingston Island (Bengtson et al., 1990). During the past three decades, the population of Antarctic fur seals in the South Shetland Islands grew to a level at which tagging or other research could be undertaken at selected locations without threatening the population's continued existence and growth. During the 1986/87 austral summer, researchers from the USA surveyed areas on the South Shetland Islands and the Antarctic Peninsula to identify fur seal and penguin breeding colonies that might be suitable for inclusion in the network of CEMP monitoring sites being established. The results of that survey (Shuford and Spear, 1987; Bengtson et al., 1990), suggested that the Seal Island area would be an excellent site for long-term monitoring of fur seal and penguin colonies that might be affected by fisheries in the Antarctic Peninsula Integrated Study Region. To safely and effectively carry out a long-term monitoring program, a temporary, multi-year field camp for a small group of researchers was established on Seal Island. This camp was occupied annually by U.S. scientists during the austral summer (approximately December to February) between 1986/87 and 1993/94. Because of the geological assessment that the cliff areas above and around the camp site are unstable and might result in catastrophic failure during periods of intense rainfall, the camp was closed. Between 1995/96 and 1998/99 all buildings, equipment, and supplies were retrograded from the island. In 1991, to protect the site from damage or disturbance that could adversely affect the long-term CEMP monitoring and directed research which were being conducted and planned for the future, the Seal Islands were proposed as a CEMP Protected Area. At its 1997 meeting (SC-CAMLR-XVI, paragraphs 4.17 to 4.20), the CCAMLR Scientific Committee reviewed the status of the Seal Island CEMP site management plan. Based on the expectation that research at the site would end, the Scientific Committee agreed that site protection would be extended for five years.

Bibliography

Bengtson, J.L., L.M. Ferm, T.J. Hárkönen and B.S. Stewart. 1990. Abundance of Antarctic fur seals in the South Shetland Islands, Antarctica, during the 1986/87 austral summer. In: Kerry, K. and G. Hempel (Eds). Antarctic Ecosystems, Proceedings of the Fifth SCAR Symposium on Antarctic Biology. Springer-Verlag, Berlin: 265-270. O'Gorman, F.A. 1961. Fur seals breeding in the Falkland Island Dependencies. Nature, Lond., 192: 914-916. O'Gorman, F.A. 1963. The return of the Antarctic fur seal. New Scientist, 20: 374-376. Shuford, W.D. and L.B. Spear. 1987. Surveys of breeding penguins and other seabirds in the South Shetland Islands, Antarctica, January-February 1987. Report of the U.S. National Marine Fisheries Service. Stackpole, E.A. 1955. The voyage of the Huron and the Huntress: the American sealers and the discovery of the continent of Antarctic. The Marine Historical Association, Inc., Mystic, Conn., 29: 1-86.

Resolution 21/XXIII

Electronic Catch Documentation Scheme for Dissostichus spp.

Species toothfish

Area all

Season all

Gear all

The Commission, Noting the successful implementation of the trial electronic Catch Documentation Scheme for Dissostichus spp. (E-CDS) during the intersessional period, Desiring to ensure that Dissostichus Catch Documents are handled in the most efficient and timely way, Aware of the importance of applying the best technologies to make the functioning of the Catch Documentation Scheme for Dissostichus spp. (CDS) more secure against, inter alia, possible fraudulent activities; Noting that, whilst paper-based Dissostichus Catch Documents will, for the time being, also be retained, some Contracting Parties are already converting to electronic systems,

1. Urges Contracting Parties, and non-Contracting Parties cooperating in the CDS, to adopt the E-CDS as a matter of priority.

2. Requests the Secretariat to compile information relating to, and submit a report on, the implementation of the E-CDS so that the effectiveness of the electronic scheme can be reviewed at the next meeting of the Commission.

Resolution 22/XXIII

International Actions To Reduce the Incidental Mortality of Seabirds Arising From Fishing

Species toothfish

Area all

Season all

Gear all

The Commission, Recollecting ¹ that together with the potential impact of illegal, unregulated and unreported (IUU) fishing for toothfish within the Convention Area, the greatest current threat to species and populations of Southern Ocean seabirds breeding in the Convention Area is mortality in longline fisheries in waters outside the Convention Area,

Noting that the seabirds caught are almost entirely albatrosses and petrels and of species which are threatened with global extinction ², Concerned at increasing evidence of incidental mortality of seabirds in trawl fisheries, especially in waters outside the Convention Area ³, Noting the substantial reduction ⁴ of incidental mortality of seabirds in the Convention Area as a result of conservation measures implemented by the Commission, Concerned that, despite such measures, many populations of albatross species breeding in the Convention Area continue to decline ⁵,

Noting reports of substantial levels and rates of incidental mortality of seabirds breeding in the Convention Area in longline fisheries in waters outside the Convention Area ⁶,

Recognising that fisheries in high-seas waters outside the Convention Area are regulated by regional fishery management organisations (RFMOs), Recalling repeated attempts to communicate these concerns to RFMOs ⁷,

1. Invites listed RFMOs (Appendix 1) to implement or develop, as appropriate, mechanisms to require the collection, reporting and dissemination of data on incidental mortality of seabirds, particularly:

(i) Rates of incidental mortality of seabirds associated with each fishery, details of the seabird species involved, and estimates of total seabird mortality (at least at the scale of FAO area);

(ii) Measures to minimise or avoid mortality of seabirds that are in use in each fishery and the extent to which any of these are voluntary or mandatory, together with an assessment of their effectiveness;

(iii) The nature of scientific observer programs, including observer coverage, associated with each fishery.

2. For areas where such mechanisms are currently unavailable or where systematic data reporting has not commenced, requests Flag States conducting longline fishing (or other fishing methods) outside the Convention Area, which incidentally take seabirds of species breeding in the Convention Area, to provide the CCAMLR Secretariat with summary data as specified in paragraph 1 above.

3. Urges Members that are also members of listed RFMOs to:

(i) Request that the topic of seabird incidental mortality be included on the agenda of pertinent meetings of each RFMO and, where appropriate, to send relevant experts to these meetings;

(ii) Identify those areas and circumstances within the listed RFMOs where incidental mortality of seabirds occurs;

(iii) Identify those mitigation measures which would be most effective at reducing or eliminating such mortality and to require such measures to be implemented in the relevant fisheries.

4. Encourages Flag States involved with new and developing RFMOs to request that incidental mortality of seabirds (and other by-catch taxa as appropriate) is adequately addressed and mitigated. Appropriate initiatives might include:

(i) Establishment or expansion of existing observer programs and adoption of appropriate data collection protocols on seabird incidental mortality;

(ii) Establishment of by-catch working groups that will address incidental mortality issues and make recommendations for suitable, practicable, and effective mitigation measures, including evaluation of established and innovative technologies and techniques;

(iii) Evaluations of fishery impacts on the affected seabird populations;

(iv) Cooperate (e.g. on data exchange) with listed RFMOs.

¹ CCAMLR-XX, paragraph 6.33; SC-CAMLR-XX, paragraph 4.73; SC-CAMLR-XXII, Annex 5, paragraph 6.273

² SC-CAMLR-XXIII/BG/22; SC-CAMLR-XXII, paragraph 5.26 and Annex 5, paragraphs 6.138 to 6.145

³ SC-CAMLR-XXII, Annex 5, paragraphs 6.248 and 6.250

⁴ CCAMLR-XXIII, paragraph 5.2(i); SC-CAMLR-XXIII, paragraph 5.46(i) and Annex 5, Table 6.3

⁵ CCAMLR-XXIII, paragraph 5.1; SC-CAMLR-XXIII, paragraphs 5.46(viii) and 5.20(v) and Annex 5, paragraphs 7.151 and 7.152

⁶ SC-CAMLR-XXII, Annex 5, paragraph 6.130; SC-CAMLR-XXIII, paragraph 5.19 and Annex 5, paragraphs 7.124 to 7.128;

⁷ CCAMLR-XXI, paragraph 6.16; SC-CAMLR-XXI, paragraphs 5.30 to 5.34; CCAMLR-XXII, paragraph 5.17; SC-CAMLR-XXII, paragraph 5.28 and Annex 5, paragraphs 6.177 and 6.178; SC-CAMLR-XXIII, paragraphs 5.21(iii) and 5.48(iv) and Annex 5, paragraphs 7.165 and 7.166

Appendix 1—Regional Fisheries Management Organisations Identified for Contact With Respect To Tasks on the Mitigation of By-Catch of Southern Ocean Seabirds

Inter-American Tropical Tuna Commission (I-ATTC)

International Commission for the Conservation of Atlantic Tunas (ICCAT)

South East Atlantic Fisheries Organisation (SEAFO)

Indian Ocean Tuna Commission (IOTC)

Commission for the Conservation of Southern Bluefin Tuna (CCSBT)

Agreement on the Organization of the Permanent Commission on the Exploitation and Conservation of the Marine Resources of the South Pacific, 1952 (CPPS)

Southwest Indian Ocean Fisheries Commission (SWIOFC)—when it is established

The Fourth Intergovernmental Consultation on the establishment of the Southwest Indian Ocean Fisheries Commission was held in Mahe, Seychelles, from 13 to 16 July 2004.

Commission for Highly Migratory Species in the Central and Western Pacific (WCPFC)

The Convention, establishing WCPFC has entered in force on 19 June 2004. The Commission does not yet exist as functioning body.

Western Indian Ocean Tuna Organization Convention (WIOTO)

The organization does not have regulatory power.

Resolution 23/XXIII

Safety on Board Vessels Fishing in the Convention Area

Species all

Area all

Season all

Gear all

The Commission, Recognising the difficult and dangerous conditions experienced in high-latitude fisheries in the Convention Area,

Further considering the remoteness of those waters and in consequence the difficulties of seach and rescue response,

Desiring to ensure that the safety of fishing crews and CCAMLR scientific observers remains a priority concern of all Members,

Urges Members to take particular measures through, inter alia, appropriate survival training and the provision and maintenance of appropriate equipment and clothing to promote the safety of all those on board vessels fishing in the Convention Area.

Dated: January 12, 2005.
Margaret F. Hayes,
Director, Office of Oceans Affairs, Department of State.

[FR Doc. 05-1223 Filed 1-25-05; 8:45 am]

BILLING CODE 3510-22-P